DEPARTMENT OF HEALTH AND HUMAN SERVICES

Health Resources and Services Administration

Availability of Funds Announced in the HRSA Preview

AGENCY: Health Resources and Services Administration, HHS.

ACTION: General Notice.

SUMMARY: Health Resources and Services Administration (HRSA) announces the availability of funds in the HRSA Preview for Summer 2002. This edition of the HRSA Preview is a comprehensive review of HRSA's Fiscal Year 2003 competitive grant programs.

The purpose of the HRSA Preview is to provide the general public with a single source of program and application information related to the Agency's competitive grant offerings. The HRSA Preview is designed to replace the multiple Federal Register notices that traditionally advertised the availability of HRSA's discretionary funds for its various programs. It should be noted that additional program initiatives responsive to new or emerging issues in the health care area and unanticipated at the time of publication of the HRSA Preview may be announced through the Federal Register and the HRSA Web site, http://www.hrsa.gov/grants.htm This notice does not change requirements appearing elsewhere in the Federal Register.

This notice contains nearly all of the content of the HRSA Preview. The HRSA Preview contains a description of competitive and other grant programs scheduled for awards in Fiscal Year 2003, and includes instructions on how to contact the Agency for information and receive application kits for all programs. Specifically, the following information is included in the HRSA Preview: (1) Program announcement number; (2) program announcement title; (3) program announcement code; (4) legislative authority; (5) Catalog of Federal Domestic Assistance (CFDA) identification number; (6) purpose; (7) eligibility; (8) funding priorities and/or preferences; (9) estimated dollar amount of competition; (10) estimated number of awards; (11) estimated project period; (12) application availability date; (13) letter of intent deadline (if any); (14) application deadline; (15) projected award date; and (16) programmatic contact, with telephone and e-mail addresses. Certain other information, including how to obtain and use the HRSA Preview and grant terminology, can also be found in the HRSA Preview.

In Fiscal Year 2003, HRSA will begin accepting grant applications online. Please refer to the HRSA Grant Schedule at http://www.hrsa.gov/grants/ for more information.

Dated: August 2, 2002.
Elizabeth M. Duke,
Administrator.

This notice describes funding for the following HRSA discretionary authorities and programs (receipt deadlines are also provided):

Bureau of Health Professions:
Field Experiences In Public Health Nursing In State And Local Health Departments For Baccalaureate Nursing Students (BHNBN) | 11/04/2002
Training In Primary Care Medicine And Dentistry (DRPC) | (¹)
Dental Public Health Residency Training Grants (DPHT) | 09/30/2002
Podiatric Residency Training In Primary Care (PODPC) | 09/30/2002
Basic Nurse Education And Practice Grants (BNEP) | 12/16/2002
Nurse Anesthetist Traineeships (NATR) | 11/15/2002
Advanced Education Nursing Traineeships (AENT) | 11/15/2002
Nursing Workforce Diversity Grants (NWD) | 12/06/2002
Advanced Education Nursing Grants (AENP) | 12/13/2002
Geriatric Nursing Knowledge And Experiences In Long Term Care Facilities For Nursing Students (BNEP) | 11/04/2002
Health Careers Opportunity Program (HCOP) | 02/24/2003
Centers Of Excellence (COES) | 01/17/2003
Basic/Core Area Health Education Centers (BAHEC) | 11/25/2002
Model State-Supported Area Health Education Centers (MAHEC) | 11/25/2002
Health Administration Traineeships And Special Projects (HATR) | 12/11/2002
Public Health Traineeships (PHTR) | 12/09/2002
Geriatric Education Centers (GECS) | 01/27/2003
Geriatric Training For Physicians, Dentists, And Behavioral And Mental Health Professionals (GTPD) | 12/16/2002
Geriatric Academic Career Awards (GACA) | 02/03/2003
Quentin N. Burdick Program For Rural Interdisciplinary Training (QBRH) | 01/10/2003
Allied Health Projects (AHPG) | 01/13/2003
Chiropractic Demonstration Project Grants (CHIRO) | 03/31/2003
Grants To States For Loan Repayment Programs (SLRP) | 05/15/2003
Cooperative Agreement For A Regional Center For Health Workforce Studies (RCHWS) | 01/21/2003
Special Programs for Individuals:
NHSC Scholarship Program (NHSCS) | 03/28/2003
National Health Service Corps Loan Repayment Program (NHSCL) | 03/28/2003
Faculty Loan Repayment Program (FLRP) | 05/30/2003
Scholarships For Disadvantaged Students (SDS) | 12/17/2002
Nursing Education Loan Repayment Program (NELRP) | 01/31/2003
Bureau of Primary Health Care:
Community And Migrant Health Centers (CMHS) | (¹)
Health Care For The Homeless (HCH) | (¹)
Public Housing Primary Care (PHPC) | (¹)
Healthy Schools, Healthy Communities (HSHC) | (¹)
New Delivery Sites And New Starts In Programs Funded Under The Health Centers Consolidation Act (NDSCS) | (¹)
Increase In Medical Capacity In Programs Funded Under The Health Care Consolidation Act Of 1996 (IMCHC) | 02/01/2003
National Health Center Technical Assistance Cooperative Agreement (NAT) | (¹)
Increase In Mental Health And Substance Abuse, Oral Health, Care Management, And Pharmacy Services In Programs Funded Under The Health Centers Consolidation Act Of 1996 (IMHSA) | 02/01/2003
Radiation Exposure Screening And Education Program (RESEP) | 05/01/2003
Community Access Program (CAP) | 06/01/2003
Integrated Services Development Initiative/Shared Integrated Management Information Systems (IS) | (¹)
State Primary Care Associations Supplemental Funding For Managing Health Center Growth And Quality (PCO) | 12/01/2002
HIV/AIDS Bureau:
AIDS Education And Training Centers' National Clinicians' Consultation Center (AETCC) | 06/01/2003
Grants For Coordinated Services And Access To Research For Children, Youth, Women And Their Families (CSCYW) | 02/14/2003
Funding For Early Intervention Services Grants: Existing Geographic Service Areas (EIEGS) | 10/01/2002 04/01/2003
HIV Services Planning Grants (SPG) | 04/04/2003
Ryan White Care Act Capacity Building Grants (RWCBG) | 04/04/2003
Special Projects Of National Significance—Models Of Comprehensive Care For Caribbeans Living In The United States (SPCCL) | 03/18/2003
Special Projects Of National Significance—HIV Prevention Initiatives In Primary Care Settings (SPPCS) | 06/30/2003
Telehealth Grant Program (THGP) | 03/17/2003
Maternal and Child Health Bureau:
Genetic Services—Grants To Support Comprehensive Medical Care For Cooley's Anemia/Thalassemia (GSCAT) | 03/18/2003
Promoting Integration Of State Health Information Systems And Newborn Screening Service Systems For Monitoring And Ensuring Quality Services To Newborns And Children With Or At Risk For Heritable Disorders-Cooperative Agreement (ISNSS) | 12/03/2002
National Oral Health Policy Center (OHSD) | 12/16/2002
Integrated Health And Behavioral Health Care For Children, Adolescents And Their Families—Implementation Grants (IHBHC) | 02/10/2003
State Maternal And Child Health Early Childhood Comprehensive Systems Grants (SECCS) | 01/03/2003
Transitioning Healthy Child Care America Programs (THCCA) | 11/01/2002
Leadership Development For Implementation Of Systems Of Care For Children And Youth With Special Health Care Needs (CICS) | 02/14/2003
Screening For Multiple Behavioral Risk Factors During The Preconception Through Postpartum Period (SMBRF) | 01/06/2003
SPRANS Community-Based Abstinence Education Project Grants (CBAE) | 01/21/2003
New Investigators In Maternal And Child Health Research: Dissertation Awards (RDA) | 02/28/2003
Maternal And Child Health Research Program (MCHR) | 08/15/2002 03/03/2003 08/15/2003
Maternal And Child Health Leadership Education In Developmental-Behavioral Pediatrics (BPT) | 12/20/2002
Maternal And Child Health Centers For Leadership In Communication Disorders Education (CDT) | 02/10/2003
Leadership Education Excellence In Maternal And Child Health Nursing (NURT) | 01/17/2003
Leadership Education Excellence In Maternal And Child Health Nutrition (NUTT) | 01/17/2003
Maternal And Child Health (MCH) Centers For Leadership In Public Health Social Work Education (SWT) | 01/17/2003
Continuing Education And Development Collaborative Office Rounds (CECOR) | 12/09/2002
HRSA/MCHB Doctoral Support Training Program: Awards For Enhancement Of Epidemiology Applied To MCH (EPI) | 11/15/2002
Healthy Tomorrows Partnership For Children Program (HTPC) | 11/01/2002
State Systems Development Initiative, Maternal And Child Health Services Federal Set-Aside Program (SSDI) | 03/18/2003
Emergency Medical Services For Children (EMSC) Partnership Demonstration Grants (EMSCP) | 11/12/2002
Emergency Medical Services For Children (EMSC) Regional Symposium Supplemental Grants (EMSCS) | 11/12/2002
Traumatic Brain Injury (TBI) State Implementation Grants (TBII) | 12/02/2002
Traumatic Brain Injury (TBI) State Planning Grants (TBIP) | 12/02/2002
Traumatic Brain Injury (TBI) Post-Demonstration (TBIPD) | 12/02/2002
Poison Control Centers Stabilization And Enhancement Grant Program (PCCSE) | 05/08/2003
Poison Control Centers Stabilization And Enhancement Grant Program, Financial Stabilization Supplemental Grants (PCCFS) | 05/08/2003
Office Of Rural Health Policy:
Rural Health Outreach Grant (RHO) | 09/13/2002 09/12/2003
Rural Health Network Development (RHN) | 09/20/2002 09/19/2003
Office Of Special Programs:
Social And Behavioral Interventions To Increase Organ And Tissue Donation (SBITD) | 03/04/2003
Clinical Interventions To Increase Organ Procurement (CIOP) | 03/18/2003
(¹) Varies.

How To Use and Obtain Copies of the HRSA Preview

It is recommended that you read the introductory materials, terminology section, and individual program category descriptions before contacting the toll-free number: 1-877-HRSA-123 (1-877-477-2123), M-F 8:30 a.m. to 5 p.m. EST. Likewise, we urge applicants to fully assess their eligibility for grants before requesting kits. As a general rule, no more than one kit per category will be mailed to applicants.

To Obtain a Copy of the HRSA Preview

This HRSA Preview will be available in booklet form in the near future. To have your name and address added to or deleted from the HRSA Preview mailing list, call the toll free number above or send a message by e-mail to hrsagac@hrsa.gov.

To Obtain an Application Kit

Applications kits differ depending on the grant program. Determine which kit(s) you wish to receive and call 1-877-477-2123 to be placed on the mailing list. Be sure to provide the information specialist with the Program Announcement Number, Program Announcement Code and the title of the grant program. You may also request application kits using the e-mail address above. Application kits are generally available 60 days prior to application deadline. If kits are available earlier, they will be mailed immediately. The guidance contained in the various kits contains detailed instructions, background on the grant program, and other essential information, such as the applicability of Executive Order 12372 and 45 CFR part 100, and additional information pertinent to the intergovernmental review process, as appropriate.

World Wide Web Access

The HRSA Preview is available on the HRSA home page via the World Wide Web at: www.hrsa.gov/grants.htm. You can download this issue in Adobe Acrobat format.

Application materials are also available for downloading for some HRSA programs. HRSA's goal is to post application forms and materials for all programs in future cycles.

You can register online to be sent grant application materials by following the instructions on the Web page. Your mailing information will be added to our database and materials will be sent to you as they become available.

Grant Terminology

Application Deadlines

Applications will be considered on time if they are received on or before the established deadline, or postmarked on or before the deadline given in the program announcement or in the application kit materials. Applications sent to any address other than that specified in the application guidance are subject to being returned.

Authorization

The citation of the law authorizing the various grant programs is provided immediately following the title of the programs.

CFDA Number

The Catalog of Federal Domestic Assistance (CFDA) is a Government-wide compendium of Federal programs, projects, services, and activities that provide assistance. Programs listed therein are given a CFDA Number.

Cooperative Agreement

A financial assistance mechanism (grant) used when substantial Federal programmatic involvement with the recipient is anticipated by the funding agency during performance of the project. The nature of that involvement will always be specified in the offering or application guidance materials.

Eligibility

The status an entity must possess to be considered for a grant. Authorizing legislation and programmatic regulations specify eligibility for individual grant programs, and eligibility may be further restricted for programmatic reasons. In general, assistance is provided to nonprofit organizations and institutions, including faith-based and community-based entities, State and local governments, their agencies, including an Indian Tribe or tribal organization, and occasionally to individuals. For-profit organizations are eligible to receive awards under financial assistance programs unless specifically excluded by legislation.

Estimated Amount of Competition

The funding level listed is provided only as an estimate, and is subject to the availability of funds, Congressional action, and changing program priorities.

Funding Priorities and/or Preferences

Funding preferences, priorities, and special considerations may come from legislation, regulations, or HRSA program leadership decisions. They are not the same as review criteria. Funding preferences are any objective factors that would be used to place a grant application ahead of others without the preference on a list of applicants recommended for funding by a review committee. Some programs give preference to organizations that have specific capabilities such as telemedicine networking, or have established relationships with managed care organizations. Funding priorities are factors that cause a grant application to receive a fixed amount of extra rating points—which may similarly affect the order of applicants on a funding list. Special considerations are other factors considered in making funding decisions that are neither review criteria, preferences, or priorities, e.g., ensuring that there is an equitable geographic distribution of grant recipients, or meeting requirements for urban and rural proportions.

Letter of Intent

To help in planning the application review process, many HRSA programs request a letter of intent from the applicant in advance of the application deadline. Letters of intent are neither binding nor mandatory. Details on where to send letters can be found in the guidance materials contained in the application kit.

Matching Requirements

Several HRSA programs require a matching amount, or percentage of the total project support, to come from sources other than Federal funds. Matching requirements are generally mandated in the authorizing legislation for specific categories. Also, matching or other cost-sharing requirements may be administratively required by the awarding office. Such requirements are set forth in the application kit.

Program Announcement Code

The program announcement code is a unique identifier for each program funded by HRSA. The three-five character acronyms are located in parentheses immediately at the end of each program title and must be used to request application materials either from the HRSA Grants Application Center or online at hrsagac@hrsa.gov.

Be sure to use the program announcement number, program announcement code and the title of the grant program when requesting an application kit.

Program Announcement Number

A unique program announcement (HRSA) number is located at the beginning of each program announcement in the HRSA Preview and Federal Register notices and includes the Fiscal Year and sequence number for announcement; for example, HRSA 03-001. This number is used with the program title and program announcement code to order application materials.

Project Period

The total time for which support of a discretionary project has been programmatically approved. The project period usually consists of a series of budget periods of one-year duration. Once approved through initial review, continuation of each successive budget period is subject to satisfactory performance, availability of funds, and program priorities.

Review Criteria

The following are generic review criteria applicable to HRSA programs:

• That the estimated costs to the Government of the project are reasonable considering the level and complexity of activity and the anticipated results.

• That project personnel or prospective fellows are well qualified by training and/or experience for the support sought, and the applicant organization or the organization to provide training to a fellow have adequate facilities and manpower.

• That, insofar as practical, the proposed activities (scientific or other), if well executed, are capable of attaining project objectives.

• That the project objectives are capable of achieving the specific program objectives defined in the program announcement and the proposed results are measurable.

• That the method for evaluating proposed results includes criteria for determining the extent to which the program has achieved its stated objectives and the extent to which the accomplishment of objectives can be attributed to the program.

• That, in so far as practical, the proposed activities, when accomplished, are replicable, national in scope and include plans for broad dissemination.

The specific review criteria used to review and rank applications are included in the individual guidance material provided with the application kits. Applicants should pay strict attention to addressing these criteria, as they are the basis upon which the reviewers will judge their applications.

Technical Assistance

A contact person is listed for each program and his/her e-mail address and telephone number provided. Some programs have scheduled workshops and conference calls. If you have questions concerning individual programs or the availability of technical assistance, please contact the person listed. Also check your application materials and the HRSA Web site at http://www.hrsa.gov/ for the latest technical assistance information.

Frequently Asked Questions

1. Where Do I Submit Grant Applications?

The address for submitting your grant application will be shown in the guidance document included in the application kit.

2. How Do I Learn More About a Particular Grant Program?

If you want to know more about a program before you request an application kit, an e-mail/telephone contact is listed. This contact person can provide information concerning the specific program's purpose, scope and goals, and eligibility criteria. Usually, you will be encouraged to request the application kit so that you will have clear, comprehensive, and accurate information available to you. When requesting application materials, you must state the program announcement number, the program code and title of the program. The application kit lists telephone numbers for a program expert and a grants management specialist who will provide information about your program of interest if you are unable to find the information within the written materials provided.

In general, the program contact person provides information about the specific grant offering and its purpose, and the grants management specialist provides information about the grant mechanism and business matters, though their responsibilities often overlap.

Information specialists at the toll-free number provide only basic information and administer mailings.

3. The Dates Listed in the HRSA Preview and the Dates in the Application Kit Do Not Agree. How Do I Know Which Is Correct?

HRSA Preview dates for application kit availability and application receipt deadlines are based upon the best known information at the time of publication, often nine months in advance of the competitive cycle. Occasionally, the grant cycle does not begin as projected and dates must be adjusted. The deadline date stated in your application kit is generally correct. If the application kit has been made available and subsequently the date changes, notification of the change will be mailed to known recipients of the application kit, and also posted on the HRSA home page.

4. Are Programs Announced in the HRSA Preview Ever Cancelled?

Infrequently, announced programs may be withdrawn from competition. If this occurs, a cancellation notice will be provided through the HRSA Preview at the HRSA home page at http://www.hrsa.dhhs.gov. If practicable, an attempt will be made to notify those who have requested a kit for the cancelled program by mail.

If you have unanswered questions, please contact Jeanne Conley of the Grants Policy Branch at (301) 443-4972 or jconley@hrsa.gov.

HRSA Program Competitions

Bureau of Health Professions

Note: Programs listed with an asterisk (*) are not included in the President's budget for FY 2003. They are included for planning purposes only. Potential applicants should consider these announcements provisional until final Congressional action on appropriations is taken.

HRSA 03-001 Field Experiences in Public Health Nursing in State and Local Health Departments for Baccalaureate Nursing Students (BHNBN)

Legislative Authority: Public Health Service Act, Title VIII, Section 831, 42 U.S.C. 296p.

CFDA: 93.359.

Purpose: The purpose of this request for applications is to provide small grants for one year to assist eligible entities to strengthen the public health nursing practice field experience component of the baccalaureate nursing program. Funds may be used to assist the applicant to plan, implement, and evaluate a public health nursing practice experience including preparation of faculty and key health department staff, that will expose students to (1) selected core functions of public health (assessment, policy development, and assurance) and essential services; (2) the mission of the State and/or local health departments, and (3) how a variety of public health practitioners function as a team in promoting, protecting, and maintaining the public's health. This plan may be implemented with a small number of baccalaureate nursing students. The plan is to include development of academic and practice linkages with a State or one or more local health departments.

Eligibility: Eligible applicants are schools of nursing and State or local governments. Applications from schools of nursing that have been previously funded for this purpose are not eligible.

Funding Priorities or Preferences: As provided in section 805 of the Public Health Service Act, preference will be given to applicants with projects that will substantially benefit rural or underserved populations, or help meet public health nursing needs in State or local health departments.

Estimated amount of This Competition: $250,000.

Estimated Number of Awards to be Made: 10.

Estimated or Average Size of Each Award: $25,000.

Estimated Project Period: 1 year.

HRSA 03-001 Field Experiences in Public Health Nursing in State and Local Health Departments for Baccalaureate Nursing Students (BHNBN)

Application Availability Date: August 9, 2002.

Application Deadline: November 4, 2002.

Projected Award Date: June 30, 2003.

Program Contact Person: Irene Sandvold.

Phone Number: (301) 443-6333.

E-mail: isandvold@hrsa.gov.

HRSA 03-002 Training in Primary Care Medicine and Dentistry* (DRPC)

Legislative Authority: Public Health Service Act, Title VII, Section 747, 42 U.S.C. 293k.

CFDA Number: 93.884.

Purpose: Grants are awarded for the following purposes: (1) Residency Training in Primary Care—to plan, develop, and operate or participate (including provision of financial assistance) in approved residency or internship programs in family medicine, general internal medicine and/or general pediatrics; (2) Faculty Development in Primary Care—to plan, develop, and operate (including provision of financial assistance) programs for the training of physicians who plan to teach in family medicine (including geriatrics), general internal medicine and/or general pediatrics training programs; (3) Predoctoral Training in Primary Care—to plan, develop, and operate or participate (including provision of financial assistance) in approved predoctoral programs in family medicine, general internal medicine and/or general pediatrics; (4) Academic Administrative Units in Primary Care—to meet the costs of projects to establish, maintain or improve academic administrative units to improve clinical instruction in family medicine, general internal medicine and/or general pediatrics; (5) Physician Assistant Training in Primary Care—to meet the costs of projects to plan, develop and operate or maintain approved programs for the training of physician assistants, and for the training of individuals who will teach in programs to provide such training; (6) General and Pediatric Dentistry— to meet the costs of planning, developing, or operating (including provision of financial assistance) approved residency programs of general or pediatric dentistry.

This program is not included in the President's budget for FY 2003. Potential applicants for funds should consider this announcement provisional until final Congressional action on appropriations is taken. Updated information on Congressional action on appropriations will be available on the HRSA Web site.

Eligibility: For program purposes (1), (2), and (5) public or nonprofit private hospitals, accredited schools of medicine or osteopathic medicine, or public or private nonprofit entities, including faith-based and community-based organizations, are eligible to apply.

For program purposes (3) and (4) public or nonprofit private accredited schools of allopathic or osteopathic medicine are eligible to apply.

For program purpose (6) entities that have programs in accredited dental schools, approved residency programs in the pediatric or general practice of dentistry, approved advanced education programs in the pediatric or general practice of dentistry, or approved residency programs in pediatric dentistry are eligible to apply.

Funding Priorities or Preferences: Statutory funding preference will be offered for all training in primary care medicine and dentistry grant purposes (1) through (6). As provided in Section 791(a) of the Public Health Service Act (as amended), preference will be given to any qualified applicant that: (A) has a high rate for placing graduates in practice settings having the principal focus of serving residents of medically underserved communities; or (B) during the two-year period preceding the fiscal year for which such an award is sought, has achieved a significant increase in the rate of placing graduates in such settings. Preference will be given to those new programs that meet at least four of the criteria described in section 791(c)(3) of the Public Health Service Act so that new applicants may compete equitable. This statutory preference will only be applied to applications that rank above the 20th percentile of applications recommended for approval by peer review groups.

For program purpose (4) a second preference is offered to qualified applicants for the establishment or the substantial expansion of an academic administrative unit.

Statutory Funding Priority: For program purposes (1) and (6) priority will be offered to qualified applicants that have a record of training the greatest percentage of providers or that have demonstrated significant improvements in the percentage of providers who enter and remain in primary care practice or general or pediatric dentistry.

For program purposes (1), (5) and (6) priority will be offered to qualified applicants that have a record of training individuals who are from disadvantaged backgrounds (including racial and ethnic minorities underrepresented among primary care practice or general or pediatric dentistry).

For program purpose (4) priority will be offered to qualified applicants that propose a collaborative project between departments of primary care.

For program purposes (2) and (3) there are no priorities.

Administrative Funding Priority: For program purpose (6) priority will be offered to new programs that have enrollees and no graduates at the time of application, and newly initiated programs that have neither enrollees nor graduates at the time of application.

Statutory Special Consideration: For all grant program purposes (1) through (6) special consideration will be offered to qualified applicants proposing projects to prepare practitioners to care for underserved populations and other high risk groups such as the elderly, individuals with HIV-AIDS, substance abusers, homeless and victims of domestic violence.

Administrative Special Consideration: For all grant program purposes (1) through (6), special consideration will be given to applicants that propose approaches for enhancing current and/or developing new educational opportunities using distance learning methodologies, with the goal of improving access to primary health care for medically and/or dentally underserved communities and/or underserved populations or other high risk groups.

Estimated Amount of This Competition: $33,000,000.

Estimated Number of Awards To Be Made: 220.

Estimated or Average Size of Each Award: $150,000.

Estimated Project Period: 3 years.

HRSA 03-002 Training in Primary Care Medicine and Dentistry* (DRPC)

Application Availability Date: For all grant program purposes August 19, 2002.

Application Deadlines:

Program purpose (1) October 21, 2002, Residency Training in Primary Care;

Program purpose (2) November 18, 2002, Faculty Development in Primary Care;

Program purpose (3) October 28, 2002, Predoctoral Training in Primary Care;

Program purpose (4) January 6, 2003, Academic Administrative Units in Primary Care;

Program purpose (5) November 12, 2002, Physician Assistant Training in Primary Care;

Program purpose (6) October 30, 2002, General and Pediatric Dentistry.

Projected Award Dates: Program purposes (1) through (5) June 30, 2003. Program purpose (6) April 30, 2003.

Program Contact Persons: For program purposes (1) through (5), staff assignments are based upon the State in which an applicant is located:

Shane Rogers—CT, ME, MA, NH, RI, VT

Brenda Williamson—NY, NJ, PR, VI

Rebecca Bunnell—DE, MD, PA, VA, WV, DC

Marcia Britt—AL, FL, GA, KY, MS, NC, SC, TN

Lafayette Gilchrist—IL, IN, MI, MN, OH, WI

Ellie Grant—AR, NM, OK, TX, LA

Shelby Biedenkapp—IA, KS, MO, NE

Martha Evans—CO, MT, UT, SD, WY, AK, ID, OR, WA, ND

Elsie Quinones—AZ, CA, HI, NV, Pacific Basin

For program purpose (6), the program contact person is Susan Goodman.

Phone Numbers: Program purposes (1) through (6)—(301) 443-1467.

E-mail: Program purposes (1) through (5):

Shane Rogers—srogers@hrsa.gov

Brenda Williamson—bwilliamson@hrsa.gov

Rebecca Bunnell—rbunnell@hrsa.gov

Marcia Britt—mbritt@hrsa.gov

Lafayette Gilchrist—lgilchrist@hrsa.gov

Ellie Grant—egrant@hrsa.gov

Shelby Biedenkapp—sbiedenkapp@hrsa.gov

Martha Evans—mevans@hrsa.gov

Elsie Quinones—equinones@hrsa.gov

Program purpose (6): Susan Goodman—sgoodman@hrsa.gov.

HRSA 03-003 Dental Public Health Residency Training Grants* (DPHT)

Legislative Authority: Public Health Service Act, Title VII, section 768, 42 U.S.C. 295c.

CFDA Number: 93.236.

Purpose: The purpose of this program is: (1) To plan and develop new residency training programs and to maintain or improve existing residency training programs in dental public health; and (2) to provide financial assistance to residency trainees enrolled in such programs.

This program is not included in the President's budget for FY 2003. Potential applicants for funds should consider this announcement provisional until final Congressional action on appropriations is taken. Updated information on Congressional action on appropriations will be available on the HRSA web site.

Eligibility: A school of public health or dentistry that offers a dental public health residency training program accredited by the American Dental Association Commission on Dental Accreditation is eligible to apply. Each applicant must demonstrate that the institution has or will have available full-time faculty members with training and experience in the field of dental public health and support from other faculty members trained in public health and other relevant specialties and disciplines.

Administrative Special Consideration: Special consideration will be given to applicants that propose approaches for enhancing current and/or developing new educational opportunities using distance learning methodologies, with the goal of improving access to primary health care for medically and/or dentally underserved communities and/or underserved populations or other high risk groups.

Estimated Amount of This Competition: $600,000.

Estimated Number of Awards To Be Made: 7.

Estimated or Average Size of Each Award: $90,000.

Estimated Project Period: 3 Years.

HRSA 03-003 Dental Public Health Residency Training Grants* (DPHT)

Application Availability Date: August 12, 2002.

Application Deadline: September 30, 2002.

Projected Award Date: June 30, 2003.

Program Contact Person: Jerald Katzoff.

Phone Number: (301) 443-6326.

E-mail: jkatzoff@hrsa.gov.

HRSA 03-004 Podiatric Residency Training in Primary Care* (PODPC)

Legislative Authority: Part D, Title VII, Public Health Service Act, Section 755(b)(2), 42 U.S.C. 294.

CFDA Number: 93.181.

Purpose: Grants are awarded to plan and implement projects in preventive and primary care training for podiatric physicians in approved or provisionally approved residency programs that shall provide financial assistance in the form of traineeships to residents who participate in such projects and who plan to specialize in primary care.

The applicant must propose a project that is collaborative among two or more disciplines.

This program is not included in the President's budget for FY 2003. Potential applicants for funds should consider this announcement provisional until final Congressional action on appropriations is taken. Updated information on Congressional action on appropriations will be available on the HRSA Web site.

Eligibility: Eligible entities are health professions schools, academic health centers, State or local governments or other appropriate public or private nonprofit entities, including faith-based organizations and community-based organizations.

Statutory Funding Preference: As provided in Section 791(a) of the Public Health Service Act, preference will be given to any qualified applicant that: (1) has a high rate for placing graduates in practice settings having the principal focus of serving residents of medically underserved communities; or (2) during the two-year period preceding the fiscal year for which such an award is sought, has achieved a significant increase in the rate of placing graduates in such settings. Preference will be given to those new programs that meet at least four of the criteria described in section 791(c)(3) of the Public Health Service Act so that new applicants may compete equitably. This statutory general preference will only be applied to applications that rank above the 20th percentile of applications recommended for approval by the peer review group.

Administrative Special Consideration: Special consideration will be given to applicants that propose approaches for enhancing current and/or developing new educational opportunities using distance learning methodologies, with the goal of improving access to primary health care for medically and/or dentally underserved communities and/or underserved populations or other high risk groups.

Estimated Amount of This Competition: $160,000.

Estimated Number of Awards To Be Made: 1.

Estimated Project Period: 2 years.

HRSA 03-004 Podiatric Residency Training in Primary Care* (PODPC)

Application Availability Date: August 12, 2002.

Application Deadline: September 30, 2002.

Projected Award Date: June 30, 2003.

Program Contact Person: Shelby Biedenkapp.

Phone Number: (301) 443-1467.

E-mail address: sbiedenkapp@hrsa.gov.

HRSA 03-005 Basic Nurse Education and Practice Grants (BNEP)

Legislative Authority: Public Health Service Act, Title VIII, Section 831, 42 U.S.C. 296p.

CFDA Number: 93.359.

Purpose: Grants are awarded to enhance the educational mix and utilization of the basic nursing workforce by strengthening programs that provide basic nurse education, such as through: (1) Establishing or expanding nursing practice arrangements in non-institutional settings to demonstrate methods to improve access to primary health care in medically underserved communities; (2) providing care for underserved populations and other high-risk groups such as the elderly, individuals with HIV/AIDS, substance abusers, the homeless, and victims of domestic violence; (3) providing managed care, quality improvement, and other skills needed to practice in existing and emerging organized health care systems; (4) developing cultural competencies among nurses; (5) expanding enrollment in baccalaureate nursing programs; (6) promoting career mobility for nursing personnel in a variety of training settings and cross-training or specialty training among diverse population groups; or (7) providing education for informatics, including distance learning methodologies.

Eligibility: Eligible applicants for purpose (1) are schools of nursing. Eligible applicants for purpose (5) are collegiate schools of nursing. Eligible applicants for purposes (2), (3), (4), (6) and (7) are schools of nursing; nursing centers; academic health centers; state or local governments, and other appropriate public or private nonprofit entities, including faith-based organizations and community-based organizations.

Funding Priorities or Preferences: As provided in section 805 of the Public Health Service Act, as amended, preference will be given to applicants with projects that will substantially benefit rural or underserved populations, or help meet public health nursing needs in state or local health departments.

Administrative Funding Priority: In making awards under purpose 1 (establishing or expanding nursing practice arrangements in non-institutional settings to demonstrate methods to improve access to primary health care in medically underserved communities) a funding priority will be given to those schools of nursing who have not received support for Nurse Practice Arrangements under 1992 legislation or the 1998 legislation.

In making awards under purpose 5 (expanding enrollment in baccalaureate nursing programs), a funding priority will be given to those programs expanding enrollment in generic baccalaureate nursing programs.

Administrative Special Consideration: Special consideration will be given to applicants that propose collaborative approaches for increasing the number of students in rural and underserved areas who can access educational opportunities through the use of electronic distance learning methodologies.

Estimated Amount of This Competition: $3,721,340.

Estimated Number of Awards To Be Made: 15.

Estimated or Average Size of Each Award: $250,000.

Estimated Project Period: 3 years.

HRSA 03-005 Basic Nurse Education and Practice Grants (BNEP)

Application Availability Date: September 06, 2002.

Application Deadline: December 16, 2002.

Projected Award Date: June 30, 2003.

Program Contact Person: Madeline Turkeltaub.

Phone Number: (301) 443-6193.

E-mail: mturkeltaub@hrsa.gov.

HRSA 03-006 Nurse Anesthetist Traineeships (NATR)

Legislative Authority: Public Health Service Act, Title VIII, Section 811, 42 U.S.C. 296j.

CFDA Number: 93.124.

Purpose: Grants are awarded to eligible institutions for projects that support traineeships for licensed registered nurses enrolled as full-time students beyond the twelfth month of study in a Master's nurse anesthesia program.

Eligibility: Eligible applicants are schools of nursing, academic health centers, and other public and private nonprofit entities, including faith-based organizations and community-based organizations, which provide registered nurses with full-time nurse anesthetist education and have evidence of earned pre-accreditation or accreditation status from the American Association of Nurse Anesthetists (AANA) Council on Accreditation of Nurse Anesthesia Educational Programs.

Funding Priorities or Preferences: As provided in section 805 of the Public Health Service Act, as amended, preference shall be given to applicants with projects that will substantially benefit rural or underserved populations or help meet public health nursing needs in State or local health departments.

Special Considerations: Traineeships for individuals in advanced education programs are provided under section 811(a)(2) of the Public Health Service Act, as amended. A statutory special consideration, as provided for in section 811(f)(3) of the Public Health Service Act, as amended, will be given to eligible entities that agree to expend the award to train advanced education nurses who will practice in health professional shortage areas designated under section 332 of the Public Health Service Act, as amended.

Estimated Amount of This Competition: $1,000,000.

Estimated Number of Awards To Be Made: 71.

Estimated or Average Size of Each Award: $14,000.

Estimated Project Period: 1 year.

HRSA 03-006 Nurse Anesthetist Traineeships (NATR)

Application Availability Date: September 6, 2002.

Application Deadline: November 15, 2002.

Projected Award Date: March 28, 2003.

Program Contact Person: Karen D. Breeden.

Phone Number: (301) 443-5787.

E-mail: KBreeden@hrsa.gov.

HRSA 03-007 Advanced Education Nursing Traineeships (AENT)

Legislative Authority: Public Health Service Act, Title VIII, Section 811, 42 U.S.C. 296j.

CFDA Number: 93.358.

Purpose: Grants are awarded to eligible institutions to meet the cost of traineeships for individuals in advanced nursing education programs. Traineeships are awarded to individuals by participating educational institutions offering Masters and doctoral degree programs, combined RN to Masters degree programs, post-nursing Masters certificate programs, or in the case of nurse midwives, certificate programs in existence on November 12, 1998 to serve as nurse practitioners, clinical nurse specialists, nurse midwives, nurse anesthetists, nurse educators, nurse administrators or public health nurses.

Eligibility: Eligible applicants are schools of nursing, academic health centers, and other appropriate public or private nonprofit entities, including faith-based organizations and community-based organizations.

Funding Priorities or Preferences: As provided in section 805 of the Public Health Service Act, as amended, preference shall be given to applicants with projects that will substantially benefit rural or underserved populations or help meet public health nursing needs in State or local health departments.

Special Considerations: Traineeships for individuals in advanced education programs are provided under section 811(a)(2) of the Public Health Service Act, as amended. A statutory special consideration, as provided for in section 811(f)(3) of the Public Health Service Act, as amended, will be given to eligible entities that agree to expend the award to train advanced education nurses who will practice in health professional shortage areas designated under section 332 of the Public Health Service Act, as amended.

Estimated Amount of This Competition: $18,600,000.

Estimated Number of Awards To Be Made: 325.

Estimated or Average Size of Each Award: Up to $300,000.

Estimated Project Period: 1 year.

HRSA 03-007 Advanced Education Nursing Traineeships (AENT)

Application Availability Date: September 6, 2002.

Application Deadline: November 15, 2002.

Projected Award Date: March 28, 2003.

Program Contact Person: Karen D. Breeden.

Phone Number: (301) 443-5787.

E-mail: Kbreeden@hrsa.gov.

HRSA 03-008 Nursing Workforce Diversity Grants (NWD)

Legislative Authority: Public Health Service Act, Title VIII, Section 821, 42 U.S.C. 296m.

CFDA Number: 93.178.

Purpose: Grants are awarded to increase nursing education opportunities for individuals from disadvantaged backgrounds (including racial and ethnic minorities underrepresented among registered nurses) by providing student scholarships or stipends, pre-entry preparation, and retention activities.

Eligibility: Eligible applicants are schools of nursing, nursing centers, academic health centers, State or local governments, and other public or private nonprofit entities, including faith-based organizations and community-based organizations.

Funding Priorities or Preferences: As provided in section 805 of the Public Health Service Act, as amended, preference will be given to applicants with projects that will substantially benefit rural or underserved populations, or help meet public health nursing needs in State or local health departments.

Administrative Special Consideration: Special consideration will be given to applicants that propose collaborative approaches for increasing the number of students in rural and underserved areas who can access educational opportunities through the use of electronic distance learning methodologies.

Estimated Amount of This Competition: $1,579,000.

Estimated Number of Awards to be Made: 7.

Estimated or Average Size of Each Award: $225,000.

Estimated Project Period: 3 years.

HRSA 03-008 Nursing Workforce Diversity Grants (NWD)

Application Availability Date: September 6, 2002.

Application Deadline: December 6, 2002.

Projected Award Date: June 30, 2003.

Program Contact Person: Ernell Spratley.

Phone Number: (301) 443-5763.

E-mail: espratley@hrsa.gov.

HRSA 03-009 Advanced Education Nursing Grants (AENP)

Legislative Authority: Public Health Service Act, Title VIII, Section 811, 42 U.S.C. 296j.

CFDA Number: 93.247.

Purpose: Grants are awarded to eligible institutions for projects that support the enhancement of advanced nursing education and practice. For the purpose of this section, advanced education nurses means individuals trained in advanced degree programs including individuals in combined RN to Master's degree programs, post-nursing Master's certificate programs, or in the case of nurse-midwives, in certificate programs in existence on November 12, 1998, to serve as nurse practitioners, clinical nurse specialists, nurse midwives, nurse anesthetists, nurse educators, nurse administrators or public health nurses.

Eligibility: Eligible applicants are schools of nursing, academic health centers, and other appropriate public or private nonprofit entities, including faith-based organizations and community-based organizations.

Funding Priorities or Preferences: As provided in section 805 of the Public Health Service Act, as amended, preference shall be given to applicants with projects that will substantially benefit rural or underserved populations or help meet public health nursing needs in State or local health departments.

Administrative Special Consideration: Special consideration will be given to applicants that propose collaborative approaches for increasing the number of students in rural and underserved areas who can access educational opportunities through the use of electronic distance learning methodologies.

Estimated Amount of This Competition: $20,059,000.

Estimated Number of Awards To Be Made: 80.

Estimated or Average Size of Each Award: $250,000.

Estimated Project Period: 3 years.

HRSA 03-009 Advanced Education Nursing Grants (AENP)

Application Availability Date: September 6, 2002.

Application Deadline: December 13, 2002.

Projected Award Date: June 30, 2003.

Program Contact Person: Irene Sandvold.

Phone Number: (301) 443-6333.

E-mail: isandvold@hrsa.gov.

HRSA 03-010 Geriatric Nursing Knowledge and Experiences in Long Term Care Facilities for Nursing Students (BNEP)

Legislative Authority: Public Health Service Act, Title VIII, Section 831,42 U.S.C. 296p.

CFDA Number: 93.359.

Purpose: The purpose of this initiative is to assist eligible entities to strengthen the geriatric nursing didactic content and clinical components of their baccalaureate nursing programs. Funds will be awarded to plan, implement and evaluate geriatric nursing experiences that, through planned partnerships with geriatric long-term care or assisted living facilities, expose senior nursing students to: (1) Increased course content in geriatric nursing and concepts of age-sensitive caring; (2) application of this content to geriatric patients with chronic illness residing in long term care, including assisted living facilities; and (3) use of assessment skills in the setting selected in order to accurately complete appropriate assessments using standardized tools such as the Minimum Data Set (MDS) required by Medicare regulations.

Eligibility: Schools of nursing are eligible. Applications from schools of nursing with currently funded projects in this category will not be accepted for review.

Funding Priorities or Preferences: As provided in section 805 of the Public Health Service Act, as amended, preference will be given to applicants with projects that will substantially benefit rural or underserved populations, or help meet public health nursing needs in State or local health departments.

Administrative Special Consideration: Special consideration will be given to applicants that propose collaborative approaches for increasing the number of students in rural and underserved areas who can access educational opportunities through the use of electronic distance learning methodologies.

Estimated Amount of This Competition: $250,000.

Estimated Number of Awards To Be Made: 10.

Estimated or Average Size of Each Award: $25,000.

Estimated Project Period: 1 year.

HRSA 03-010 Geriatric Nursing Knowledge and Experiences in Long Term Care Facilities for Nursing Students (BNEP)

Application Availability Date: August 9, 2002.

Application Deadline: November 4, 2002.

Projected Award Date: June 30, 2003.

Program Contact Person: Madeline Turkeltaub.

Phone Number: (301) 443-6193.

E-mail: mturkeltaub@hrsa.gov.

HRSA 03-011 Health Careers Opportunity Program* (HCOP)

Legislative Authority: Section 739 of The Public Health Service Act, 42 U.S.C. 293c.

CFDA Number: 93.822.

Purpose: The goal of the Health Careers Opportunity Program (HCOP) is to assist individuals from disadvantaged backgrounds to undertake education to enter a health profession. The HCOP program works to build diversity in the health fields by providing students from disadvantaged backgrounds an opportunity to develop the skills needed to successfully compete, enter, and graduate from health professions schools. The legislative purposes from which HCOP funds may be awarded are: (1) Identifying, recruiting, and selecting individuals from disadvantaged backgrounds for education and training in a health profession; (2) facilitating the entry of such individuals into such a school; (3) providing counseling, mentoring, or other services designed to assist such individuals to complete successfully their education at such a school; (4) providing, for a period prior to the entry of such individuals into the regular course of education of such a school, preliminary education and health research training designed to assist them to complete successfully such regular course of education at such a school, or referring such individuals to institutions providing such preliminary education; (5) publicizing existing sources of financial aid available to students in the education program of such a school or who are undertaking training necessary to qualify them to enroll in such a program; (6) paying scholarships, as the Secretary may determine, for such individuals for any period of health professions education at a health professions school; (7) paying such stipends for such individuals for any period of education in student-enhancement programs (other than regular courses), except that such a stipend may not be provided to an individual for more than 12 months; (8) carrying out programs under which such individuals gain experience regarding a career in a field of primary health care through working at facilities of public or private nonprofit community-based providers of primary health services; (9) conducting activities to develop a larger and more competitive applicant pool through partnerships with institutions of higher education, school districts, and other community-based entities.

This program is not included in the President's budget for FY 2003. Potential applicants for funds should consider this announcement provisional until final Congressional action on appropriations is taken. Updated information on Congressional action on appropriations will be available on the HRSA Web site.

Eligibility: Eligible applicants include schools of medicine, osteopathic medicine, public health, dentistry, veterinary medicine, optometry, pharmacy, allied health, chiropractic, podiatric medicine, public or non-profit private schools that offer graduate programs in behavioral and mental health, programs for the training of physician assistants, and other public or private nonprofit health or educational entities, including faith-based organizations and community-based organizations.

Funding Priorities or Preferences: A funding preference will be given to approved applications for programs that involve a comprehensive approach by several public or non-profit private health or educational entities to establish, enhance and expand educational programs that will result in the development of a competitive applicant pool of individuals from disadvantaged backgrounds who desire to pursue health professions careers.

Estimated Amount of This Competition: $1,580,000.

Estimated Number of Awards To Be Made: 5.

Estimated or Average Size of Each Award: $316,000.

Estimated Project Period: 3 years.

HRSA 03-011 Health Careers Opportunity Program* (HCOP)

Application Availability Date: September 6, 2002.

Application Deadline: February 24, 2003.

Projected Award Date: August 1, 2003.

Program Contact Person: Tobey Manns.

Phone Number: (301) 443-0909.

E-mail: tmanns@hrsa.gov.

HRSA 03-012 Centers of Excellence* (COES)

Legislative Authority: Section 736 of The Public Health Service Act, 42 U.S.C. 293.

CFDA Number: 93.157.

Purpose: The goal of this program is to assist eligible schools in supporting programs of excellence in health professions education for underrepresented minority individuals. The grantee is required to use the funds awarded: (1) To develop a large competitive applicant pool through linkages with institutions of higher education, local school districts, and other community-based entities and establish an education pipeline for health professions careers; (2) to establish, strengthen, or expand programs to enhance the academic performance of underrepresented minority students attending the school; (3) to improve the capacity of such schools to train, recruit, and retain underrepresented minority faculty including the payment of stipends and fellowships; (4) to carry out activities to improve the information resources, clinical education, curricula and cultural competence of the graduates of the schools as it relates to minority health issues; (5) to facilitate faculty and student research on health issues particularly affecting underrepresented minority groups, including research on issues relating to the delivery of health care; (6) to carry out a program to train students of the school in providing health services to a significant number of underrepresented minority individuals through training provided to such students at community-based health facilities that provide such health services and are located at a site remote from the main site of the teaching facilities of the school; and (7) to provide stipends as appropriate.

This program is not included in the President's budget for FY 2003. Potential applicants for funds should consider this announcement provisional until final Congressional action on appropriations is taken. Updated information on Congressional action on appropriations will be available on the HRSA Web site.

Eligibility: Eligible applicants are accredited schools of allopathic medicine, osteopathic medicine, dentistry, pharmacy, graduate programs in behavioral or mental health, or other public and nonprofit health or educational entities, including faith-based organizations and community-based organizations, that meet the requirements of section 736(c) of the Public Health Service Act, as amended. Historically Black Colleges and Universities, as described in section 736(c)(2)(A) of the Public Health Service Act, as amended, and which received a contract under former section 788B of The Public Health Service Act (Advanced Financial Distress Assistance) for fiscal year 1987 may apply for Centers of Excellence (COE) grants under section 736 of the Public Health Service Act, as amended.

Administrative Special Consideration: Special consideration will be given to applicants that propose to develop educational approaches to increasing the knowledge base of trainees regarding minority health issues and/or cultural competence through the use of distance learning methodologies.

Estimated Amount of This Competition: $15,670,000.

Estimated Number of Awards To Be Made: 10.

Estimated or Average Size of Each Award: $640,000 (this does not include the legislatively mandated awards).

Estimated Project Period: 3 years.

HRSA 03-012 Centers of Excellence* (COES)

Application Availability Date: September 6, 2002.

Application Deadline: January 17, 2003.

Projected Award Date: June 30, 2003.

Program Contact Person: Daniel Reed.

Phone Number: (301) 443-2982.

E-mail: dreed1@hrsa.gov.

HRSA 03-013 Basic/Core Area Health Education Centers* (BAHEC)

Legislative Authority: Public Health Service Act, Title VII, Section 751, 42 U.S.C. 294a, Section 750(a), 42 U.S.C. 294.

CFDA Number: 93.824.

Purpose: Cooperative agreements are awarded to assist schools to improve the distribution, diversity, supply, and quality of health personnel in the health services delivery system by encouraging the regionalization of health professions schools. Emphasis is placed on community-based training of primary care oriented students, residents, and providers. The Area Health Education Centers (AHEC) program assists schools in the planning, development, and operation of AHECs to initiate education system incentives to attract and retain health care personnel in scarcity areas. By linking the academic resources of the university health sciences center with local planning, educational, and clinical resources, the AHEC program establishes a network of community-based training sites to provide educational services to students, faculty, and practitioners in underserved areas, and ultimately to improve the delivery of health care in the service area. The program embraces the goal of increasing the number of health professions graduates who ultimately will practice in underserved areas. In addition, the program provides health careers recruitment enhancement activities to attract high school students from underserved areas into health careers.

This program is not included in the President's budget for FY 2003. Potential applicants for funds should consider this announcement provisional until final Congressional action on appropriations is taken. Updated information on Congressional action on appropriations will be available on the HRSA Web site.

Federal Involvement: Substantial Federal involvement will be detailed in the application materials.

Eligibility: The types of entities eligible to apply for this program are public or private nonprofit accredited schools of medicine and osteopathic medicine and incorporated consortia made up of such schools, or the parent institutions of such schools. Also, in States where no AHEC program is in operation (the states of Delaware, Iowa, Kansas, Michigan, North Dakota, South Dakota, Rhode Island, and Puerto Rico), an accredited school of nursing is an eligible applicant.

Statutory Funding Preference: As provided in section 791 (a) of the Public Health Service Act, as amended, preference will be given to any qualified applicant that: (1) has a high rate for placing graduates in practice settings having the principal focus of serving residents of medically underserved communities; or (2) during the 2-year period preceding the fiscal year for which an award is sought, has achieved a significant increase in the rate of placing graduates in such settings. This statutory general preference will only be applied to applications that rank above the 20th percentile of applications recommended for approval by the peer review group. Funds will be awarded to approved applicants in the following order: (1) Competing continuations, (2) new starts in States with no AHEC program, (3) other new starts, and (4) competing supplements.

Administrative Special Considerations: Special consideration will be given to qualified applicants who support the Bureau of Health Professions Bureau of Health Professions' Kids Into Health Careers initiative by establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits. More information can be found at: http://www.hrsa.gov/bhpr.

Special consideration will also be given to applicants who (a) develop new and innovative approaches to education and training using distance learning methodologies/telehealth, or (b) enhance or expand existing distance learning educational programs with the purpose of preparing health professionals and health professional students to deliver quality health care in medically underserved communities.

Review Criteria: Final review criteria are included in the application kit.

Matching Requirements: Awardees shall make available (directly through contributions from State, county or municipal government, or the private sector) non-Federal contributions in cash in an amount not less than 50 percent of the operating costs of the AHEC Program. However, the Secretary may grant a waiver for up to 75 percent of the amount required in the first 3 years in which an awardee receives funds for this program. These funds must be for the express use of the AHEC Programs and Centers to address AHEC project goals and objectives.

Estimated Amount of This Competition: $8 million.

Estimated Number of Awards: 9.

Estimated or Average Size of Each Award: $900,000.

Estimated Project Period: 3 years.

HRSA 03-013 Basic/Core Area Health Education Centers* (BAHEC)

Application Availability Date: August 26, 2002.

Application Deadline: November 25, 2002.

Projected Award Date: August 29, 2003.

Program Contact Person: Louis D. Coccodrilli.

Phone Number: (301) 443-6950.

E-mail: lcoccodrilli@hrsa.gov.

HRSA 03-014 Model State-Supported Area Health Education Centers* (MAHEC)

Legislative Authority: Public Health Service Act, Title VII, Section 751, 42 U.S.C. 294a.

CFDA Number: 93.107.

Purpose: This program awards funds to schools to improve the distribution, diversity, supply, and quality of health personnel in the health services delivery system by encouraging the regionalization of health professions schools. Emphasis is placed on community-based training of primary care oriented students, residents, and providers. The Area Health Education Centers (AHEC) program assists schools in the development and operation of AHECs to implement educational system incentives to attract and retain health care personnel in scarcity areas. By linking the academic resources of the university health science center with local planning, educational, and clinical resources, the AHEC program establishes a network of health-related institutions to provide educational services to students, faculty, and practitioners, and ultimately to improve the delivery of health care in the service area. The program embraces the goal of increasing the number of health professions graduates who ultimately will practice in underserved areas. In addition, the program provides health careers recruitment enhancement activities to attract high school students from underserved areas into health careers. The AHEC programs are collaborative partnerships, which address current health workforce needs within a region of a State or in an entire State.

This program is not included in the President's budget for FY 2003. Potential applicants for funds should consider this announcement provisional until final Congressional action on appropriations is taken. Updated information on Congressional action on appropriations will be available on the HRSA Web site.

Matching or Cost Sharing Requirements: Awardees shall make available (directly or through contributions from State, county or municipal governments, or the private sector) recurring non-Federal contributions in cash in an amount not less than 50 percent of the operating costs of the Model State-Supported AHEC program.

Eligibility: The entities eligible to apply for this program are public or private nonprofit accredited schools of medicine and osteopathic medicine and incorporated consortia made up of such schools or the parent institutions of such schools. Applicants must have previously received funds, but are no longer receiving funds under section 751 (a)(1) of the Public Health Service Act, as amended, and be operating an AHEC program.

Statutory Funding Preference: As provided in section 791 (a) of the Public Health Service Act, as amended, preference will be given to any qualified applicant that: (1) has a high rate for placing graduates in practice settings having the principal focus of serving residents of medically underserved communities; or (2) during the 2-year period preceding the fiscal year for which an award is sought, has achieved a significant increase in the rate of placing graduates in such settings. This statutory general preference will only be applied to applications that rank above the 20th percentile of applications recommended for approval by the peer review group.

Administrative Special Considerations: Special consideration will be given to qualified applicants who support the Bureau of Health Professions' Kids Into Health Careers initiative by establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits. More information can be found at http://www.hrsa.gov/bhpr.

Special consideration will also be given to applicants who (a) develop new and innovative approaches to education and training using distance learning methodologies/telehealth, or (b) enhance or expand existing distance learning educational programs with the purpose of preparing health professionals and health professional students to deliver quality health care in medically underserved communities.

Review Criteria: Final review criteria are included in the application kit.

Estimated Amount of This Competition: $5.7 million.

Estimated Number of Awards: 9.

Estimated or Average Size of Each Award: $650,000.

Estimated Project Period: 3 years.

HRSA 03-014 Model State-Supported Area Health Education Centers* (MAHEC)

Application Availability Date: August 26, 2002.

Application Deadline: November 25, 2002.

Projected Award Date: August 29, 2003.

Program Contact Person: Louis D. Coccodrilli.

Phone Number: (301) 443-6950.

E-mail: lcoccodrilli@hrsa.gov.

HRSA 03-015 Health Administration Traineeships and Special Projects* (HATR)

Legislative Authority: Public Health Service Act, Title VII, Section 769, 42 U.S.C. 295d.

CFDA Number: 93.962.

Purpose: Health Administration Traineeship Grants are awarded to eligible entities to provide traineeships for students enrolled in an accredited program in health administration, hospital administration, or health policy analysis and planning. Traineeship funds may be used to support tuition, fees, stipends and allowances including travel, subsistence expenses and dependency allowances. One of the goals of the Health Administration Traineeship Grant program is to encourage students to train and practice in medically underserved areas. It is anticipated that all approved applicants will receive awards.

This program is not included in the President's budget for FY 2003. Potential applicants for funds should consider this announcement provisional until final Congressional action on appropriations is taken. Updated information on Congressional action on appropriations will be available on the HRSA Web site.

Eligibility: Eligible applicants are public or non-profit private educational entities, including faith-based entities, graduate schools of social work but excluding accredited schools and programs of public health, offering programs in health administration, hospital administration or health policy analysis and planning accredited by the Accrediting Commission on Education in Health Services Administration.

Funding Preferences: In awarding grants under this authority, the Secretary shall give preference to qualified applicants meeting the following conditions:

(1) Not less than 25 percent of the graduates of applicant are engaged in full-time practice settings in medically underserved communities.

(2) The applicant recruits and admits students from medically underserved communities.

(3) For the purpose of training students, the applicant has established relationships with public and nonprofit providers of health care in the community involved; and

(4) In training students, the applicant emphasizes employment with public or nonprofit private entities.

Applicants must assure that, in awarding traineeships, priority will be given to students who demonstrate a commitment to employment with public or nonprofit private entities in health administration, hospital administration, or health policy analysis and planning.

Special Consideration: A special consideration will be given to applicants that during the two-year period preceding the fiscal year for which such an award is sought, have a high rate for placing graduates in medically underserved areas.

Estimated Amount of This Competition: $1,100,000.

Estimated Number of Awards To Be Made: 43.

Estimated or Average Size of Each Award: Traineeships awards range from $2,000 up to $65,000.

Estimated Project Period: 1 year.

HRSA 03-015 Health Administration Traineeships and Special Projects* (HATR)

Application Availability Date: October 1, 2002.

Application Deadline: December 11, 2002.

Projected Award Date: March 30, 2003.

Program Contact Person: Douglas S. Lloyd.

Phone Number: (301) 443-6853.

E-mail: dlloyd@hrsa.gov.

HRSA 03-016 Public Health Traineeships* (PHTR)

Legislative Authority: Public Health Service Act, Title VII, Section 767, 42 U.S.C. 295b.

CFDA Number: 93.964.

Purpose: Grants are awarded to accredited schools and programs of public health to support traineeships for individuals in fields where there is a severe shortage. Shortage fields are identified by statute and include epidemiology, environmental health, biostatistics, toxicology, nutrition, and maternal and child health.

This program is not included in the President's budget for FY 2003. Potential applicants for funds should consider this announcement provisional until final Congressional action on appropriations is taken. Updated information on Congressional action on appropriations will be available on the HRSA Web site.

Eligibility: An eligible entity is an accredited school of public health, and/or other public or nonprofit private entities, including faith-based organizations and community-based organizations, accredited for the provision of graduate or specialized training in public health.

Funding Priorities or Preferences: Funding priority will be given to applicants with students enrolled in graduate degrees in educational fields having a severe shortage of health professionals including epidemiology, emergency preparedness, environmental health, biostatistics, toxicology, nutrition, and maternal and child health. Other public health professional areas may be eligible if a severe local/State/regional shortage is documented by the applicant.

Estimated Amount of This Competition: $1, 700,000.

Estimated Number of Awards To Be Made: 37.

Estimated or Average Size of Each Award: Awards range from $10,000 to $165,000.

Estimated Project Period: 1 year.

HRSA 03-016 Public Health Traineeships* (PHTR)

Application Availability Date: October 1, 2002.

Application Deadline: December 9, 2002.

Projected Award Date: March 31, 2003.

Program Contact Person: Douglas S. Lloyd.

Phone Number: (301) 443-6853.

E-mail: dlloyd@hrsa.gov.

HRSA 03-017 Geriatric Education Centers* (GECS)

Legislative Authority: Public Health Service Act, Title VII, section 753(a), 42 U.S.C. 294c.

CFDA Number: 93.969.

Purpose: Grants are given to support the development of collaborative arrangements involving several health professions schools and health care facilities. These arrangements, called Geriatric Education Centers (GECs), facilitate training of health professional faculty, students, and practitioners in the diagnosis, treatment, prevention of disease, disability, and other health problems of the aged. Projects supported under these grants must offer training involving four or more health professions, one of which must be allopathic or osteopathic medicine. Health professions include allopathic physicians, osteopathic physicians, dentists, optometrists, podiatrists, pharmacists, nurses, nurse practitioners, physician assistants, chiropractors, clinical psychologists, health administrators, and allied health professionals including professional counselors and social workers. These projects must address all of the following statutory purposes: (1) Improve the training of health professionals in geriatrics, including geriatric residencies, traineeships or fellowships; (2) develop and disseminate curricula relating to the treatment of the health problems of elderly individuals; (3) support the training and retraining of faculty to provide instruction in geriatrics; (4) support continuing education of health professionals who provide geriatric care; and (5) provide students with clinical training in geriatrics in nursing homes, chronic and acute disease hospitals, ambulatory care centers, and senior centers.

This program is not included in the President's budget for FY 2003. Potential applicants for funds should consider this announcement provisional until final Congressional action on appropriations is taken. Updated information on Congressional action on appropriations will be available on the HRSA Web site.

Eligibility: Grants may be made to accredited health professions schools as defined by section 799B(1), (3) or (4) and section 801(2) of The Public Health Service Act. These include, among others: schools of medicine; schools of dentistry; schools of osteopathic medicine; schools of pharmacy; schools of optometry; schools of podiatric medicine; schools of veterinary medicine; schools of public health; schools of chiropractic; graduate programs in clinical psychology, clinical social work, health administration, and behavioral health and mental health practice; programs for the training of physician assistants; schools of allied health; and schools of nursing.

Applicants must be located in the United States, the District of Columbia, the Commonwealth of Puerto Rico, the Commonwealth of the Northern Mariana Islands, the Virgin Islands, Guam, American Samoa, the Republic of Palau, the Republic of the Marshall Islands, or the Federated States of Micronesia.

Funding Priorities and/or Preferences: As provided in section 791(a) of the Public Health Service Act, as amended, preference will be given to any qualified applicant that: (1) Has a high rate for placing graduates in practice settings having the focus of serving residents of medically underserved communities or (2) during the 2-year period preceding the fiscal year for which such an award is sought, has achieved a significant increase in the rate of placing graduates in such settings. This statutory general preference will only be applied to applications that rank above the 20th percentile of applications recommended for approval by the peer review group.

So that new applicants may compete equitably, a preference will be given to those new programs that meet at least four of the criteria described in section 791(c)(3) of The Public Health Service Act, as amended, concerning medically underserved communities and populations.

A funding priority will be given to qualified applicants who devote significant resources to support the training and retraining of faculty to provide instruction in geriatrics.

Administrative Special Consideration: Special consideration will be given to applicants who (a) develop new and innovative approaches to education and training using distance learning methodologies/telehealth, or (b) enhance or expand existing distance learning educational programs with the purpose of preparing health professionals and health professional students to deliver quality health care in medically underserved communities.

Review Criteria: Review criteria are included in the application kit.

Estimated Amount of This Competition: $3,000,000.

Estimated Number of Awards: 9.

Estimated or Average Size of Each Award: $200,000 for single applications and $400,000 for consortium applications.

Estimated Project Period: 5 years.

HRSA 03-017 Geriatric Education Centers* (GECS)

Application Availability Date: October 21, 2002.

Application Deadline: January 27, 2003.

Projected Award Date: June 30, 2003.

Program Contact Person: Barbara Broome.

Phone Number: (301) 443-6866.

E-mail: bbroome@hrsa.gov.

HRSA 03-018 Geriatric Training for Physicians, Dentists, and Behavioral and Mental Health Professionals* (GTPD)

Legislative Authority: Public Health Service Act, Title VII, Section 753(b), 42 USC 294c.

CFDA Number: 93.156.

Purpose: The purpose of this program is to increase the number of physicians, dentists, and behavioral and mental health professionals who plan to teach geriatric medicine, geriatric dentistry, or geriatric behavioral and mental health. Supported programs provide training in geriatrics and exposure to the physical and mental disabilities of elderly individuals through a variety of service rotations such as geriatric consultation services, acute care services, dental services, geriatric behavioral and/or mental health units, day and home care programs, rehabilitation services, extended care facilities, geriatric ambulatory care and comprehensive evaluation units, and community care programs for elderly mentally retarded individuals. Programs emphasize the principles of primary care as demonstrated through continuity, ambulatory, preventive, and psychosocial aspects of the practice of geriatric medicine, geriatric dentistry, and geriatric behavioral and mental health. Projects provide training in geriatrics through two-year fellowship programs and/or one-year retraining programs. Learning components for two-year fellows include clinical, research, administration, and teaching. A minimum of three fellows—one from each discipline—is required each year of the award.

This program is not included in the President's budget for FY 2003. Potential applicants for funds should consider this announcement provisional until final Congressional action on appropriations is taken. Updated information on Congressional action on appropriations will be available on the HRSA Web site.

Eligibility: Schools of medicine, schools of osteopathic medicine, teaching hospitals, and graduate medical education programs.

Funding Priorities and/or Preferences:

Statutory Funding Preferences: As provided in section 791(a) of the Public Health Service Act, as amended, preference will be given to any qualified applicant that: (A) has a high rate for placing graduates in practice settings having the focus of serving residents of medically underserved communities or (B) during the two-year period preceding the fiscal year for which such an award is sought, has achieved a significant increase in the rate of placing graduates in such settings. This statutory general preference will be applied to only those applications that rank above the 20th percentile of the applications recommended for approval by the peer review group.

So that new applicants may compete equitably, a preference will be given to those new programs that meet at least four of the criteria described in section 791(c)(3) of the Public Health Service Act, as amended, concerning medically underserved communities and populations.

Administrative Special Consideration: Special consideration will be given to applicants who (a) develop new and innovative approaches to education and training using distance learning methodologies/telehealth, or (b) enhance or expand existing distance learning educational programs with the purpose of preparing health professionals and health professional students to deliver quality health care in medically underserved communities.

Estimated Amount of This Competition: $2,000,000.

Estimated Number of Awards: 5.

Estimated or Average Size of Each Award: $400,000.

Estimated Project Period: 5 years.

HRSA 03-018 Geriatric Training for Physicians, Dentists, and Behavioral and Mental Health Professionals* (GTPD)

Application Availability Date: August 12, 2002.

Application Deadline: December 16, 2002.

Project Award Date: June 30, 2003.

Program Contact Person: Kathleen Bond.

Phone Number: (301) 443-8681.

E-mail: kbond@hrsa.gov.

HRSA 03-019 Geriatric Academic Career Awards* (GACA)

Legislative Authority: Public Health Service Act, Title VII, Section 753(c), 42 U.S.C. 294c.

CFDA Number: 93.250.

Purpose: The purpose of this program is to increase the number of junior faculty in geriatrics at accredited schools of medicine and osteopathic medicine and to promote their careers as academic geriatricians. Award recipients must serve as members of the faculties of accredited schools of allopathic or osteopathic medicine providing teaching services, according to the service requirements under this award, for up to 5 years. Prior to submitting an application for the Geriatric Academic Career Award, individuals must have an agreement with an eligible school setting forth the terms and conditions of the award. The agreement with the school must permit the individual to serve as a full-time (as determined by the school) member of the faculty, for not less than the period of the award. As provided in section 753 (c)(5) of the Public Health Service Act, as amended, an individual who receives an award shall provide training in clinical geriatrics, including the training of interdisciplinary teams of health care professionals. The provision of such training shall constitute at least 75 percent of the obligations of the individual under this award. Geriatric Academic Career Awards are made directly to individuals, not institutions.

This program is not included in the President's budget for FY 2003. Potential applicants for funds should consider this announcement provisional until final Congressional action on appropriations is taken. Updated information on Congressional action on appropriations will be available on the HRSA Web site.

Eligibility: Geriatric Academic Career Awards are provided for individuals who meet the following criteria: (1) Are board certified or board eligible in internal medicine, family practice, or psychiatry; (2) have completed an approved fellowship program in geriatrics; and (3) have a junior faculty appointment at an accredited school of medicine (allopathic or osteopathic).

Review Criteria: Review criteria are included in the application kit.

Estimated Amount of This Competition: $1,000,000.

Estimated Number of Awards: 20.

Estimated or Average Size of Each Award: $50,000.

Estimated Project Period: 5 years.

HRSA 03-019 Geriatric Academic Career Awards* (GACA)

Application Availability Date: November 4, 2002.

Application Deadline: February 3, 2003.

Projected Award Date: June 30, 2003.

Program Contact Person: Kathleen Bond.

Phone Number: (301) 443-8681.

E-mail: kbond@hrsa.gov.

HRSA 03-020 Quentin N. Burdick Program for Rural Interdisciplinary Training* (QBRH)

Legislative Authority: Public Health Service Act, Title VII, Section 754, 42 U.S.C. 294d, Section 750(a), 42 U.S.C. 294.

CFDA Number: 93.192.

Purpose: The goal of this program is to support the education and training of health professions students in rural underserved communities and to improve access to health care in rural areas. In an effort to address the rural health professions workforce needs, this program provides funding for student stipends and for interdisciplinary training projects designed to: (1) Use new and innovative methods to train health care practitioners to provide services in rural areas; (2) demonstrate and evaluate innovative interdisciplinary methods and models designed to provide access to cost-effective comprehensive health care; (3) deliver health care services to individuals residing in rural areas; (4) enhance the amount of relevant research conducted concerning health care issues in rural areas; and (5) increase the recruitment and retention of health care practitioners in rural areas and make rural practice a more attractive career choice for health care practitioners.

This program is not included in the President's budget for FY 2003. Potential applicants for funds should consider this announcement provisional until final Congressional action on appropriations is taken. Updated information on Congressional action on appropriations will be available on the HRSA Web site.

Eligibility: Applications will be accepted from health professions schools, academic health centers, State or local governments, or other appropriate public or private nonprofit entities, including faith-based organizations and community-based organizations, for funding and participation in health professions and nursing training activities. Applications must be jointly submitted by at least two eligible applicants with the express purpose of assisting individuals in academic institutions in establishing long-term collaborative relationships with health care providers in rural areas. Applicants must designate a rural health care agency or agencies for clinical treatment or training including hospitals, community health centers, migrant health centers, rural health clinics, community behavioral and mental health centers, long-term care facilities, Native Hawaiian health centers or facilities operated by the Indian Health Service or an Indian tribe or tribal organization or Indian organization under a contract with the Indian Health Service under the Indian Self-Determination Act.

Statutory Funding Preference: As provided in section 791(a) of the Public Health Service Act, as amended, preference will be given to any qualified applicant that: (1) has a high rate for placing graduates in practice settings having the principal focus of serving residents of medically underserved communities; or (2) during the 2-year period preceding the fiscal year for which such an award is sought, has achieved a significant increase in the rate of placing graduates in such settings. This statutory general preference will only be applied to applications that rank above the 20th percentile of applications recommended for approval by the peer review group.

So that new applicants may compete equitably, a preference will be given to those new programs that meet at least four of the criteria described in section 791(c)(3) of The Public Health Service Act, as amended, concerning medically underserved communities and populations.

A funding priority will be given to qualified applicants who devote significant resources to educate and train health professionals in rural areas experiencing shortages in geriatrics, oral health, and/or mental health.

Administrative Special Consideration: Special consideration will be given to applicants who (a) develop new and innovative approaches to education and training using distance learning methodologies/telehealth, or (b) enhance or expand existing distance learning educational programs with the purpose of preparing health professionals and health professional students to deliver quality health care in medically underserved communities.

Review Criteria: Review criteria are included in the application kit.

Estimated Amount of This Competition: $3,000,000.

Estimated Number of Awards: 13.

Estimated or Average Size of Each Award: $225,000.

Estimated Project Period: 3 years.

HRSA 03-020 Quentin N. Burdick Program for Rural Interdisciplinary Training* (QBRH)

Application Availability Date: October 11, 2002.

Application Deadline: January 10, 2003.

Projected Award Date: June 30, 2003.

Program Contact Person: Marcia Starbecker.

Phone Number: (301) 443-6867.

E-mail: mstarbecker@hrsa.gov.

HRSA 03-021 Allied Health Projects* (AHPG)

Legislative Authority: Public Health Service Act, Title VII, section 755, 42 U.S.C. 294e.

CFDA Number: 93.191.

Purpose: Grants are awarded to assist eligible entities in meeting the costs associated with expanding or establishing programs that will: (1) Expand enrollments in allied health disciplines that are in short supply or whose services are most needed by the elderly; (2) provide rapid transition training programs in allied health fields to individuals who have baccalaureate degrees in health-related sciences; (3) establish community-based training programs that link academic centers to rural clinical settings; (4) provide career advancement training for practicing allied health professionals; (5) expand or establish clinical training sites for allied health professionals in medically underserved or rural communities in order to increase the number of individuals trained; (6) develop curriculum that will emphasize knowledge and practice in the areas of prevention and health promotion, geriatrics, long-term care, home health and hospice care, and ethics; (7) expand or establish interdisciplinary training programs that promote the effectiveness of allied health practitioners in geriatric assessment and the rehabilitation of the elderly; (8) expand or establish demonstration centers to emphasize innovative models to link allied health, clinical practice, education, and research; and (9) meet the costs of projects to plan, develop, and operate or maintain graduate programs in behavioral and mental health practice.

This program is not included in the President's budget for FY 2003. Potential applicants for funds should consider this announcement provisional until final Congressional action on appropriations is taken. Updated information on Congressional action on appropriations will be available on the HRSA Web site.

Eligibility: Eligible entities are health professions schools, academic health centers, State or local governments, or other public or private nonprofit entities, including faith-based organizations and community-based organizations. Eligible academic institutions are also required to use funds in collaboration with two or more disciplines.

Funding Priorities and/or Preferences: As provided in section 791(a) of the Public Health Service Act, as amended, preference will be given to any qualified applicant that: (1) has a high rate for placing graduates in practice settings having the focus of serving residents of medically underserved communities; or (2) during the 2-year period preceding the fiscal year for which such an award is sought, has achieved a significant increase in the rate of placing graduates in such settings. This statutory general preference will only be applied to applications that rank above the 20th percentile of applications recommended for approval by the peer review group.

A preference will be given to those new programs that meet at least four of the criteria described in section 791(c)(3) of the Public Health Service Act, as amended, concerning medically underserved communities and populations so that new applicants may also compete equitably.

A funding priority will be given to qualified applicants who devote significant resources to provide community-based training experiences designed to improve access to health care services in underserved areas; these applicants include Asian-American and Pacific Islander Serving Institutions, Hispanic Serving Institutions, Historically Black Colleges and Universities, Tribal Colleges, and Universities serving American Indians and Alaska Natives, or an institution that collaborates with one or more of the above listed institutions (President's Executive Orders 12876, 12900, 13021, and 13125); or who educate and train allied health professionals experiencing shortage in the areas of medical technology, cytotechnology, genetic counseling and/or emergency preparedness.

Administrative Special Consideration: Special consideration will be given to applicants who (a) develop new and innovative approaches to education and training using distance learning methodologies/telehealth, or (b) enhance or expand existing distance learning educational programs with the purpose of preparing health professionals and health professional students to deliver quality health care in medically underserved communities.

Review Criteria: Review criteria are included in the application kit.

Estimated Amount of This Competition: $1,500,000.

Estimated Number of Awards: 13.

Estimated or Average Size of Each Award: $115,000.

Estimated Project Period: 3 years.

HRSA 03-021 Allied Health Projects* (AHPG)

Application Availability Date: October 11, 2002.

Application Deadline: January 13, 2003.

Projected Award Date: June 30, 2003.

Program Contact Person: Young Song.

Phone Number: (301) 443-3353.

E-mail: ysong@hrsa.gov.

HRSA 03-022 Chiropractic Demonstration Project Grants* (CHIRO)

Legislative Authority: Public Health Service Act, Title VII, section 755(b)(3), 42 U.S.C. 294e, Section 750(a), 42 U.S.C. 294.

CFDA Number: 93.212.

Purpose: Grants are awarded to carry out demonstration projects in which chiropractors and physicians collaborate to identify and provide effective treatment for spinal and lower-back conditions. Among other requirements, the project must: (1) Address the identification and treatment of spinal and/or lower-back conditions; (2) be founded on collaborative efforts between chiropractors and allopathic or osteopathic physicians; (3) include a strong research protocol which will result in a significant expansion of documented research in the area addressed and which is suitable for publication in referred health professions journals, including research oriented publications; (4) include an explicit strategy for case-finding and a strategy for making direct comparisons to other forms of treatment. The results must be generalizable to patients cared for in clinical practices addressing spinal and/or lower-back conditions; and (5) include, whenever feasible, minorities and women in study populations so that research findings can be of benefit to all persons at risk of the disease, disorder, or condition under study.

This program is not included in the President's budget for FY 2003. Potential applicants for funds should consider this announcement provisional until final Congressional action on appropriations is taken. Updated information on Congressional action on appropriations will be available on the HRSA Web site.

Eligibility: Eligible entities are accredited health professions schools, academic health centers, State or local governments, other appropriate public or private nonprofit entities, including faith-based organizations and community-based organizations, or public or private nonprofit accredited schools of chiropractic.

Funding Preferences and/or Priorities: A funding priority will be given to qualified applicants who devote significant project resources to research in geriatrics.

Review Criteria: Review criteria are included in the application kit.

Estimated Amount of This Competition: $1,050,000.

Estimated Number of Awards: 3 awards.

Estimated or Average Size of Each Award: $325,000.

Estimated Project Period: 3 years.

HRSA 03-022 Chiropractic Demonstration Project Grants* (CHIRO)

Application Availability Date: November 18, 2002.

Application Deadline: March 31, 2003.

Projected Award Date: August 29, 2003.

Program Contact Person: Jennifer Hannah.

Phone Number: (301) 443-0908.

E-mail: jhannah@hrsa.gov.

HRSA 03-023 Grants to States for Loan Repayment Programs (SLRP)

Legislative Authority: Public Health Service Act, Title III, Section 338I, 42 U.S.C., 254q-1.

CFDA Number: 93.165.

Purpose: The purpose of these grant funds is to assist States in operating programs for the repayment of educational loans of health professionals in return for their practice in Federally-designated health professional shortage areas to increase the availability of primary health services in such areas.

Matching or Cost Sharing Requirement: States seeking support must provide assurance that, with respect to costs of making loan repayments under contracts with health professionals, the State will make available (directly or through donations from public or private entities) non-Federal contributions in cash in an amount equal to no less than $1 for $1 of Federal funds provided in grants. In determining the amount of non-Federal contributions in cash that a State has to provide, no Federal funds may be used in the State's match.

Eligibility: All 50 States are eligible to apply for funding. The program administered by the grant must be administered by a State agency.

Estimated Amount of This Competition: $4,100,000.

Estimated Number of Awards To Be Made: 21.

Estimated or Average Size of Each Award: $200,000.

Estimated Project Period: 3 years.

HRSA 03-023 Grants to States for Loan Repayment Programs (SLRP)

Application Availability Date: April 1, 2003.

Application Deadline: May 15, 2003.

Projected Award Date: August 29, 2003.

Program Contact Person: Mildred Brooks-McDow.

Phone Number: (301) 443-6889.

E-mail: mbrooks-mcdow@hrsa.gov.

HRSA 03-024 Cooperative Agreement for a Regional Center for Health Workforce Studies* (RCHWS)

Legislative Authority: Public Health Service Act, Title VII, Section 761.

CFDA Number: 93.300.

Purpose: The purpose of this Cooperative Agreement is to support health workforce research, analysis and technical assistance with a State, regional and national focus. In addition to covering specific health workforce disciplines, the Regional Center will conduct research on the crosscutting, topical areas of distribution, diversity, genetics, and geriatrics. The Regional Center may also conduct research on health workforce issues related to border, mental and oral health, cultural competence, and the impact of health workforce development on the access to, or financing of, a State's or region's health care system.

This program is not included in the President's budget for FY 2003. Potential applicants for funds should consider this announcement provisional until final Congressional action on appropriations is taken. Updated information on Congressional action on appropriations will be available on the HRSA Web site.

Federal Involvement: Federal involvement will be detailed in the application materials.

Matching or Cost Sharing Requirement: The award recipient institution must share in the cost of the program as follows: For each year funds are awarded under this program, the matching contribution shall be at least one-third of the amount of the Federal award for that year. Up to 50 percent of the recipient's matching contribution may be in the form of in-kind donations such as faculty time, staff time, use of computers and other shared resources.

Eligibility: Eligible applicants are State or local governments, health professions schools, schools of nursing, academic health centers, community-based health facilities, and other appropriate public or private nonprofit entities, including faith-based organizations and community-based organizations.

Funding Priorities or Preferences: Because the Regional Center will have a strong regional component, the Bureau of Health Professions will consider the regional location and focus of the Center selected to ensure that the geographic distribution of all of the Centers will achieve maximum geographic coverage of the nation. Currently, there are five Regional Centers covering all regional areas of the country except the Southeast region. Therefore, applications are being accepted for a Regional Center only in the Southeast.

For purposes of this competition, the geographic area covered by the Southeast is HRSA Region 4 (Alabama, Florida, Georgia, Kentucky, Mississippi, North Carolina, South Carolina, Tennessee). For a map and description of the HRSA Regions, see HRSA's Web site at: http://bhpr.hrsa/gov/healthworkforce/fieldoffices.htm.

Estimated Amount of this Competition: $250,000.

Estimated Number of Awards To Be Made: 1.

Estimated or Average Size of Each Award: $250,000.

Estimated Project Period: Up to 3 years.

HRSA 03-024 Cooperative Agreement for a Regional Center for Health Workforce Studies* (RCHWS)

Application Availability Date: November 1, 2002.

Application Deadline: January 21, 2003.

Projected Award Date: March 31, 2003.

Program Contact Person: Louis A. Kuta and Sarah Richards.

Phone Number: (301) 443-6634 and (301) 443-5452, respectively.

E-mail: LKuta@HRSA.gov and SRichards@HRSA.gov.

Special Programs for Individuals

HRSA 03-025 NHSC Scholarship Program (NHSCS)

Legislative Authority: Public Health Service Act, Title III, Sections 338A and 338C-E, 42 USC 254l and 254m-o.

CFDA Number: 93.288.

Purpose: The purpose of the National Health Service Corps (NHSC) Scholarship Program is to ensure an adequate supply of physicians, dentists, certified nurse midwives, certified family nurse practitioners, and physician assistants, and, if needed by the NHSC, an adequate supply of other health professionals, to provide primary health services to the populations located in Health Professional Shortage Areas (HPSAs) identified by the Secretary of the Department of Health and Human Services. HPSAs can be found in rural and urban communities across the Nation. The NHSC provides scholarships to health professions students. In return, scholarship recipients agree to provide primary health services in NHSC community sites across the Nation. The NHSC is seeking health professions students who demonstrate interest in serving the Nation's medically underserved populations and remaining in HPSAs beyond their service commitment.

Eligibility: At the time of award, the applicant must be a U.S. citizen or national and must (1) be enrolled or accepted for enrollment as a full-time student in an accredited school in a State and in a course of study or program, offered by such school and approved by the Secretary, leading to a degree in medicine, osteopathic medicine, dentistry or other health profession; (2) be eligible for, or hold, an appointment as a Commissioned Officer in the Regular or Reserve Corps of the Public Health Service or be eligible for selection for civilian service in the NHSC; (3) submit an application to participate in the Scholarship Program; and (4) sign and submit to the Secretary at the time of such application, a written contract to accept payment of a scholarship and to serve for the applicable period of obligated service in a HPSA.

Funding Priorities or Preferences: Priority will be given (A) first, to applicants who are former recipients of NHSC scholarship support and to former recipients of the Federal Scholarship Program for Students of Exceptional Financial Need, (B) second, to applicants who have characteristics that increase the probability of their continuing to practice in a HPSA after they have completed their service commitment, and (C) third, subject to subparagraph (B), to applicants certified by their school as being from a disadvantaged background.

Estimated Amount of This Competition: $55,000,000.

Estimated Number of Awards To Be made: 522.

Estimated or Average Size of Each Award: FNP/PA/CNM $67,000; Dentists $75,000; MD/DO $135,000.

HRSA 03-025 NHSC Scholarship Program (NHSCS)

Application Availability Date: January 7, 2003.

Application Deadline: March 28, 2003.

Projected Award Date: September 30, 2003.

Program Contact Person: Sonya Shorter.

Phone Number: (301) 594-4410.

E-mail: NHSC@HRSA.GOV.

HRSA 03-026 National Health Service Corps Loan Repayment Program (NHSCL)

Legislative Authority: Public Health Service Act, Title III, Sections 338B-E, 42 U.S.C. 254l-1-o.

CFDA Number: 93.162.

Purpose: The purpose of the National Health Service Corps (NHSC) Loan Repayment Program (LRP) is to ensure an adequate supply of health professionals to provide primary health services (through a culturally competent, interdisciplinary team of clinicians) to populations located in health professional shortage areas (HPSAs) identified by the Secretary of the Department of Health and Human Services. HPSAs can be found in rural and urban communities across the Nation. The NHSC LRP recruits health professionals who agree to provide primary health services in NHSC community sites. In return, the NHSC LRP assists clinicians in their repayment of qualifying educational loans. The NHSC is seeking clinicians who demonstrate interest in serving the Nation's medically underserved populations and remaining in HPSAs beyond their service commitment.

Eligibility: An applicant for the NHSC LRP must be a citizen or national of the United States and must (1) (A) have a degree in medicine, osteopathic medicine, dentistry, or other health profession, or be certified as a nurse midwife, nurse practitioner, or physician assistant, (B) be enrolled in an approved graduate training program in medicine, osteopathic medicine, dentistry, behavioral and mental health, or other health profession, or (C) be enrolled as a full-time student in an accredited educational institution in a State, and in the final year of a course of a study or program, offered by such institution and approved by the Secretary, leading to a degree in medicine, osteopathic medicine, dentistry, or other health profession; (2) be eligible for, or hold, an appointment as a commissioned officer in the Regular or Reserve Corps of the Public Health Service or be eligible for selection for civilian service in the NHSC; and (3) submit to the Secretary an application for a contract relating to the payment by the Secretary of the educational loans of the individual in consideration of the individual serving for an obligated period of time. Applicants should be negotiating or have secured employment at an eligible community site, and must not have any other service obligations.

Funding Priorities or Preferences: Priority will be given to (A) applicants whose health profession training is needed by the NHSC (needed disciplines will be identified in the applicant bulletin), (B) applicants who have characteristics that increase the probability of their continuing to practice in HPSAs after they have completed service, and (C) subject to paragraph (B), applicants from disadvantaged backgrounds. A funding preference will also be given to applicants serving HPSAs of greatest need.

Estimated Amount of This Competition: $62,600,000.

Estimated Number of Awards To Be Made: 970.

Estimated or Average Size of Each Award: $63,850.

Estimated Project Period: 2 years.

HRSA 03-026 National Health Service Corps Loan Repayment Program (NHSCL)

Application Availability Date: October 1, 2002.

Application Deadline: March 28, 2003.

Projected Award Date: August 29, 2003.

Program Contact Persons: Kay Cook, Gail Allen.

Phone Numbers: (301) 594-4403 (Cook), (301) 594-4394 (Allen).

E-mail: kcook@hrsa.gov, gallen@hrsa.gov.

HRSA 03-027 Faculty Loan Repayment Program* (FLRP)

Legislative Authority: Public Health Service Act, Title VII, section 738(a), 42 U.S.C. 293b.

CFDA Number: 93.923.

Purpose: The Faculty Loan Repayment Program (FLRP) provides a financial incentive for degree-trained health professions personnel from disadvantaged backgrounds to pursue an academic career. The individuals agree to serve as members of the faculties of accredited health professions schools providing teaching services for a minimum of 2 years. The Federal Government in turn agrees to pay up to $20,000, for each year of service, of the outstanding principal and interest on the individual's education loans.

This program is not included in the President's budget for FY 2003. Potential applicants for funds should consider this announcement provisional until final Congressional action on appropriations is taken. Updated information on Congressional action on appropriations will be available on the HRSA Web site.

Matching or Cost Sharing Requirement: The school that has entered into a contractual agreement with a recipient is required, for each year in which the recipient serves as a faculty member under contract with HHS, to make payments of principal and interest in an amount equal to the amount of such quarterly payments made by the HHS Secretary. The payments must be in addition to the faculty salary the recipient would ordinarily receive or the school must request a waiver of its share of cost. The Secretary may waive the school's matching requirement if the Secretary determines it will impose an undue financial hardship on the school.

Eligibility: An individual is eligible to apply for loan repayment under FLRP if the individual is from a disadvantaged background, holds a health professions degree, is enrolled in an approved health professions graduate program, or will be enrolled as a full-time student in the final year of health professions training that leads to a degree in one of the following health professions: allopathic medicine, osteopathic medicine, podiatric medicine, veterinary medicine, dentistry, pharmacy, optometry, nursing, public health, dental hygiene, medical laboratory technology, occupational therapy, physical therapy, radiologic technology, speech pathology, audiology, medical nutrition therapy and graduate programs in behavioral health and mental health practice, clinical psychology, clinical social work, and marriage and family therapy.

Funding Priorities and/or Preferences: Preference will be given to applicants who have received a commitment from the employing institution to match FLRP funds; not previously held a faculty position; been out of school less than 5 years; not previously participated in FLRP; and who contribute to geographic distribution across the country and represent diverse health professions disciplines.

Review Criteria: Review criteria are included in the application kit.

Estimated Amount of This Competition: $1,000,000.

Estimated Number of Awards: 30.

Estimated or Average Size of Each Award: $16,800 per year.

Estimated Project Period: Minimum of 2 years.

HRSA 03-027 Faculty Loan Repayment Program* (FLRP)

Application Availability Date: March 3, 2003.

Application Deadline: May 30, 2003.

Projected Award Date: August 29, 2003.

Program Contact Person: Lorraine Evans.

Phone Number: (301) 443-0785.

E-mail: flrpinfo@hrsa.gov.

Internet Address: http://bhpr.hrsa.gov/dsa/flrp.

HRSA 03-028 Scholarships for Disadvantaged Students (SDS)

Legislative Authority: Public Health Service Act, Title VII, Section 737, 42 U.S.C. 293a.

CFDA Number: 93.925.

Purpose: The Scholarships for Disadvantaged Students (SDS) program contributes to the diversity of the health professions students and practitioners. The program provides funding to eligible health professions and nursing schools to be used for scholarships to students from disadvantaged backgrounds who have financial need for scholarships and are enrolled, or accepted for enrollment, as full-time students at the eligible schools. SDS program Web site is http://bhpr.hrsa.gov/dsa/weblinks/.

Eligibility: The following entities are eligible to apply for this program: (1) schools of allopathic medicine, osteopathic medicine, dentistry, optometry, pharmacy, podiatric medicine, veterinary medicine, public health, nursing, chiropractic, or allied health, graduate programs in behavioral and mental health practice, or an entity providing programs for the training of physician assistants; and (2) schools with a program for recruiting and retaining students from disadvantaged backgrounds.

Students from disadvantaged backgrounds must comprise the following: (1) At least 10 percent of the total enrollment (full-time students) of the school's (e.g., dentistry, baccalaureate nursing) during Academic Year (AY) 2000-2001 (07/01/2000-06/30/2001), and (2) At least 10 percent of the total graduates (who were full-time students) of the school's program during AY 2000-2001 (707/01/2000-06/30/2001), and (3) A school must have economically disadvantaged students enrolled and graduated during AY 2000-2001.

Funding Priorities and/or Preferences: A priority will be given to eligible entities that are health professions and nursing schools based on the proportion of graduating students going into primary care, the proportion of underrepresented minority students, and the proportion of graduates working in medically underserved communities.

Review Criteria: Review criteria are included in the application kit.

Estimated Amount of This Competition: Up to $10,000,000 is available under the President's FY 2003 budget.

Estimated Number of Awards: 105.

Estimated or Average Size of Each Award: $95,000.

Estimated Project Period: 1 year.

HRSA 03-028 Scholarships for Disadvantaged Students (SDS)

Application Availability Date: November 1, 2002.

Application Deadline: December 17, 2002.

Projected Award Date: March 31, 2003.

Program Contact Person: Andrea Castle, Pam Wellens.

Phone Number: (301) 443-1701, (301) 443-5168.

E-mail: dpolicy@hrsa.gov.

HRSA 03-029 Nursing Education Loan Repayment Program (NELRP)

Legislative Authority: Authorization Public Health Service Act, Title VIII, Section 846, 42 U.S.C. 297n.

CFDA Number: 93.908.

Purpose: Under the Nursing Education Loan Repayment Program (NELRP), registered nurses are offered the opportunity to enter into a contractual agreement with the Secretary to receive loan repayment for up to 85 percent of their qualifying loan balance as follows—30 percent each year for the first 2 years and 25 percent for the third year. In exchange, nurses agree to serve for 2 or 3 years in an eligible health facility (EHF).

Eligibility: An individual is eligible to apply for NELRP if the individual: (1) Has received a baccalaureate or associate degree in nursing, a diploma in nursing, or a graduate degree in nursing; (2) has obtained one or more nursing student loans authorized under section 835(a) of the Public Health Service Act, as amended, or any other educational loan for nurse training costs; (3) enters into an agreement to serve as a full-time registered nurse for a period of not less than two years in an EHF; and (4) is a U.S. citizen, U.S. national, or a permanent legal resident of the United States.

An “EHF” is defined as: (1) An Indian Health Service health center; (2) a Native Hawaiian health center; (3) a public hospital (operated by a State, county, or local government); (4) a health center funded under section 330 of the Public Health Service Act (including community, migrant, homeless, and public housing centers); (5) a rural health clinic under section 1861(aa)(2) of the Social Security Act; or (6) a public or nonprofit private health facility determined by the Secretary to have a critical shortage of nurses.

Funding Priorities or Preferences: As provided in section 846(e) of the Public Health Service Act, as amended, first preference will be given to qualified applicants with the greatest financial need who agree to serve in EHFs located in a county with a shortage of nurses.

Remaining funds will be awarded in the following order:

• First, to qualified applicants employed at an EHF located in a county with a shortage of nurses regardless of the applicants' financial need.

• Second, to qualified applicants employed at an EHF not located in a county with a shortage of nurses who demonstrate greatest financial need.

• Third, to other qualified applicants who are serving in States with few or no new NELRP participants.

Estimated Amount of This Competition: $13,840,000.

Estimated Number of Contracts to be Awarded: 675 new contracts.

Estimated or Average Size of Each Contract: $20,500.

HRSA 03-029 Nursing Education Loan Repayment Program (NELRP)

Application Availability Date: October 1, 2002.

Application Deadline: January 31, 2003.

Projected Award Date: May 30, 2003.

Program Contact Person: Jacqueline Brown.

Phone Number: (301) 443-3232.

E-mail: jbrown1@hrsa.gov.

Bureau of Primary Health Care

P. A. 03-030 Community and Migrant Health Centers (CMHS)

Legislative Authority: Public Health Service Act, Title III, Section 330 (g), 42 U.S.C. 254b and 254b(g).

CFDA Number: 93.224 and 93.246.

Purpose: The Community Health Center and Migrant Health Center (C/MHC) programs are designed to promote the development and operation of community-based primary health care service systems in medically underserved areas for medically underserved populations. It is the intent of HRSA to continue to support health services in these areas, given the unmet need inherent in their provision of services to medically underserved populations. It is expected that each application submitted to serve one of these areas will present a clear focus on maintaining access to care and reducing health disparities identified in the target population. In FY 2003, HRSA will be implementing the second year of the President's Health Center Growth Initiative to expand access to the Nation's poor and underserved. HRSA will open competition for awards under Section 330 of the Public Health Service Act to support health services in the areas served by these grants. One hundred forty-four C/MHC grantees will reach the end of their project period during FY 2003. Applications are due 120 days before the expiration date.

Eligibility: Applicants are limited to currently funded programs whose project periods expire during FY 2003 and new organizations proposing to serve the same areas or populations being served by these existing programs. New organizations eligible to compete to serve one of these areas are public and nonprofit private entities, including faith-based organizations and community-based organizations.

Special Considerations: Communication with Field Office staff is essential for interested parties in deciding whether to pursue Federal funding as a C/MHC. Technical assistance and detailed information about each service area, such as census tracts, can be obtained by contacting the HRSA Field Office.

Estimated Amount of This Competition: $191,100,000.

Estimated Number of Awards To Be Made: 147.

Estimated or Average Size of Each Award: $1,300,000.

Estimated Project Period: 1-5 years.

HRSA 03-030 Communtiy and Migrant Health Centers (CMHS)

Application Availability Date: Continuous.

Application Deadline: Varies.

Projected Award Date: Varies.

Program Contact Person: Cephas Goldman (CDFA 93.224), George Ersek (CFDA93.246)

Phone Number: Goldman (301) 594-4300; Ersek (301) 594-4301.

E-mail: CGoldman@hrsa.gov; gersek@hrsa.gov.

Community/Migrant Health Centers

City | State | Expiration date
HRSA Boston Field Office
617-565-1482
Boston | MA | 11/30/2002
Bridgeport | CT | 01/31/2003
Roxbury | MA (2) | 01/31/2003
Truro | MA | 01/31/2003
Allston | MA | 01/31/2003
Turner Falls | MA | 01/31/2003
Eastport | ME | 03/31/2003
Princeton | ME | 03/31/2003
Leeds | ME | 03/31/2003
Springfield | MA | 06/30/2003
Middletown | CT | 06/30/2003
Berlin | NH | 06/30/2003
HRSA New York Field Office
212-264-2664
White Plains | NY | 11/30/2002
Newark | NJ | 11/30/2002
Cortland | NY | 11/30/2002
Rushville | NY | 12/31/2002
Bronx | NY (3) | 01/31/2003
Hatillo | PR | 01/31/2003
Morovis | PR | 01/31/2003
Middletown | NY | 02/28/2003
New York | NY | 02/28/2003
Naranjito | PR | 05/31/2003
Rio Grande | PR | 06/30/2003
Bronx | NY | 06/30/2003
New York | NY | 06/30/2003
Brooklyn | NY | 06/30/2003
HRSA Philadelphia Field Office
215-861-4422
Baltimore | MD | 11/30/2002
Rainelle | WV | 11/30/2002
Philadelphia | PA | 11/30/2002
Chambersburg | PA | 11/30/2002
Victoria | VA | 12/31/2002
Axton | VA | 01/31/2003
Bastian | VA | 01/31/2003
Scott Depot | WV | 02/28/2003
Mill Creek | WV | 02/28/2003
Horizon | VA | 03/31/2003
Chase Brexton | MD | 06/30/2003
Kuumba | VA | 06/30/2003
HRSA Atlanta Field Office
404-562-2996
Kinston | NC | 11/30/2002
Parrish | FL | 11/30/2002
Savannah | GA | 11/30/2002
Orangeburg | SC | 11/30/2002
Louisville | KY | 11/30/2002
Palatka | FL | 11/30/2002
Faison | NC | 12/31/2002
Fellsmere | FL | 12/31/2002
Savannah | TN | 12/31/2002
Oakhurst | GA | 12/31/2002
Coconut Grove | FL | 12/31/2002
Avon Park | FL | 01/31/2003
Prestonburg | KY | 01/31/2003
Rock Hill | SC | 01/31/2003
Olanta | SC | 01/31/2003
Pompano Beach | FL | 01/31/2003
Columbia | SC | 01/31/2003
Smithville | MS | 01/31/2003
Mobile | AL | 02/28/2003
Greensboro | GA | 02/28/2003
Bowling Green | KY | 02/28/2003
Ridgeland | SC | 02/28/2003
Columbia | SC | 03/31/2003
Nashville | TN | 03/31/2003
Charleston | SC | 03/31/2003
Clearwater | SC | 05/31/2003
Clarksdale | MS | 05/31/2003
Hollister | NC | 05/31/2003
Palmetto | GA | 05/31/2003
Fayette | MS | 05/31/2003
Huntsville | TN | 05/31/2003
Columbus | GA | 06/30/2003
Russellville | AL | 06/30/2003
Jacksonville | FL | 06/30/2003
HRSA Chicago Field Office
312-353-1715
Indianapolis | IN | 11/30/2002
Toledo | OH | 11/30/2002
Columbus | OH | 11/30/2002
St. Paul | MN | 11/30/2002
Chicago | IL | 11/30/2002
East Chicago | IN | 11/30/2002
Lisbon | OH | 12/31/2002
Youngstown | OH | 12/31/2002
Houghton Lake | MI | 12/31/2002
Chicago | IL | 01/31/2003
Detroit | MI | 01/31/2003
Milwaukee | WI (2) | 01/31/2003
Joliet | IL | 02/28/2003
Chicago | IL (2) | 02/28/2003
Mansfield | OH | 02/28/2003
Cleveland | OH | 02/28/2003
Muncie | IN | 02/28/2003
Chicago | IL | 06/30/2003
Beloit | WI | 06/30/2003
Detroit | MI | 06/30/2003
HRSA Dallas Field Office
214-767-3872
De Leon | TX | 11/30/2002
Dallas | TX | 11/30/2002
West Memphis | AR | 11/30/2002
Pecos | NM | 12/31/2002
Santa Fe | NM | 12/31/2002
Natchitoches | LA | 01/31/2003
Tierra Amarilla | NM | 01/31/2003
New Roads | LA | 02/28/2003
River Ridge | LA | 02/28/2003
Austin | TX | 02/28/2003
Baton Rouge | LA | 05/31/2003
Clarendon | AR | 05/31/2003
Corning | AR | 06/30/2003
Greenburg | LA | 06/30/2003
Wichita Falls | TX | 06/30/2003
Opelousas | LA | 06/30/2003
Marshall | AR | 06/30/2003
HRSA Kansas City Field Office
816-426-5296
Omaha | NE | 01/31/2003
Great Bend | KS | 02/28/2003
Ava | MO | 02/28/2003
Omaha | NE | 02/28/2003
Ottumwa | IA | 02/28/2003
HRSA Denver Field Office
303-844-3203
Colorado Springs | CO | 12/31/2002
Libby | MT | 02/28/2003
Montezuma Creek | UT | 02/28/2003
Enterprise | UT | 03/31/2003
East Carbon | UT | 06/30/2003
Great Falls | MT | 06/30/2003
Fargo | ND | 06/30/2003
HRSA San Francisco Field Office
415-437-8090
Los Angeles | CA | 11/30/2002
Fresno | CA | 11/30/2002
San Mateo | CA | 11/30/2002
Arcata | CA | 12/31/2002
Salinas | CA | 12/31/2002
Koror | PW | 12/31/2002
Los Angeles | CA | 01/31/2003
Petaluma | CA | 02/28/2003
Honokaa | HI | 02/28/2003
Lihue | HI | 02/28/2003
Ajo | AZ | 02/28/2003
Greenbrae | CA | 02/28/2003
Point Reyes | CA | 02/28/2003
Hagatna | GU | 03/31/2003
Page | AZ | 05/31/2003
Ukiah | CA | 06/30/2003
Kahului | HI | 06/30/2003
HRSA Seattle Field Office
206-615-2491
Bethel | AK | 02/28/2003
Galena | AK | 02/28/2003
Bremerton | WA | 06/30/2003
Soldotna | AK | 08/31/2003

HRSA 03-031 Health Care for the Homeless (HCH)

Legislative Authority: Public Health Service Act, Title III, Section 330(h), 42 U.S.C. 254B(h).

CFDA Number: 93.151.

Purpose: The Health Care for the Homeless (HCH) program is designed to increase the access of homeless populations to cost-effective, case managed, and integrated primary care and substance abuse services provided by existing community-based programs/providers. It is expected that each application submitted to serve an identified homeless population will present a clear focus on maintaining access to care and reducing health disparities identified in the target population by proposing a comprehensive health care and social services program. It is the intent of HRSA to continue to support health services to the homeless people in these areas/locations given the continued need for cost-effective, community-based primary care services. Twenty-one HCH grantees will reach the end of their project period during FY 2003. Applications are due 120 days before the expiration date.

Eligibility: Applicants are limited to currently funded programs whose project periods expire during FY 2003 and new organizations proposing to serve the same areas or populations being served by these existing programs. New organizations eligible to compete to serve one of these areas are public and nonprofit private entities, including faith-based organizations and community-based organizations.

Special Considerations: Communication with Field Office staff is essential for interested parties in deciding whether to pursue Federal funding as a HCH program. Technical assistance and detailed information about each service area, such as census tracts, can be obtained by contacting the HRSA Field Office.

Estimated Amount of This Competition: $10,500,000.

Estimated Number of Awards To Be Made: 21.

Estimated or Average Size of Each Award: $500,000.

Estimated Project Period: 1-5 years.

HRSA 03-031 Health Care for the Homeless (HCH)

Application Availability Date: Continuous.

Application Deadline: Varies.

Projected Award Date: Varies.

Program Contact Person: Monica Toomer.

Phone Number: (301) 594-4434.

E-mail: mtoomerz@hrsa.gov.

Health Care for the Homeless

City | State | Expiration date
HRSA Boston Field Office
617-565-1482
Bridgeport | CT | 01/31/2003
HRSA New York Field Office
212-264-2664
Camden | NJ | 10/31/2002
Rochester | NY | 10/31/2002
Newark | NJ | 10/31/2002
White Plains | NY | 11/30/2002
HRSA Atlanta Field Office
404-562-2996
Miami | FL | 10/31/2002
Nashville | TN | 10/31/2002
Clearwater | FL | 10/31/2002
Memphis | TN | 05/31/2003
HRSA Chicago Field Office
312-353-1715
Grand Rapids | MI | 10/31/2002
Battle Creek | MI | 10/31/2002
Columbus | OH | 11/30/2002
Toledo | OH | 11/30/2002
Indianapolis | IN | 11/30/2002
HRSA Kansas City Field Office
816-426-5296
Omaha | NE | 01/31/2003
HRSA Denver Field Office
303-844-3203
Salt Lake City | UT | 10/31/2002
Fargo | ND | 06/30/2003
HRSA San Francisco Field Office
415-437-8090
Phoenix | AZ | 10/31/2002
Sacramento | CA | 10/31/2002
Santa Barbara | CA | 10/31/2002
Martinez | CA | 10/31/2002

HRSA 03-032 Public Housing Primary Care (PHPC)

Legislative Authority: Section 330(i) of the Public Health Service Act, 42 U.S.C. 254b(i).

CFDA Number: 93.927.

Purpose: The mission of the Public Housing Primary Care (PHPC) program is to increase access to comprehensive primary and preventive health care and to improve the physical, mental and economic well-being of public housing residents. The three priorities for promoting access to primary care and improving the well being of residents of public housing are: resident involvement and participation in program development and implementation; innovative service delivery systems that address the special health needs of public housing residents; and collaboration with other health, education and community-based organizations. It is expected that each application to serve an identified population of residents of public housing will present a clear focus on maintaining access to care and reducing health disparities identified in the target population. It is the intent of HRSA to continue to support health services to public housing residents in these areas/locations given the continued need for cost-effective, community-based primary care services. Six PHPC grantees will reach the end of their project period during FY 2003. Applications are due 120 days before the expiration date.

Eligibility: Applicants are limited to currently funded programs whose project periods expire during FY 2003 and new organizations proposing to serve the same areas or populations being served by these existing programs. New organizations eligible to compete to serve one of these areas are public and nonprofit private entities, including faith-based organizations and community-based organizations.

Special Considerations: Communication with Field Office staff is essential for interested parties in deciding whether to pursue Federal funding as a PHPC grantee. Technical assistance and detailed information about each service area, such as census tracts, can be obtained by contacting the HRSA Field Office.

Estimated Amount of This Competition: $2,400,000.

Estimated Number of Awards To Be Made: 6.

Estimated or Average Size of Each Award: $400,000.

Estimated Project Period: 1-5 years.

HRSA 03-032 Public Housing Primary Care (PHPC)

Application Availability Date: Continuous.

Application Deadline: Varies.

Projected Award Date: Varies.

Program Contact Person: Evan R. Arrindell.

Phone Number: (301) 594-4334.

E-mail: rarrindell@hrsa.gov.

Public Housing

City | State | Expiration date
HRSA Boston Field Office
617-565-1482
Roxbury | MA | 01/31/2003
HRSA Philadelphia Field Office
215-861-4422
Philadelphia | PA | 08/31/2003
HRSA Atlanta Field Office
404-562-2996
Savannah | GA | 11/30/2002
Marietta | GA | 08/31/2003
HRSA Chicago Field Office
312-353-1715
Columbus | OH | 11/30/2002
Chicago | IL | 11/30/2002

HRSA 03-033 Healthy Schools, Healthy Communities (HSHC)

Legislative Authority: Section 330 of the Public Health Service Act, 42 U.S.C. 254b.

CFDA Number: 93.151.

Purpose: The purpose of the Healthy Schools, Healthy Communities (HSHC) program is to increase access to comprehensive primary and preventive health care to underserved children, adolescents and families. The HSHC programs and other Bureau of Primary Health Care (BPHC)-supported School Based Health Centers (SBHC) programs provide comprehensive primary and preventive health care services including mental health, oral health, ancillary, and enabling services in the school or on school grounds on a full-time basis. These services are culturally sensitive, family oriented, and tailored to meet the health care needs of youth, adolescents and the community. The array of services provided on-site is locally determined by school principals, school boards, parents and providers, and referral arrangements are provided for services not available on-site. No SBHC services are provided without fully informed parental consent. Each SBHC supports educational efforts by making sure that children are ready to learn through an integrated system providing continuity of care, and assuring after hours and year round coverage. It is expected that each application submitted to serve a school-based population presents a clear focus on maintaining access to care and reducing health disparities identified in the target population. It is the intent of HRSA to continue to support health services for these populations in the areas served by these grantees. Fourteen HSHC grantees will reach the end of their project period during FY 2003. Applications are due 120 days before the expiration date.

Eligibility: Applicants are limited to currently funded programs whose project periods expire during FY 2003 and new organizations proposing to serve the same areas or populations being served by these existing programs. New organizations eligible to compete to serve one of these areas are public and nonprofit private entities, including faith-based organizations and community-based organizations.

Special Considerations: Communication with Field Office staff is essential for interested parties in deciding whether to pursue Federal funding as a HSHC program. Technical assistance and detailed information about each service area, such as census tracts, can be obtained by contacting the HRSA Field Office.

Estimated Amount of This Competition: $4,200,000.

Estimated Number of Awards to be Made: 14.

Estimated or Average Size of Each Award: $300,000.

Estimated Project Period: 1-5 years.

HRSA 03-033 Healthy Schools, Healthy Communities (HSHC)

Application Availability Date: Continuous.

Application Deadline: Varies.

Projected Award Date: Varies.

Program Contact Person: Darryl Burnett.

Phone Number: (301) 594-4449.

E-mail: dburnett@hrsa.gov.

Healthy Schools, Healthy Communities

City | State | Expiration date
HRSA Boston Field Office
617-565-1482
Taunton | MA | 06/30/2003
Middletown | CT | 06/30/2003
HRSA New York Field Office
212-264-2664
New York | NY | 06/30/2003
Bronx | NY | 06/30/2003
Yonkers | NY | 06/30/2003
HRSA Philadelphia Field Office
215-861-4422
Victoria | VA | 12/31/2002
Baltimore | MD | 5/31/2003
HRSA Atlanta Field Office
404-562-2996
Miami Beach | FL | 12/31/2002
Fayette | MS | 05/31/2003
HRSA Chicago Field Office
312-353-1715
Chicago | IL | 11/30/2002
Chicago | IL | 06/30/2003
Indianapolis | IN | 06/30/2003
HRSA Dallas Field Office
214-767-3872
Santa Fe | NM | 12/31/2002
Greensburg | LA | 06/30/2003

HRSA 03-034 New Delivery Sites and New Starts in Programs Funded Under the Health Centers Consolidation Act (NDSCS)

Legislative Authority: Section 330 of the Public Health Service Act, 42 U.S.C. 254b.

CFDA Number: 93.224, 93.246, 93.151, 93.927, 93.151.

Purpose: The purpose of this activity is to support the establishment of new service delivery sites in each of the Health Center programs funded under section 330 of the Public Health Service Act. Each application for support to establish a new site must identify a population in need of primary health care services, and propose a specific plan to increase access to care and reduce disparities identified in the population or community to be served. This activity is the lead in fulfilling the President's multi-year Initiative to Expand Health Centers to bring much needed primary health care services to the Nation's neediest communities. In FY 2003, the establishment of new delivery sites under this program will be in the second year of a five-year initiative. The purpose of the Health Center program is to extend comprehensive primary and preventive health services (including mental health, substance abuse and oral health services) and supplemental services to populations currently without access to such services, and to improve their health status. The programs under this activity include: (1) Community Health Centers, section 330(e); (2) Migrant Health Centers, section 330(g); (3) Health Care for the Homeless program, section 330(h); (4) Public Housing Primary Care, section 330(i); and (5) Healthy School, Healthy Communities program, section 330(e). The populations served by these programs are: (1) Medically underserved populations in urban and rural areas; (2) migratory and seasonal agricultural workers and their families; (3) homeless people, including children and families; (4) residents of publicly subsidized housing; and (5) medically underserved school-students (K-12), their families, and medically underserved populations surrounding the school.

Matching or Cost Sharing Requirement: Communities seeking support are strongly encouraged to promote and seek outside funding and are required to maximize third party revenue to establish and maintain new service delivery areas.

Eligibility: Public and nonprofit private entities, including faith-based organizations and community-based organizations, are eligible to apply.

Funding Priorities and/or Preferences: In selecting applications for funding, special consideration will be given to approvable applications submitted from sparsely populated areas. A priority will be placed on applications that present clear plans to reduce or eliminate disparities identified in the population or community to be served. In addition, because significant efficiencies in the delivery of health care services can be realized through the appropriate use of technological improvements, a priority will be placed on applications that incorporate such improvements to enhance the quality of care, increase the efficiency and effectiveness of operations, and reduce costs. Other priorities will be included in the application guidance.

Estimated Amount of This Competition: $53,000,000.

Estimated Number of Awards to be Made: 90.

Estimated or Average Size of Each Award: $350,000-$650,000.

Estimated Project Period: 2 years or consistent with existing project period for currently funded organizations.

HRSA 03-034 New Delivery Sites and New Starts in Programs Funded Under the Health Centers Consolidation Act (NDSCS)

Application Availability Date: July 2002.

Letter of Intent Deadline: The letter of intent may be sent at anytime. Letters of intent are encouraged for organizations seeking funding for a new delivery site. Letters of intent will be accepted beginning July 31, 2002. The submission of a letter of intent is recommended but not required in order to submit an application to compete for funds in FY 2003. Information requirements to be included in the letter of intent submissions will be available in the application guidance.

Application Deadline: Applications will be accepted beginning October 1, 2002. Applications received by November 15, 2002 will be reviewed with funding decisions announced by February 28, 2003. Applications received by January 15, 2003 will be reviewed with funding decisions announced by April 30, 2003. Applications received by April 15, 2003 will be reviewed with funding decisions announced by July 31, 2003.

Projected Award Date: See above.

Program Contact Person: Tonya Bowers 93.224, George Ersek 93.246, Jean Hochron 93.151, Evan R. Arrindell 93.927, Sheri Downing-Futrell 93.151A.

Phone Numbers: Bowers (301) 594-4329, Ersek (301) 594-4301, Hochron (301) 594-4437, Arrindell (301) 594-4334, Downing-Futrell (301) 594-4468.

E-mail: tbowers@hrsa.gov; gersek@hrsa.gov; jhochron@hrsa.gov; rarrindell@hrsa.gov; sdowning-futrell@hrsa.gov.

HRSA 03-035 Increase in Medical Capacity in Programs Funded Under the Health Care Consolidation Act of 1996 (IMCHC)

Legislative Authority: Section 330 of the Public Health Service Act, 42 U.S.C. 254b.

CFDA Number: 93.224, 93.246, 93.151, 93.927.

Purpose: FY 2003 marks the second year of the President's multi-year plan to serve more of the Nation's neediest communities through significantly expanded health center access points. The HRSA is committed to improving and expanding access to health care for the underserved and to pledging new funding to strengthen the health care safety net through each of the Health Center programs funded under section 330 of the Public Health Service Act. Health centers extend preventive and primary health care services to populations currently without such services and improve the health status of medically underserved individuals. One way of achieving these goals and reaching new users of health centers is to approve funding increases for existing health center grantees that provide a plan for achieving increased medical capacity within their current service area. The programs included under this activity include: (1) Community Health Centers, section 330(e); (2) Migrant Health Centers, section 330(g); (3) Health Care for the Homeless, section 330(h); (4) Public Housing Primary Care, section 330(i); and (5) Healthy Schools, Healthy Communities program, section 330(e). The populations served by these programs are: (1) Medically underserved populations in urban and rural areas; (2) migratory and seasonal agricultural workers and their families; (3) homeless people, including children and families; (4) residents of publicly subsidized housing; and (5) medically underserved students in grades K through 12, their families, and medically underserved populations surrounding the school.

Eligibility: Applications are limited to currently funded health center programs (i.e., those organizations funded under section 330 (e), 330(g), 330(h), and 330(i)).

Funding Priorities and/or Preferences: In selecting applications for funding, special consideration will be given to approvable applications submitted from sparsely populated areas. A priority will be placed on applications that present clear plans to reduce or eliminate disparities identified in the population or community to be served. In addition, because significant efficiencies in the delivery of health care services can be realized through the appropriate use of technological improvements, a priority will be placed on applications that incorporate such improvements to enhance the quality of care, increase the efficiency and effectiveness of operations, and reduce costs. Other priorities will be included in the application guidance.

Estimated Amount of this Competition: $39,000,000.

Estimated Number of Awards To Be Made: 80.

Estimated or Average Size of Each Award: $350,000-$650,000.

Estimated Project Period: Consistent with organization's current project period.

HRSA 03-035 Increase in Medical Capacity in Programs Funded Under the Health Care Consolidation Act of 1996 (IMCHC)

Application Availability Date: November 1, 2002.

Application Deadline: February 1, 2003.

Projected Award Date: May 2003.

Program Contact Person: Janet Wetmore 93.224; George Ersek 93.246; Jean Hochron 93.151; Evan R. Arrindell 93.927; Laverne Green 93.151A.

Phone Numbers: Wetmore (301) 594-4340; Ersek (301) 594-4301; Hochron (301) 594-4437; Arrindell (301) 594-4334; Green (301) 594-4451.

E-mail: jwetmore@hrsa.gov; gersek@hrsa.gov; jhochron@hrsa.gov; rarrindell@hrsa.gov; lgreen@hrsa.gov.

HRSA 03-036 National Health Center Technical Assistance Cooperative Agreement (NAT)

Legislative Authority: Public Health Service Act, Title III, Section 330(k), 42 U.S.C. 254b(k).

CFDA Number: 92.129, 93.130A, 93.224.

Purpose: The Health Center programs deliver cost effective, high quality primary health care to underserved, vulnerable, low income, and minority populations. HRSA supports technical and non-financial assistance to Federally-funded health centers. It is the intent of HRSA to continue to support technical assistance for health center site development and operations in areas of increasing access to preventive and primary care, and the reduction of disparities of health outcomes.

Funding Priorities and/or Preferences: Applications from sparsely populated areas will be given special consideration. In selecting applications for funding, priority will be given to organizations that can demonstrate the potential to: (1) Design service delivery programs appropriate to the population being (or to be) served; (2) establish effective linkages with appropriate state and community-based organizations; (3) recruit and retain providers; (4) incorporate technological improvements in operating systems; and (5) enhance other programmatic areas related to the President's Initiative to expand Health Centers.

Eligibility: Public and private nonprofit entities, including faith-based organizations and community-based organizations, are eligible to apply.

Estimated Amount of This Competition: Up to $2,000,000.

Estimated Number of Awards to be Made: Up to 4.

Estimated or Average Size of Each Award: $100,000-$500,000.

Estimated Project Period: 1 to 5 years.

HRSA 03-036 National Health Center Technical Assistance Cooperative Agreement (NAT)

Application Availability Date: Continuous.

Application Deadline: Varies.

Projected Award Date: Varies.

Program Contact Person: Jean Hochron.

Phone Number: (301) 594-4437.

E-mail: jhochron@hrsa.gov.

HRSA 03-037 Increase in Mental Health and Substance Abuse, Oral Health, Care Management, and Pharmacy Services in Programs Funded Under the Health Centers Consolidation Act of 1996 (IMHSA)

Legislative Authority: Section 330 of the Public Health Service Act, 42 U.S.C. 254b.

CFDA Number: 93.224, 93.246, 93.151, 93.927.

Purpose: Access to mental health and substance abuse (MH/SA), oral health, and pharmacy services is critical to ensuring the overall health and well-being of the populations served by health centers and reducing disparities in health center populations being served. In addition, sustaining and spreading the care and improvement models implemented through the Health Disparities Collaboratives is enhanced by expanded care management capacity. As part of the President's multi-year plan to impact 1,200 of the Nation's neediest communities, the HRSA will continue to expand access to essential health care services and to support practice improvement through a targeted approach to care management. The availability of MH/SA, oral health, pharmacy and care management services will enhance the ability of health centers to provide basic primary care, result in an increase in users at existing grantee sites, and continue to improve the health status of persons served. Applicants for this funding opportunity are expected to: (1) Describe the target population and its need for MH/SA, oral health, pharmacy or care management services; (2) present a service delivery plan that demonstrates responsiveness to the identified needs of the target population; and (3) present a sound business plan that links the goals and objectives from the service delivery plan to the budget. The programs included under this activity include: (1) Community Health Centers, section 330(e); (2) Migrant Health Centers, section 330(g); (3) Health Care for the Homeless, section 330(h); (4) Public Housing Primary Care, section 330(i); and (5) Healthy Schools, Healthy Communities program, section 330(e). The populations served by these programs are: (1) Medically underserved populations in urban and rural areas; (2) migratory and seasonal agricultural workers and their families; (3) homeless people, including children and families; (4) residents of publicly subsidized housing; and (5) medically underserved students in grades K through 12, their families, and medically underserved populations surrounding the school.

Eligibility: Applicants are limited to currently funded health center programs (i.e., those organizations funded under sections 330(e), 330(g), 330(h); and 330(i)).

Estimated Amount of This Competition: $10,000,000.

Estimated Number of Awards To Be Made: 120-125.

Estimated or Average Size of Each Award: $40,000-$200,000.

Estimated Project Period: Consistent with organization's current project period.

HRSA 03-037 Increase in Mental Health and Substance Abuse, Oral Health, Care Management, and Pharmacy Services in Programs Funded Under the Health Centers Consolidation Act of 1996 (IMHSA)

Application Availability Date: November 1, 2002.

Application Deadline: February 1, 2003.

Projected Award Date: May 2003.

Program Contact Persons: Nora Lynn Buluran, Carolyn Aoyama-Mental Health/Substance Abuse; Jay Anderson-Oral Health; and Craig Hostetler, Pharmacy.

Phone Numbers: Buluran (301) 594-4296; Aoyama (301) 594-4294; Anderson (301) 594-4295; Hostetler (301) 594-4353.

E-mail: nbuluran@hrsa.gov; caoyama@hrsa.gov; janderson@hrsa.gov; chostetler@hrsa.gov.

HRSA 03-038 Radiation Exposure Screening and Education Program (RESEP)

Legislative Authority: Section 417C of the Public Health Service Act, 42 U.S.C. 285a-9.

CFDA Number: 93.257.

Purpose: The mission of the Radiation Exposure Screening and Education Program (RESEP) is to aid the thousands of individuals adversely affected by the mining, transport and processing of uranium and the testing of nuclear weapons for the Nation's weapons arsenal. This will be accomplished by carrying out programs designed for public education and information; screening eligible individuals for cancer and other related diseases; providing appropriate referrals for medical treatment; and facilitating documentation of claims under the Radiation Exposure Compensation Act.

Eligibility: The following entities are eligible to apply for funding: National Cancer Institute-designated cancer centers; Department of Veterans Affairs hospitals or medical centers; Federally Qualified Health Centers (FQHC), FQHC lookalikes, Community Health Centers, hospitals, agencies of any State or local government that currently provide direct health care services; Indian Health Service (IHS) health care facilities, including programs provided through tribal contracts, compacts, grants, or cooperative agreements with the IHS which are determined appropriate to raising the health status of Indians; and nonprofit organizations. Among the nonprofit organizations eligible to apply are faith-based organizations and community-based organizations.

Estimated Amount of This Competition: $4,000,000.

Estimated Number of Awards To Be Made: 12.

Estimated or Average Size of Each Award: $300,000.

Estimated Project Period: 1 year.

HRSA 03-038 Radiation Exposure Screening and Education Program (RESEP)

Application Availability Date: February 1, 2003.

Application Deadline: May 1, 2003.

Projected Award Date: September 1, 2003.

Program Contact Person: Vanessa Hooker.

Phone Number: (301) 594-4100.

E-mail: VHooker@hrsa.gov.

HRSA 03-039 Community Access Program* (CAP)

Legislative Authority: Departments of Labor, Health and Human Services, and Education and Related Agencies Appropriations Act (subject to FY 2003 funding).

CFDA Number: 93.252.

Purpose: To assist communities and consortia of health care providers to develop the infrastructure necessary to fully develop or strengthen integrated health systems of care that coordinate health services for the uninsured.

This program is not included in the President's budget for FY 2003. Potential applicants for funds should consider this announcement provisional until final Congressional action on appropriations is taken. Updated information on Congressional action on appropriations will be available on the HRSA Web site.

Eligibility: Public and nonprofit private entities, including faith-based and community-based organizations, that demonstrate a commitment to and experience with providing a continuum of care to uninsured individuals are eligible to apply. Each applicant must represent a community-wide coalition that includes local health care providers who have traditionally provided care to the community's uninsured and underinsured regardless of ability to pay. The consortium may include private sector health care providers and organizations.

Funding Priorities and/or Preferences: In selecting applications for funding, special consideration will be given to approvable applications submitted from sparsely populated areas. A priority will be placed on applications that present clear plans to coordinate their efforts with other safety-net providers and to develop integrated community-based systems of care. In addition, because significant efficiencies in the delivery of health care services can be realized through the appropriate use of technological improvements, a priority will be placed on applications that incorporate such improvements to enhance the quality of care, increase the efficiency and effectiveness of operations, and reduce costs. Other priorities will be included in the application guidance.

Estimated Amount of This Competition: $20,000,000.

Estimated Number of Awards To Be Made: 20-23.

Estimated or Average Size of Each Award: $900,000.

Estimated Project Period: 1 year.

HRSA 03-039 Community Access Program* (CAP)

Application Availability Date: April 1, 2003.

Application Deadline: June 1, 2003.

Projected Award Date: September 1, 2003.

Program Contact Person: Patricia Sampson.

Phone Number: (301) 443-0536.

E-mail: psampson@hrsa.gov.

HRSA 03-040 Integrated Services Development Initiative/Shared Integrated Management Information Systems (ISIS)

Legislative Authority: Section 330 of the Public Health Service Act, 42 U.S.C. 254b.

CFDA Number: 93.224.

Purpose: Consistent with HRSA's goal of increasing access to primary health care and reducing health status disparities among racial/ethnic groups, the Integrated Services Development Initiative (ISDI) supports the development of networks of safety net providers to ensure access to health care for the medically underserved, including the uninsured and underinsured. Awards made through this initiative are intended to serve as catalysts for the development, implementation and operation of reengineered health care delivery systems. Successful applicants are those that demonstrate the ability to work toward the goal of a truly integrated and efficient system that maximizes the quality of services and enhances access to primary, hospital and specialty services. Project support is available for planning grantees as well as developmental networks.

As part of a broader information management strategy, the Division of Community and Migrant Health supports the development of a limited number of statewide or marketplace Shared Integrated Management Information Systems (SIMIS). The goal of the SIMIS project is to strategically align health center information systems with business objectives in an effort to meet demands driven by competition in the marketplace.

Eligibility: Applications for ISDI funds are limited to currently funded health centers (section 330(e)). Applications for SIMIS funds are limited to section 330(e) health centers and section 330(k) primary care associations.

Funding Priorities and/or Preferences: In selecting applications for funding, special consideration will be given to approvable applications submitted from sparsely populated areas. Because significant efficiencies in the delivery of health care services can be realized through the appropriate use of technological improvements, a priority will be placed on applications that incorporate such improvements to enhance the quality of care, increase the efficiency and effectiveness of operations, and reduce costs. Other priorities will be included in the application guidance.

Estimated Amount of This Competition: $4,000,000.

Estimated Number of Awards To Be Made: ISDI-15, SIMIS-6.

Estimated or Average Size of Each Award: ISDI planning $200,000; developmental $400,000; SIMIS—varies depending on need of the project.

Estimated Project Period: 1 to 4 years for ISDI; 1 to 3 years for SIMIS.

HRSA 03-040 Integrated Services Development Initiative/Shared Integrated Management Information Systems (ISIS)

Application Availability Date: December 2002 for ISDI; continuous for SIMIS.

Application Deadline: Continuous for ISDI; April 2003 for SIMIS.

Projected Award Date: August 2003 for ISDI; varies for SIMIS.

Program Contact Persons: ISDI Barbara Bailey; SIMIS Jayne Bertovich.

Phone Numbers: Bailey (301) 594-4317; Bertovich (301) 594-4318.

E-mail: Bbailey@hrsa.gov; jbertovich@hrsa.gov.

HRSA 03-041 State Primary Care Associations Supplemental Funding for Managing Health Center Growth and Quality (PCO)

Legislative Authority: Public Health Service Act, Title III, Section 330, 42 U.S.C. 254b.

CFDA Number: 93.129.

Purpose: The HRSA's Bureau of Primary Health Care announces an opportunity for existing Primary Care Associations (PCAs) to apply for supplemental funding to advance the goals of the President's initiative to expand health centers. The purpose of the funding is to support and expand the PCA's capacity to advance the goals of the President's initiative through the following three strategies: (1) Strengthening and expanding existing health center grantees; (2) creating new access points; and (3) improving health status outcomes and reducing disparities through evidence-based quality care and quality improvement in all BPHC-supported programs. The intent is to support activities in the areas of: (1) Needs identification and verification; (2) community development; (3) board development; (4) workforce development; (5) operating systems; (6) capital financing; (7) outreach to special populations; (8) leveraging resources; (9) adaptation of services for special populations; and (10) enhancing the continuum of care. Each proposed activity must be clearly linked to strengthening health centers' ability to contribute to the President's Growth Initiative.

Eligibility: Applicants are limited to currently funded PCAs.

Estimated Amount of This Competition: $3,000,000.

Estimated Number of Awards To Be Made: 25-40.

Estimated or Average Size of Each Award: $75,000.

Estimated Project Period: 1 year.

HRSA 03-041 State Primary Care Associations Supplemental Funding for Managing Health Center Growth and Quality (PCO)

Application Availability Date: October 15, 2002.

Application Deadline: December 1, 2002.

Projected Award Date: April 1, 2003.

Program Contact Persons: Colleen Meiman.

Phone Number: (301) 594-4486.

E-mail: cmeiman@hrsa.gov.

HIV/AIDS Bureau

HRSA 03-042 AIDS Education and Training Centers' National Clinicians' Consultation Center (AETCC)

Legislative Authority: Section 2692 of the Public Health Service Act; 42 U.S.C 300ff-111.

CFDA Number: 93.145.

Purpose: The purpose of the AIDS Education and Training Centers' (AETCs) National Clinicians' Consultation Center (NCCC) grant program is to provide clinicians with educational consultations on the clinical management of HIV infection and on possible health care worker exposure to HIV and related blood-borne pathogens using telecommunication technology. The program is to complement and support the AETCs program whose purpose is to improve the quality of HIV/AIDS clinical care through the training of health professionals. Applicants for the AETCs' NCCC must demonstrate the ability to provide timely responses to clinical questions related to the treatment of persons with HIV infection and/or possible health care worker exposure to HIV and related blood-borne pathogens. The NEC will work closely with the regional and national AETCs, providing training, resource development, and technical assistance.

Eligibility: Grants may be awarded to public and nonprofit private entities and schools and academic health sciences centers that can provide nationally educational consultation on the clinical management of HIV infection and possible health care worker exposure to HIV and other blood-borne pathogens. Faith-based and community based organizations are eligible to apply.

Funding Priorities or Preferences: Applicants with the ability to provide timely responses to clinical questions related to the treatment of persons with HIV infection and twenty-four hour coverage for responses to possible health care worker exposure to HIV and related blood-borne pathogens are given special priority.

Estimated Amount of This Competition: $1,500,000.

Estimated Number of Awards: 1.

Estimated or Average Size of Each Award: $1,500,000.

Estimated Project Period: 3 years.

HRSA 03-042 AIDS Education and Training Centers' National Clinicians' Consultation Center (AETCC)

Projected Application Availability Date: April 1, 2003.

Letter of Intent Deadline: May 1, 2003.

Application Deadline: June 1, 2003.

Projected Award Date: September 1, 2003.

Program Contact Person: Gail Cherry-Peppers.

Phone Number: (301) 443-2462.

E-mail: GCherry-Peppers@hrsa.gov.

HRSA 03-043 Grants for Coordinated Services and Access to Research for Children, Youth, Women and Their Families (CSCYW)

Legislative Authority: Section 2671 of the Public Health Service Act, 42 U.S.C. 300ff-51-300ff-67.

CFDA Number: 93.153.

Purpose: The purpose of the Title IV funding is to improve access to primary medical care, research, and support services for HIV-infected women, infants, children and youth, and to provide support services for their affected family members. Funded projects will link clinical research and other research with comprehensive care systems, and improve and expand the coordination of a system of comprehensive care for women, infants, children and youth who are HIV-infected. Funds will be used to support programs that: (1) Link established systems of care to coordinate service delivery, HIV prevention efforts, and clinical research and other research activities; and (2) address the intensity of service needs, high costs, and other complex barriers to comprehensive care and research experienced by medically underserved and hard-to-reach populations. Activities under these grants should address the goals of enrolling and maintaining clients in HIV primary care; increasing client access to research by linking development and support of comprehensive, community-based and family-centered care infrastructures; and emphasizing prevention within the care system, particularly the prevention of perinatal HIV transmission.

Eligibility: Eligible organizations are public or private nonprofit entities that provide or arrange for primary care. Faith-based and community-based organizations are eligible to apply. Current grantees or organizations proposing to serve the same service areas are eligible to apply. Services will be maintained in these areas:

State | Areas
CA | Oakland.
DE | Wilmington.
FL | Ft Lauderdale, Broward County and Miami.
IL | North Side of Chicago.
LA | New Orleans.
MA | Boston and Roxbury area.
MN | Minneapolis/St. Paul.
MO | Kansas City.
MS | Hattiesburg, Jackson and surrounding counties.
NC | Newton Grove.
NJ | Statewide.
NY | Northern Manhattan.
OH | Columbus and Toledo.
PR | Island-wide.
RI | Statewide.
TN | Nashville.
TX | Houston and San Antonio.
VA | Northern Virginia.
WA | Seattle and King County.

Funding Priorities or Preferences: Preference for funding will be given to projects that support a comprehensive, coordinated system of HIV care serving HIV-infected women, infants, children and youth, and their families, and are linked with or have initiated activities to link with clinical trials or other research.

Estimated Amount of This Competition: $20,375,000.

Estimated Number of Awards To Be Made: 23.

Estimated or Average Size of Each Award: $885,000.

Estimated Project Period: 3 years.

HRSA 03-043 Grants for Coordinated Services and Access to Research for Children, Youth, Women and Their Families (CSCYW)

Application Availability Date: November 18, 2002.

Application Deadline: February 14, 2003.

Projected Award Date: August 1, 2003.

Program Contact Person: José Rafael Morales.

Phone Number: (301) 443-9051.

E-mail: jmorales@hrsa.gov.

HRSA 03-044 Funding for Early Intervention Services Grants: Existing Geographic Service Areas (EIEGS)

Legislative Authority: Section 2651 of the Public Health Service Act, 42 USC 300ff-51.

CFDA Number: 93.918.

Purpose: The purpose of this funding is to provide, on an ongoing outpatient basis, high quality early intervention services/primary care to individuals with HIV infection. This is accomplished by increasing the present capacity and capability of eligible ambulatory health service entities. These expanded services become a part of a continuum of HIV prevention and care for individuals who are at risk for HIV infections or are HIV infected. All early intervention services (EIS) programs must provide: HIV counseling and testing; counseling and education on living with HIV; appropriate medical evaluation and clinical care; and other essential services such as oral health care, outpatient mental health services, outpatient substance abuse services and nutritional services, and appropriate referrals for specialty services.

EIS grant funds are available to support telehealth activities, particularly in rural areas. Funded activities include purchase of MIS equipment and medical equipment. In addition, rural EIS programs use their funding to access telehealth services, such as consultations.

Health Disparities. For the EIS Grants, a major focus is on increasing access to HIV primary care and support services for communities of color. Funding available through the Minority AIDS Initiative has improved our ability to fund indigenous organizations and those serving communities of color to deliver and implement culturally/linguistically proficient primary care HIV services. Funding preferences have been established for organizations serving communities of color that are highly affected by HIV/AIDS in an effort to improve care, and reduce disparities in health outcomes.

Eligibility: Eligible applicants are public or private nonprofit entities that are Consolidated Health Center Programs receiving support under section 330 of the Public Health Service Act; family planning agencies under section 1001 of the Public Health Service Act, other than States; Comprehensive Hemophilia Diagnostic and Treatment Centers; Federally Qualified Health Centers supported under section 1905(1)(2)(8) of the Social Security Act; nonprofit private entities that currently provide comprehensive primary care services to populations at risk of HIV disease; local health departments; and University/Medical Center affiliated clinics. Faith-based and community-based organizations are eligible to apply.

Limited Competition: Applicants are limited to public or private nonprofit entities that are currently funded Title III programs whose project periods expire in FY 2003 and new organizations proposing to serve the same populations currently being serviced by these existing projects. These areas are:

State and Service Area of Project Periods Ending 12/31/02 and 3/31/03

AL JEFFERSON; BIBB; HALE; GREENE; PICKENS; LAMAR; FAYETTE; SUMTER; PERRY; WALKER

CA SAN DIEGO; MENDOCINO; SONOMA; SANTA BARBARA

CO DENVER; MOFFAT; RIO GRANDE; JACKSON; GRAND; GILPIN; CLEAR CREEK; SUMMIT; EAGLE; GARFIELD; RIO BLANCO; MESA; DELTA; PITKIN; LAKE; CHAFFEE; GUNNISON; MONTROSE; OURAY; HINSDALE; SAN JUAN; SAN MIGUEL; DOLORES; MONTEZUMA; LA PLATA; ARCHULETA

FL HENDRY; GLADES

GA BEN HILL; BERRIEN; BROOKS; COOK; ECHOLS; IRWIN; LANIER; LOWNDES; TIFT; TURNER

IL MCHENRY; COOK; KANE; DUPAGE; WILL; LAKE; PEORIA; TAZEWELL; MCLEAN; FULTON; KNOX; BUREAU; HENRY; MARSHALL; PUTNAM; WOODFORD; SCHUYLER; MCDONOUGH; LA SALLE; LIVINGSTON; MASON; WARREN; STARK

LA EAST BATON ROUGE; WEST BATON ROUGE; WEST FELICIANA; EAST FELICIANA; PLAQUEMINES; IBERVILLE; ASCENSION

ME CUMBERLAND

MD HARFORD; CARROLL; DORCHESTER; CAROLINE; TALBOT; CECIL; BALTIMORE; ANNE ARUNDEL; FREDERICK; HOWARD; MONTGOMERY; BALTIMORE CITY

MA MIDDLESEX; SUFFOLK; WESSEX; NORFOLK; WORCESTER

MI WASHTENAW; MONROE; LIVINGSTON; JACKSON; WAYNE; LENAWEE

MO ST. LOUIS CITY; ST. CHARLES; ST. LOUIS

MS GREENE; HANCOCK, HARRISON; JACKSON

NE BANNER; BOX BUTTE; CHEYENNE; DAWES; DEUEL; SHERIDAN; SCOTTS BLUFF; MORRILL; KIMBALL; GARDEN

NJ HUDSON; MERCER, PASSAIC, ESSEX; EAST ORANGE; NEWARK; IRVINGTON; ORANGE

NY ULSTER; ORANGE; DUTCHESS; SULLIVAN; BRONX; QUEENS; KINGS; WESTCHESTER; SUFFOLK

NC ANSON; CABARRUS; CLEVELAND; GASTON; IREDELL; LINCOLN; UNION; STANLY; ROWAN; MECKLENBURG; DUPLIN; CUMBERLAND; JOHNSTON; HARNETT; SAMPSON

OH FRANKLIN; ATHENS; BELMONT; GALLIA; GUERNSEY; HARRISON; HOCKING; JACKSON; LAWRENCE; MEIGS; MONROE; MORGAN; MUSKINGUM; PERRY; PIKE; ROSS; SCIOTO; VINTON; WASHINGTON; DELAWARE; FAIRFIELD; LICKING; MADISON; PICKAWAY; UNION; ROSS

OK CIMARRON; BEAVER; HARPER; ALFALFA; WOODS; GRANT; KAY; ELLIS; WOODWARD; MAJOR; GARFIELD; DEWEY; NOBLE; BLAINE; KINGFISHER; LOGAN; PAYNE; ROGER MILLS; CUSTER; CANADIAN; OKLAHOMA; LINCOLN; BECKHAM; WASHITA; CADDO; GRADY; MCCLAIN; CLEVELAND; POTTAWATOMIE; SEMINOLE; HUGHES; HARMON; GREER; KIOWA; JACKSON; TILLMAN; COMANCHE; COTTON; STEPHENS; JEFFERSON; GARVIN; MURRAY; CARTER; LOVE; PONTOTOC; COAL; JOHNSTON; MARSHALL; ATOKA; BRYAN; PUSHMATAHA; CHOCTAW; MCCURTAIN

OR MULTNOMAH

PA LANCASTER; YORK

PR PONCE; JUANA DIAZ; PENUELAS; BAYAMON; TOA BAJA; DORADO; VEGA ALTA; TOA ALTA; NARANJITO; COMERIO; OROCOVIS; COROZAL; ARROYO

TN FAYETTE

TX EL PASO; CAMERON; WILLACY; HIDALGO

WA KING

State and Service Area of Project Periods Ending 6/30/03 or 9/29/03

AL COLBERT; CULLMAN; FRANKLIN; JACKSON; LAUDERDALE; LAWRENCE; LIMESTONE; MADISON; MARION; MARSHALL; MORGAN; WINSTON; MACON; BULLOCK; TALLAPOOSA; RUSSELL; LEE; CHAMBERS; MOBILE

AZ PIMA

CA LOS ANGELES; LONG BEACH; CONTRA COSTA; SAN FERNANDO VALLEY; SAN DIEGO, SHASTA, SONOMA

CT HARTFORD; NEW HAVEN

DE SUSSEX; NEW CASTLE; KENT

DC DISTRICT OF COLUMBIA

FL LEE; FT. MEYERS; DADE; MIAMI; LIBERTY; HIALEAH; LITTLE HAITI; OPPALAKA; ST. LUCIE; MARTIN; FT. PIERCE; INDIANTOWN; DUVAL; CITY OF JACKSONVILLE; ORLANDO; ORANGE; ST. JOHNS; ST. AUGUSTINE; BREVARD

GA BAKER; CALHOUN; DOUGHERTY; LEE; MITCHELL; WORTH; TERRELL; COLQUITT; THOMAS; GRADY; SEMINOLE; MILLER; EARLY; DECATUR; CLAY; CHATTAHOOCHEE; TALBOT; WEBSTER; CRISP; DOOLY; HARRIS; MACON; MARION; MUSCOGEE; QUITMAN; RANDOLPH; SCHLEY; SUMTER; TAYLOR; GLYNN; CAMDEN; MCINTOSH; LONG; LIBERTY; BRYAN; BALDWIN; BIBB; CRAWFORD; HANCOCK; HOUSTON; JASPER; JONES; MONROE; DEKALB; PUTNAM; TWIGGS; WASHINGTON; WILKINSON

IL COOK; ST. CLAIR; MADISON; JERSEY; MONROE; CLINTON

IA WOODBURY

KY JEFFERSON

LA CALCASIEU; ALLEN; BEAUREGARD; CAMERON; JEFFERSON DAVIS; ORLEANS; BOSSIER; SABINE; BIENVILLE; CLAIBORNE; DE SOTO; SHREVEPORT; NATCHITOCHES; RED RIVER; WEBSTER

MD CHARLES; PRINCE GEORGE'S; BALTIMORE CITY

MA ESSEX; MIDDLESEX; PLYMOUTH; BARNSTABLE

MN HENNEPIN; RAMSEY; WASHINGTON; ANOKA; CARVER; SCOTT; DAKOTA

MS BOLIVAR; COAHOMA; DESOTO; LEFLORE; MARSHALL; PANOLA; QUITMAN; TALLAHATCHIE; TATE; TUNICA; ATTALA; BOLIVAR; CARROLL; HOLMES; HUMPHREYS; LEFLORE; MONTGOMERY; SUNFLOWER; WASHINGTON; PIKE; LAWRENCE; LINCOLN; MARION; WALTHALL; TANGIGOAHOO;

NJ UNION; NEWARK

NM SANTA FE; LOS ALAMOS; SAN MIGUEL; MORA; HARDING; UNION; COLFAX; TAOS; RIO ARRIBA

NY BROOKLYN; MANHATTAN; KINGS; QUEENS; SULLIVAN; MANHATTEN; CHELSEA; BRONX

NC FRANKLIN; VANCE; WARREN; GRANVILLE; PERSON; BEAUFORT; BERTIE; CHOWAN; GATES; HYDE; MARTIN; PAMLICO; PITT; TYRRELL; WASHINGTON; PASQUOTANK; PERQUIMANS; NEW HANOVER; BLADEN; BRUNSWICK; WILMINGTON; ALAMANCE; CASWELL; CHATHAM; DAVIDSON; DAVIE; FORSYTH; GUILFORD; LEE; ORANGE; RANDOLPH; ROCKINGHAM; STOKES; SURRY; YADKIN; COLUMBUS; DUPLIN; ONSLOW; PENDER; WILSON; NASH; EDGECOMBE

OH CUYAHOGA; LORAIN; ASHTABULA; LAKE

PA ADAMS; BERKS; CHESTER; ERIE; FRANKLIN; FULTON; PHILADELPHIA; SCHUYLKILL; BEDFORD; BLAIR; CUMBERLAND; DAUPHIN; FULTON; HUNTINGDON; JUNIATA; LEBANON; MIFFLIN; PERRY

PR LARES; BARRANQUITAS; CAMUY; CIALES; CIDRA; COMERIO; COROZAL; FLORIDA; NARANJITO; HATILLO; PATILLAS; OROCOVIS

PR LOIZA; CANOVANAS; CAROLINA; RIO GRANDE; TRUJILLO ALTO

SC BERKELEY; CHARLESTON; DORCHESTER; HORRY; GEORGETOWN; WILLIAMSBURG; COLLETON; FLORENCE; AIKEN; ALLENDALE; BAMBERG; BARNWELL; CALHOUN; ORANGEBURG; GREENVILLE; ANDERSON; PICKENS; OCONEE; GREENWOOD; LAURENS; ABBEVILLE; SALUDA; MCCORMICK; EDGEFIELD; FAIRFIELD; RICHLAND; SUMTER

TN DAVIDSON; SHELBY

TX SHELBY; NACOGDOCHES; SAN AUGUSTINE; SABINE; NEWTON; JASPER; TYLER; ANGELINA; HOUSTON; TRINITY; POLK; HARDIN; JEFFERSON; SAN JACINTO; ORANGE; WALKER; MONTGOMERY; LIBERTY; CHAMBERS; GALVESTON; BRAZORIA; FORT BEND; AUSTIN; COLORADO; WALLER; WHARTON; MATAGORDA; BEXAR

VI US V.I. TERRITORY

VA ARLINGTON; FAIRFAX; LOUDOUN; PRINCE WILLIAM; CAROLINE; FREDERICKSBURG CITY; SPOTSYLVANIA; STAFFORD; WEST MORELNAD CITY

VA SOUTH RICHMOND; PETERSBURG CITY

WA BENTON; COLUMBIA; WALLA WALLA; YAKIMA; CLACKAMAS; MARION; MORROW; YAMHILL; UMATILLA; POLK; KING

WI KENOSHA; OZAUKEE; RACINE; WALWORTH; WASHINGTON; WAUKESHA; ASHLAND; BARRON; BAYFIELD; BROWN; BURNETT; CHIPPEWA; CLARK; DOOR; DOUGLAS; DUNN; EAU CLAIRE; FLORENCE; FOREST; KEWAUNEE; LANGLADE; LINCOLN; MANITOWOC; MARATHON; MARINETTE; MENOMINEE; OCONTO; ONEIDA; OUTAGAMIE; PIERCE; POLK; PORTAGE; PRICE; RUSK; SAWYER; ST. CROIX; TAYLOR; VILAS; WASHBURN; WOOD; MILWAUKEE; ROCK

Funding Priorities and/or Preferences: Preference for funding will be given to applicants servicing communities of color that are highly impacted by HIV/AIDS, and are supported by the communities of color proposed to be served. Preference will also be given to Consolidated Heath Care Programs supported under section 330 of the Public Health Service Act.

Estimated Amount of This Competition: $62,672,000.

Estimated Number of Awards To Be Made: 106.

Estimated Project Period: 3 years.

HRSA 03-044 Funding for Early Intervention Services Grants: Existing Geographic Service Areas (EIEGS)

Application Availability Date: June 17, 2002 for project periods ending 12/31/02 and 3/31/03 and December 16, 2002 for project periods ending 6/30/03 and 9/29/03.

Application Deadline: October 1, 2002 for project periods ending 12/31/02 and 03/31/03 April 1, 2003 for project periods ending 06/30/03 and 09/29/03.

Projected Award Date: January 1, April 1 and July 1, and September 30, 2003.

Program Contact Person: Lois Eldred.

Phone Number: (301) 443-3327.

E-mail: leldred@hrsa.gov.

HRSA 03-045 HIV Services Planning Grants (SPG)

Legislative Authority: Public Health Service Act, section 2654(c); 42 USC 300ff-54(c).

CFDA Number: 93.918.

Purpose: The purpose of this grant program is to support eligible entities in their efforts to plan for the provision of high quality comprehensive HIV primary health care services in rural or urban underserved areas and communities of color. Planning grants support the planning process and do not fund any service delivery or patient care.

Eligibility: Eligible applicants must be health centers under Section 330(e), (g), or (h), grantees under Section 1001 (regarding family planning) other than States, comprehensive hemophilia diagnostic and treatment centers, Federally-qualified centers under section 1905(1)(2)(B) of the Social Security Act, or non profit private entities that provide comprehensive primary care services to populations at risk of HIV disease.

Funding Priorities and/or Preferences: In awarding these grants, preference will be given to applicants located in rural or urban underserved areas and specifically targeted to racial and ethnic minority populations impacted by HIV/AIDS where emerging or ongoing HIV primary health care services have not been adequately met.

Review Criteria: Final review criteria are included in the Planning Program Application Guidance.

Estimated Amount of This Competition: $2,000,000.

Estimated Number of Awards: 40.

Estimated or Average Size of Each Award: $50,000.

Estimated Project Period: 1 year.

HRSA 03-045 HIV Services Planning Grants (SPG)

Application Availability Date: December 2, 2002.

Application Deadline: April 4, 2003.

Projected Award Date: July 25, 2003.

Program Contact Person: Sylvia Trent-Adams.

Phone Number: (301) 443-2177.

E-mail: strent-adams@hrsa.gov.

HRSA 03-046 Ryan White Care Act Capacity Building Grants (RWCBG)

Legislative Authority: Public Health Service Act, Section 2654(c), 42 USC 300ff-54(c).

CFDA Number: 93.918.

Purpose: The purpose of this grant program is to support eligible entities in their planning efforts to strengthen their organizational infrastructure and enhance their capacity to develop, enhance or expand high quality HIV primary health care services in (1) rural or (2) urban underserved areas and (3) communities of color. The applicant must propose capacity building activities that develop, enhance, or expand a comprehensive continuum of outpatient HIV primary care services in their community through the applicant agency. Capacity building grant funds are intended for a fixed period of time (one to three years) and not for long-term activities.

Eligibility: Eligible applicants must be health centers under Section 330(e), (g), or (h), grantees under Section 1001 (regarding family planning) other than States, comprehensive hemophilia diagnostic and treatment centers, Federally-qualified centers under section 1905(1)(2)(B) of the Social Security Act, or non profit private entities that provide comprehensive primary care services to populations at risk of HIV disease.

Funding Priorities and/or Preferences: In awarding these grants, preference will be given to applicants that are seeking funds under (3) that are located in or near to the community(ies) of color they are intending to serve with these funds, and that have a documented history of service to the targeted community(ies) of color to be served with these funds.

Review Criteria: Final review criteria are included in the Capacity Building Program Application Guidance.

Estimated Amount of This Competition: $4,000,000.

Estimated Number of Awards: 26.

Estimated or Average Size of Each Award: Up to $150,000.

Estimated Project Period: 1 to 3 years.

HRSA 03-046 Ryan White Care Act Capacity Building Grants (RWCBG)

Application Availability Date: December 2, 2002.

Application Deadline: April 4, 2003.

Projected Award Date: July 25, 2003.

Program Contact Person: Sylvia Trent-Adams.

Phone Number: (301) 443-2177.

E-Mail: strent-adams@hrsa.gov.

HRSA 03-047 Special Projects of National Significance “ Models of Comprehensive Care for Caribbeans Living in the United States (SPCCL)

Legislative Authority: Public Health Service Act, section 2691; 42 USC 300ff-101.

CFDA Number: 93.928.

Purpose: Significant barriers to HIV/AIDS care have been identified among Caribbeans living in the United States. Among these are the lack of integration between HIV testing, clinical care services, community health centers, and the U.S.-resident Caribbean population; cultural and religious beliefs; lack of social support and emotional support information and services; the need for patient and provider training; systemic barriers which treat all Caribbeans alike; and severe stigma and discrimination within the migrant community.

This funding initiative will support 3-4 demonstration projects that provide improved models of comprehensive care for Caribbeans living in the United States. Potential model interventions could include: culturally relevant outreach, patient education and stigma reduction programs, building networks and technical assistance with Caribbean PWA communities, development and support for Community Advisory Boards, provider training programs, improved integration and collaboration between community-based organizations and clinical care facilities, the use of peer educators, and forming partnerships with faith-based organizations, technological innovations i.e. telehealth, telecommunications are encouraged.

The objective of this project is to provide financial support and technical assistance for improved models of care to Caribbean immigrants and migrants in U.S. areas where they are represented. Improvements in the number of Caribbeans accessing primary care services and retention in primary care services are outcomes that will be tracked through this initiative.

With regard to this initiative, all applicants must have significant experience with issues of HIV prevention, HIV care and treatment, and the integration of these. It is important to distinguish that Caribbean peoples in the United States are not uniform, and therefore must not be considered through one lens. Appropriate language proficiency, cultural fluency, and acculturation are necessary factors to be considered for successful associations with Caribbean peoples.

Eligibility: Eligible applicants are public and private nonprofit entities, including faith-based and community-based organizations.

Estimated Amount of This Competition: $1,000,000.

Estimated Number of Awards To Be Made: 3-4.

Estimated or Average Size of Each Award: $250,000-$330,000.

Estimated Project Period: 4 years.

HRSA 03-047 Special Projects of National Significance “ Models of Comprehensive Care for Caribbeans Living in the United States (SPCCL)

Application Availability Date: January 17, 2003.

Letter of Intent Deadline: February 4, 2003.

Application Deadline: March 18, 2003.

Projected Award Date: August 1, 2003.

Program Contact Person: Barbara Aranda-Naranjo.

Phone Number: (301) 443-4149.

E-mail: baranda-naranjo@hrsa.gov.

HRSA 03-048 Special Projects of National Significance “ HIV Prevention Initiatives in Primary Care Settings (SPPCS)

Legislative Authority: Public Health Service Acts, section 2691; 42 USC 300ff-101.

CFDA Number: 93.928.

Purpose: This funding initiative will support 4-6 new demonstration projects focused on “HIV Prevention Initiatives with HIV-infected Individuals in Primary Care Settings.” Demonstration projects will work for four years with the SPNS (Special Projects of National Significance) program of the HIV/AIDS Bureau (HAB) and its Evaluation Center (funded in FY 2002). Both the Center and the demonstration project sites will focus on implementing and evaluating interventions for HIV-positive individuals in primary care settings. Interventions targeting HIV-infected men and women are needed to prevent transmission to uninfected individuals and to prevent re-infection among people already infected with the virus. The HIV primary care setting may provide an opportunity to reduce new transmissions through clinician-delivered risk assessment and prevention counseling and behavioral interventions. Clinicians can play an instrumental role in assessing risk, determining the level of need for prevention education and other services, and assessing where that need will best be addressed. Patients needing more intensive or ongoing behavioral interventions can be identified by clinicians and referred for services such as case management, medical services, mental health services, and social services. By making referrals to community resources, clinicians can help their patients find personally relevant support for changing their behavior, and maximize limited time during clinic visits for addressing other health concerns. To determine the efficacy of a clinician-delivered approach, the feasibility of potential intervention models needs to be assessed in terms of cost, time, and clinician skill. The models should also describe the role of service providers and practitioners in clinical settings and their role in providing prevention and making referrals for behavioral counseling. Technological innovations, i.e. telehealth, telecommunication, etc. are encouraged.

Eligibility: Eligible applicants are public and private nonprofit entities, including faith-based and community-based organizations. Applicants must be providers currently funded under Titles I-IV of the Ryan White CARE Act. With regard to this initiative, all applicants must have significant experience with issues of HIV prevention, HIV care and treatment, and the integration of these.

Estimated Amount of This Competition: $2,600,000.

Estimated Number of Awards To Be Made: 4-6.

Estimated or Average Size of Each Award: $400,000.

Estimated Project Period: 4 years.

HRSA 03-048 Special Projects of National Significance “ HIV Prevention Initiatives in Primary Care Settings (SPPCS)

Application Availability Date: April 5, 2003.

Letter of Intent Deadline: April 30, 2003.

Application Deadline: June 30, 2003.

Projected Award Date: September 30, 2003.

Program Contact Person: Faye E. Malitz.

Phone Number: (301) 443-3259.

E-mail: fmalitz@hrsa.gov.

HRSA 03-049 Telehealth Grant Program (THGP)

Legislative Authority: Public Health Service Act, Section 330(A).

CFDA Number: 93.211.

Purpose: Funds will be used to support rural telehealth grant projects, including the funding of some smaller, more narrowly defined, rural community-based projects. The grants awarded will support health providers to improve access to health services, develop community-based clinical telemedicine, and set up distance-learning education projects for health professionals, patients, and their families in rural communities. Emphasis will be placed on management of chronic conditions, such as diabetes, asthma and other chronic lung disease, osteoporosis, and congestive heart failure in a variety of health care settings, from patient homes to schools and other community settings.

Eligibility: Applicants should be nonprofit entities, including faith-based or community-based organizations that provide health care services to rural communities through a telehealth network. Network members may be nonprofit or for-profit rural entities, but the network grantee must be a nonprofit entity. The telehealth network shall be composed of:

(a) Multispecialty entity that is located in an urban or rural area, which can provide 24-hour a day access to a range of specialty care; and

(b) At least two rural health care facilities of which at least one shall be a community-based health care provider such as a rural hospital; rural physician office; rural health clinic; rural community health clinic; rural nursing home; migrant health center or federally qualified health center; health care provider, including a pharmacist in private practice; rural health clinic; local health department; long-term care provider; home health care provider; outpatient mental health service provider; local or regional emergency health care provider; or oral health care provider.

Funding Priorities or Preferences: To receive a preference, the applicant must meet at least one of the following requirements:

(a) A majority of health care providers serving in the area or region to be served by the network;

(b) Any federally qualified health centers, rural health clinics, and local public health departments serving in the area or region;

(c) Outpatient mental health providers serving in the area or region; or

(d) Appropriate social service providers, such as agencies on aging, school systems, and providers under the woman, infants and children program, to improve access to and coordination of health care services.

In addition, the applicant will receive a preference, if it meets either of the following requirements:

(a) promotes local connectivity with areas, communities, or populations to be served through the project; and

(b) demonstrates that health care information has been integrated into the project.

Expenditures: Not less than 50 percent of the grant award is expended in a rural area or to provide services to residents of rural areas; no more than 40 percent of the total grant award may be used to purchase, lease or install equipment; and no more than 20 percent of the amount provided can be used to pay for the indirect costs associated with carrying out the purpose of this grant.

Matching or Cost Sharing Requirement: Match is not required, however, cost participation is encouraged.

Estimated Amount of This Competition: $5,000,000.

Estimated Number of Awards To Be Made: 25-30.

Estimated or Average Size of Each Award: $200,000 per year for up to three years.

Estimated Project Period: 3 years.

HRSA 03-049 Telehealth Grant Program (THGP)

Application Availability Date: December 17, 2002.

Letter of Intent Deadline: February 5, 2003.

Application Deadline: March 17, 2003.

Projected Award Date: September 1, 2003.

Program Contact Person: Amy Barkin.

Phone Number: 301-443-0447.

E-mail: abarkin@hrsa.gov.

Maternal and Child Health Bureau

HRSA 03-050 Genetic Services—Grants To Support Comprehensive Medical Care for Cooley's Anemia/Thalassemia (GSCAT)

Legislative Authority: Social Security Act, Title V, 42 U.S.C. 701.

CFDA Number: 93.110.

Purpose: The purpose of this grant activity is to fund up to three projects that will support the implementation of a model system of comprehensive care and medical management for individuals and families at risk or affected by Cooley's Anemia/Thalassemia. Such model should involve a complex network of services ranging from screening, diagnosis, counseling, and psychosocial services to specialized medical care including regular red blood cell transfusions and the monitoring, prevention, and treatment of iron overload resulting from repeated transfusions.

Eligibility: As cited in 42 CFR 51a.3 (a), any public or private entity, including an Indian Tribe or tribal organization (as those terms are defined at 25 U.S.C. 450b) is eligible to apply for Federal funding. Community-based organizations, including faith-based organizations, are eligible to apply.

Funding Priorities or Preferences: Preference will be given to previously funded grantees who have developed and maintained a system of comprehensive care and medical management for individuals and families at risk for or affected by Cooley's Anemia/Thalassemia. Special consideration may be given to programs that include a distance education component.

Review Criteria: Final criteria are included in the application kit.

Estimated Amount of This Competition: $525,000.

Estimated Number of Awards To Be Made: 3.

Estimated or Average Size of Each Award: Up to $175,000.

Estimated Project Period: 3 Years.

HRSA 03-050 Genetic Services—Grants To Support Comprehensive Medical Care for Cooley's Anemia/Thalassemia (GSCAT)

Application Availability Date: December 13, 2002.

Letter of Intent Deadline: January 17, 2003.

Application Deadline: March 18, 2003.

Projected Award Date: September 1, 2003.

Program Contact Person: Marie Y. Mann.

Phone Number: (301) 443-1080.

E-mail Address: Cdiener@hrsa.gov.

HRSA 03-051 Promoting Integration of State Health Information Systems and Newborn Screening Service Systems for Monitoring and Ensuring Quality Services to Newborns and Children With or at Risk for Heritable Disorders-Cooperative Agreement (ISNSS)

Legislative Authority: Social Security Act, Title V, 42 U.S.C. 701.

CFDA Number: 93.110.

Purpose: The purpose is two-fold: to enhance and expand integrated State health information systems to monitor access to care and outcomes related to maternal and child health; and to enhance, expand and improve State Genetic Newborn Screening Programs (screening, counseling, testing, follow-up and sub-specialty services) and better integrate these programs with the State Title V Community-based System of Services for Children with Special Health Care Needs (CSHCN).

As part of the development of health information systems, the State must link newborn genetic screening program data with other related health data (e.g., vital statistics, immunization registries, hearing screening program data, birth defects registries, WIC data, and Medicaid data). Projects must monitor health outcomes of newborns identified with genetic disorders within the Genetic Newborn Screening Program and demonstrate that programs with integrated data systems result in improved access and integration of services for children who have or are at risk of having heritable disorders in the State Title V Community-based System of Services.

Under the terms of this cooperative agreement, in addition to the required monitoring and technical assistance, Federal responsibilities will include: (1) Participation, as appropriate, in meetings conducted during the period of the cooperative agreement; (2) ongoing review of activities and procedures to be established and implemented for accomplishing the proposed project; (3) review of project information prior to dissemination; (4) review of information on project activities; (5) assistance with the establishment of contacts with Federal and State agencies, Maternal and Child Health Bureau (MCHB) grant projects, and other contacts that may be relevant to the project's mission and referrals to these agencies; and (6) assistance in the establishment of State and Federal interagency partnerships, collaboration, and cooperation that may be necessary for carrying out the project.

Eligibility: As cited in 42 CFR 51a.3.

Funding Priorities or Preferences: Preference will be given to those States, Jurisdictions, or Territories that have received a previous Genetic Services Grant under the initiative, “State Development Grants for Newborn Screening Efforts and Infrastructure Development,” as well as those States, Jurisdictions or Territories with previous grants under the initiative “Data Utilization and Enhancement.” States, Jurisdictions or Territories that have received a Genetic Services Implementation Grant will not be considered.

Review Criteria: Final criteria are included in the application kit.

Estimated Amount of this Competition: $1,500,000.

Estimated Number of Awards To Be Made: 5.

Estimated or Average Size of Each Award: $300,000.

Estimated Project Period: 4 years.

HRSA 03-051 Promoting Integration of State Health Information Systems and Newborn Screening Service Systems for Monitoring and Ensuring Quality Services to Newborns and Children With or at Risk for Heritable Disorders—Cooperative Agreement (ISNSS)

Application Availability Date: August 30, 2002.

Letter of Intent Deadline: September 30, 2002.

Application Deadline: December 3, 2002.

Projected Award Date: April 1, 2003.

Program Contacts: Michele A. Lloyd-Puryear, or Michael Kogan.

Phone Numbers: (301) 443-1080 (Lloyd-Puryear), (301) 443-8041 (Kogan).

E-mails: mpuryear@hrsa.gov, mkogan@hrsa.gov.

HRSA 03-052 National Oral Health Policy Center (OHSD)

Legislative Authority: Social Security Act, Title V, 42 U.S.C. 701.

CFDA Number: 93.110.

Purpose: The purpose of this policy center is to identify and explore critical oral health policy issues. The center will serve as a forum to convene experts to examine oral health access issues, and facilitate the development of programs and materials that increase access to preventive, early intervention and restorative dental services for children and their families. Further, States will be assisted in assessing and evaluating implementation strategies that teach State Medicaid, State Children's Insurance Program (SCHIP), and public and private entities interventions for increasing access to oral health services for the underserved in keeping with the Surgeon General's Report on Oral Health and other Federal reports calling for increasing oral health access and working towards the elimination of health status disparities.

Eligibility: As cited in 42 CFR 51a.3 (a), any public or private entity, including an Indian Tribe or tribal organization (as those terms are defined at 25 U.S.C. 450b) is eligible to apply for Federal funding under this Part. Community-based organizations, including faith-based organizations, are eligible to apply.

Review Criteria: Final criteria are included in the application kit.

Estimated Amount of this Competition: $225,000.

Estimated Number of Awards: 1.

Estimated Project Period: 5 years.

HRSA 03-052 National Oral Health Policy Center (OHSD)

Application Available: September 17, 2002.

Letter of Intent Deadline: November 15, 2002.

Application Deadline: December 16, 2002.

Projected Award date: June 1, 2003.

Contact Persons: John P. Rossetti, or Mark Nehring.

Phone Numbers: (301) 443-3177 (Rossetti), (301) 443-3449 (Nehring).

E-mails: jrossetti@hrsa.gov, mnehring@hrsa.gov.

HRSA 03-053 Integrated Health and Behavioral Health Care for Children, Adolescents and their Families—Implementation Grants (IHBHC)

Legislative Authority: Social Security Act, Title V, 42 U.S.C. 701.

CFDA Number: 93.110.

Purpose: These three-year implementation grants are designed to operationalize the models of service integration established during a 2-year planning process by current grantees of this program. This implementation grant activity will allow initializing of the established formalized working relationships among community resources, specifically the physical and psychosocial primary health care, comprehensive mental health services and substance abuse prevention and treatment services as required under the previous planning grant announcement. The implementation activities are to include the necessary efforts to initiate and establish the model of integration developed over the two-year planning time, including but not limited to: (1) Integration of clinical/social services; (2) organizational structure; (3) staffing; (4) facilities; (5) information systems, including protection of confidentiality; and (6) fiscal arrangements.

Eligibility: Eligibility is limited to grantees that have previously received awards under Integrated Health and Behavioral Health Care for Children, Adolescents and Their Families—Planning Program.

Review Criteria: Final criteria are included in the application kit.

Estimated Amount of This Competition: $400,000.

Estimated Number of Awards To Be Made: 2.

Estimated Project Period: 3 years.

HRSA 03-053 Integrated Health and Behavioral Health Care for Children, Adolescents and Their Families—Implementation Grants (IHBHC)

Application Availability: December 9, 2002.

Letter of Intent Deadline: January 10, 2003.

Application Deadline: February 10, 2003.

Projected Award Date: May 1, 2003.

Program Contact Person: Sharon Adamo.

Phone Number: (301) 443-3972.

E-mail: Sadamo@hrsa.gov.

HRSA 03-054 State Maternal and Child Health Early Childhood Comprehensive Systems Grants (SECCS)

Legislative Authority: Social Security Act, Title V, 42 U.S.C. 701.

CFDA Number: 93.110.

Purpose: The purpose of this program is to support States to plan, develop, and ultimately implement collaborations and partnerships to support families and communities in their development of children that are healthy and ready to learn at school entry. This grant initiative combines Maternal and Child Health Bureau's (MCHB) Early Childhood Health Strategic Plan with the State and local systems building initiatives supported through MCHB's Community Integrated Services Systems (CISS) grants program since 1992. While funding will be in two stages, Planning and Implementation, planning grants only are offered at this time. Plans would anticipate the implementation of systems which would include, but not be limited to, the following initiatives:

1. Access to medical homes providing comprehensive physical and child development services for all children in early childhood including children with special health care needs and assessment, intervention, and referral of children with developmental, behavioral and psycho-social problems.

2. Availability of services to address the needs of children at risk for the development of mental health problems and service delivery pathways to facilitate entrance of at risk children into appropriate child development and mental health delivery systems.

3. Early care and education services for children from birth through five years of age that support children's early learning, health, and development of social competence.

4. Parent education services that provide support to parents in their role as prime educators of their children.

5. Family support services that address the stressors impairing the ability of families to nurture and support the healthy development of their children.

Through planning grants, States would be expected to provide leadership in the development of cross systems service integration. They would work closely with other State public and private agencies to coordinate their efforts into a common focus on assuring the availability of a broad range of early childhood intervention services. Examples of such agencies would be the State administrations for Mental Health, Public Welfare, Education, Child Welfare, local and county health departments, March of Dimes, Easter Seal Society, etc. This grant should facilitate: (1) A completed needs assessment with respect to early childhood intervention: (2) a completed plan for action based on the needs assessment; and (3) documented evidence of the contribution and commitment of their partners to carry out this plan. The achievement of these essential goals is requisite for States to apply for an implementation grant.

Eligibility: As cited in 42 CFR 51a.3.

Limited Competition: This competition is limited to the 59 State, jurisdiction, or Territory Title V agencies.

Estimated amount of This Competition: $5,900,000.

Estimated Number of Awards To Be Made: 59.

Estimated or Average Size of Each Award: $100,000.

Estimated Project Period: 2 Years.

Review Criteria: Final criteria are included in the application kit.

HRSA 03-054 State Maternal and Child Health Early Childhood Comprehensive Systems Grants (SECCS)

Application Availability Date: October 1, 2002.

Letter of Intent Deadline: November 1, 2002.

Application Deadline: January 3, 2003.

Project Award Date: March 31, 2003.

Program Contact Person: Joseph A. Zogby.

Phone Number: (301) 443-4393.

E-mail: jzogby@hrsa.gov.

HRSA 03-055 Transitioning Healthy Child Care America Programs (THCCA)

Legislative Authority: Social Security Act, Title V, 42 U.S.C. 701.

CFDA Number: 93.110.

Purpose: The purpose of this program is to plan for the sustainability of the programs developed in each participating State under the Healthy Child Care America 2000 (HCCA) Grants, and the effective integration of their activities into each State's system of services for children in early childhood. Those activities contain three component areas: quality assurance, these grants promoted the implementation of health and safety standards for child care, which were developed under the leadership of the Maternal and Child Health Bureau (MCHB); infrastructure building, these grants supported the building of State-based child care health consultant systems; and access to health services, these grants promoted the assurance that child health insurance programs, such as Medicaid and State Children's Insurance Program (SCHIP), provide access to a medical home for children in child care programs.

Each HCCA grantee along with their State health and child care administration partners must develop a two-year plan to support sustainability of the HCCA objectives as these programs are integrated into the State's system of services for early childhood health. HCCA transition planning must be well coordinated with the State Early Childhood Systems Planning Grants, integrating the HCCA program objectives into the child care/early care and education component of each State's Early Childhood Systems Planning Grant.

The transition supported under this grant program is the culmination of a seven-year joint effort with the States on the part of the MCHB and the Administration for Children and Families, inclusive of the four-year Health Systems Development in Child Care Grants and the three-year Healthy Child Care 2000 Grants currently entering their last year of funding.

Eligibility: As cited in 42 CFR 51a.3.

Special Considerations: State and/or private non-profit health or child care entities which can carry out programmatic expectations in relation to planning for the sustainability of quality assurance, infrastructure development, and statewide health care enrollment outreach activities begun under the Healthy Child Care America 2000 Grants.

Review Criteria: Final criteria are included in the application kit.

Estimated Amount This Competition: $2,650,000.

Estimated Number of Awards To Be Made: 53.

Estimated or Average Size of Each Award: $50,000.

Estimated Project Period: 2 Years.

HRSA 03-055 Transitioning Healthy Child Care America Programs (THCCA)

Application Availability Date: September 3, 2002.

Letter of Intent Deadline: October 1, 2002.

Application Deadline: November 1, 2002.

Projected Award Date: February 1, 2003.

Program Contact Person: Phyllis Stubbs.

Phone Number: (301) 443-4489.

E-mail: Pstubbs@hrsa.gov.

HRSA 03-056 Leadership Development for Implementation of Systems of Care for Children and Youth with Special Health Care Needs (CICS)

Legislative Authority: Social Security Act, Title V, 42 U.S.C. 701.

CFDA Number: 93.110.

Purpose: This Cooperative Agreement will provide support to State Title V Children with Special Health Care Needs (CSHCN) Programs in the implementation of the Healthy People (HP) 2010 Objective designed to “increase the proportion of States and territories with service systems for children with special health care needs.” The activity is based upon the six elements of the National Agenda for Children with Special Health Care Needs through national leadership activities. These activities should include, but not be limited to: ongoing information sharing between State programs, ongoing sharing of State plans pertaining to HP 2010 and onging collaborative planning, mentorship and training for State Title V CSHCN leadership.

Federal Involvement: Federal involvement will be listed in the application materials.

Eligibility: As cited in 42 CFR 51a.3(a), any public or private entity, including an Indian Tribe or tribal organization (as those terms are defined at 25 U.S.C. 450b) is eligible to apply. Community-based organizations, including faith-based organizations, are eligible to apply.

Funding Priorities or Preferences: Special consideration may be given to programs that include a distance education component.

Estimated Amount of this Competition: $500,000.

Estimated Number of Awards To Be Made: 1.

Estimated Project Period: 3 years.

HRSA 03-056 Leadership Development for Implementation of Systems of Care for Children and Youth with Special Health Care Needs (CICS)

Application Availability Date: September 13, 2002.

Letter of Intent Deadline: January 3, 2003.

Application Deadline: February 14, 2003.

Projected Award Date: June 1, 2003.

Program Contact Person: Diana Denboba.

Phone Number: (301) 443-9332.

E-Mail: ddenboba@hrsa.gov.

HRSA 03-057 Screening for Multiple Behavioral Risk Factors During the Preconception Through Postpartum Period (SMBRF)

Legislative Authority: Social Security Act, Title V, 42 U.S.C. 701.

CFDA Number: 93.110.

Purpose: In recent years there has been emphasis on encouraging family planning and prenatal providers to integrate risk assessment for behavioral problems into the clinic setting. However, frequently providers only screen for a select number of behavioral risk factors, such as smoking, substance use, depression, and domestic violence. The purpose of this demonstration initiative is to develop and implement a short, easy-to-use instrument to identify multiple behavioral risk factors and incorporate the use of the tool into the health care setting. Applicants can implement their program in either a family planning, prenatal, or postpartum clinic setting. In addition, the applicant must ensure that comprehensive assessment services are available for those with a positive screen, as well as a well-coordinated referral system.

Eligibility: As cited in 42 CFR 51a.3(a), any public or private entity, including an Indian tribe or tribal organization (as those terms are defined at 25 U.S.C. 450b) is eligible to apply for Federal funding. Community-based organizations, including faith-based organizations, are eligible to apply.

Estimated Amount of This Competition: $450,000.

Estimated Number of Awards To Be Made: 3.

Estimated or Average Size of Each Award: $150,000.

Estimated Project Period: 3 years.

HRSA 03-057 Screening for Multiple Behavioral Risk Factors During the Perconception Through Postpartum Period (SMBRF)

Application Availability Date: October 22, 2002.

Letter of Intent Deadline: November 22, 2002.

Application Deadline: January 6, 2003.

Projected Award Date: June 1, 2003.

Program Contact Person: Karen Hench.

Phone Number: (301) 443-5720.

E-mail: khench@hrsa.gov.

HRSA 03-058 Sprans Community-Based Abstinence Education Project Grants (CBAE)

Legislative Authority: Social Security Act, Title V, 42 U.S.C. 701.

CFDA Number: 93.110.

Purpose: The purpose of the SPRANS Community-Based Abstinence Education Project Grants is to provide support to public and private entities for the development and implementation of abstinence education programs for adolescents, ages 12 through 18, in communities across the country. Projects funded through the SPRANS Community-Based Abstinence Education grant program must promote abstinence-only education as defined by section 510 of Title V of the Social Security Act and agree not to provide a participating adolescent any other education regarding sexual conduct in the same setting.

Eligibility: As cited in 42 CFR 51a.3 (a), any public or private entity, including an Indian Tribe or tribal organization (as those terms are defined at 25 U.S.C. 450b) is eligible to apply for Federal funding. For example, State agencies responsible for the administration of the Section 510 Abstinence Education Grant, non-profit organizations and other community-based organizations, including faith-based organizations, are eligible to apply.

Funding Priorities or Preferences: Priority for funding will be given to entities in local communities which demonstrate a strong record of support for abstinence education among adolescents.

Special Considerations: To ensure that there is a national distribution of grantees, special consideration may be given to highly ranked applications in States that do not have a currently funded SPRANS Community-Based Abstinence Education Project Grant.

Review Criteria: Final criteria are included in the application kit.

Estimated Amount of This Competition: $30 million.

Estimated Number of Awards to be Made: Up to 90.

Estimated or Average Size of Each Award: $250,000 to $800,000.

Estimated Project Period: 3 years.

HRSA 03-058 Sprans Community-Based Abstinence Education Project Grants (CBAE)

Application Availability Date: November 15, 2002.

Letter of Intent Deadline: December 6, 2002.

Application Deadline: January 21, 2003.

Projected Award Date: June 1, 2003.

Program Contact Person: Michele Lawler.

Phone Number: (301) 443-5839.

E-mail: mlawler@hrsa.gov.

HRSA 03-059 New Investigators in Maternal and Child Heatlh (MCH) Research: Dissertation Awards (RDA)

Legislative Authority: Social Security Act, Title V, 42 U.S.C. 701.

CFDA Number: 93.110.

Purpose: The Maternal and Child Health Bureau supports the education and training of maternal and child health professionals who show promise to become leaders in the MCH field through teaching, research, clinical practice, and/or administration and policymaking. The purpose of this program is to increase opportunities for MCH trainees to conduct applied research, to strengthen the research training and experience of the next generation of MCH leaders, and to launch new investigators in the field by supporting research conducted by doctoral candidates in maternal and child health.

Eligibility: As cited in 42 CFR 51a.3(b), only public or nonprofit private institutions of higher learning may apply for training funds.

Funding Priorities or Preferences: Preference will be given to current recipients of MCHB-supported long-term leadership training grants.

Review Criteria: Final criteria are included in the application kit.

Estimated Amount of This Competition: $150,000.

Estimated Number of Awards To Be Made: 5.

Estimated or Average Size of Each Award: Up to $30,000.

Estimated Project Period: 1 Year.

HRSA 03-059 New Investigators in Maternal and Child Health (MCH) Research: Dissertation Awards (RDA)

Application Availability Date: December 2, 2002.

Letter of Intent Deadline: January 15, 2003.

Application Deadline: February 28, 2003.

Projected Award Date: July 1, 2003.

Program Contact Person: Hae Young Park.

Phone Number: (301) 443-2127.

E-mail: hpark@hrsa.gov.

HRSA 03-060 Maternal and Child Health (MCH) Research Program (MCHR)

Legislative Authority: Social Security Act, Title V, 42 U.S.C. 701.

CFDA Number: 93.110.

Purpose: The purpose of this program is to support applied research relating to maternal and child health services, which shows promise of substantial contribution to the advancement of current knowledge pool, and when used in States and communities should result in health and health services improvements.

Eligibility: As cited in 42 CFR 51a.3 (b), only public or nonprofit institutions of higher learning and public or private nonprofit agencies engaged in research or in programs relating to maternal and child health and/or services for children with special health care needs may apply.

Funding Priorities or Preferences: Fifteen priority issues/questions selected from 11 broadly demarcated areas of program concern, and keyed to goals and objectives of the Maternal and Child Health Bureau and HRSA strategic plans, will be given priority for funding. The priority consists of a 10 percent adjustment to the score assigned to an application when recommended for support by the MCH Research Review Committee. The 15 issues/questions selected from the 11 broadly demarcated areas of program concern are detailed in the guidance material contained in the application kit.

Review Criteria: Final criteria are included in the application kit.

Estimated Amount of This Competition: $2,000,000.

Estimated Number of Awards To Be Made: 9.

Estimated or Average Size of Each Award: $220,000.

Estimated Project Period: 1 to 4 years.

HRSA 03-060 Maternal and Child Health (MCH) Research Program (MCHR)

Application Availability Date: Continuously.

Application Deadline: August 15, 2002, March 3, 2003, August 15, 2003.

Projected Award Date: January 1, 2003, September 1, 2003, January 1, 2004.

Program Contact Person: Kishena C. Wadhwani.

Phone Number: (301) 443-2207.

E-mail: kwadhwan@hrsa.gov.

HRSA 03-061 Maternal and Child Heatlh (MCH) Leadership Education in Developmental-Behavioral Pediatrics (BPT)

Legislative Authority: Social Security Act, Title V, 42 U.S.C. 701.

CFDA Number: 93.110.

Purpose: The purpose of this grant is to enhance behavioral, psychosocial, and developmental aspects of pediatric care. This is to be accomplished through: (1) support for fellows in developmental-behavioral pediatrics preparing for leadership roles as teachers, investigators, and clinicians advancing the field of developmental/behavioral pediatrics; and (2) providing pediatric practitioners, residents, and medical students with essential biopsychosocial knowledge and clinical expertise.

Eligibility: As cited in 42 CFR 51a.3 (b), only public or nonprofit private institutions of higher learning may apply for training grants.

Funding Priorities or Preferences: Preference will be given to Departments of Pediatrics with an identifiable developmental/behavioral pediatrics unit/program within accredited medical schools in the United States. Special consideration may be given to programs that include a distance education component.

Review Criteria: Final criteria are included in the application kit.

Estimated Amount of This Competition: $1,300,000.

Estimated Number of Awards To Be Made: 8-10.

Estimated or Average Size of Each Award: $145,000.

Estimated Project Period: 5 years.

HRSA 03-061 Maternal and Child Health (MCH) Leadership Education in Developmental-Behavioral Pediatrics (BPT)

Application Availability Date: September 30, 2002.

Letter of Intent Deadline: October 28, 2002.

Application Deadline: December 20, 2002.

Projected Award Date: July 1, 2003.

Program Contact Person: Laura Kavanagh.

Phone Number: (301) 443-2254.

E-mail: lkavanagh@hrsa.gov.

HRSA 03-062 Maternal and Child Health (MCH) Centers for Leadership in Communication Disorders Education (CDT)

Legislative Authority: Social Security Act, Title V, 42 U.S.C. 701.

CFDA Number: 93.110.

Purpose: This training program focuses on leadership education in communication disorders through: (1) Graduate training of speech/language pathologists and audiologists for maternal and child health leadership roles in education, service, research, administration, and advocacy in programs providing health and related services for populations of infants, children, and adolescents, particularly children with special health care needs; (2) development and dissemination of curricula, distance learning teaching modules, and other educational resources to enhance MCH content in communication disorders training programs; and (3) continuing education, consultation, and technical assistance targeted to the needs of the MCH community.

Eligibility: As cited in 42 CFR 51a.3 (b), only public or nonprofit private institutions of higher learning may apply for training grants.

Funding Priorities or Preferences: Preference will be given to graduate programs in communication disorders focusing on the health of women, infants, children and adolescents. Special consideration may be given to programs that include a distance education component.

Review Criteria: Final criteria are included in the application kit.

Estimated Amount of This Competition: $408,000.

Estimated Number of Awards To Be Made: 3.

Estimated or Average Size of Each Award: $136,000.

Estimated Project Period: 5 years.

HRSA 03-062 Maternal and Child Health (MCH) Centers for Leadership in Communication Disorders Education (CDT)

Application Availability Date: November 15, 2002.

Letter of Intent Deadline: January 3, 2003.

Application Deadline: February 10, 2003.

Projected Award Date: July 1, 2003.

Program Contact Person: Aaron Favors.

Phone Number: (301) 443-0392.

E-mail: afavors@hrsa.gov.

HRSA 03-063 Leadership Education Excellence in Meternal and Child Health Nursing (NURT)

Legislative Authority: Social Security Act, Title V, 42 U.S.C. 701.

CFDA Number: 93.110.

Purpose: The purpose of this program is to provide graduate training of nurses for leadership roles in maternal and child health, including women's health and the care of pregnant women, infants, children, and adolescents in community/public health programs. This is to be accomplished by advancing the knowledge and skills of nursing health professionals and enhancing their effectiveness in: (a) Community/public health programs providing maternal and child health services; (b) academia; and/or (c) clinical settings.

Eligibility: As cited in 42 CFR 51a.3 (b), only public or nonprofit private institutions of higher learning may apply for training grants.

Funding Priorities or Preferences: Preference will be given to graduate programs in maternal and pediatric nursing in an accredited school of nursing. Special consideration may be given to programs that include a distance education component.

Review Criteria: Final criteria are included in the application kit.

Estimated Amount of This Competition: $1,100,000.

Estimated Number of Awards To Be Made: 5 to 7.

Estimated or Average Size of Each Award: $180,000.

Estimated Project Period: 5 Years.

HRSA 03-063 Leadership Education Excellence in Maternal and Child Health Nursing (NURT)

Application Availability Date: October 25, 2002.

Letter of Intent Deadline: November 22, 2002.

Application Deadline: January 17, 2003.

Projected Award Date: July 1, 2003.

Program Contact Person: Nanette H. Pepper.

Phone Number: (301) 443-6445.

E-mail: npepper@hrsa.gov.

HRSA 03-064 Leadership Education Excellence in Maternal and Child Health Nutrition (NUTT)

Legislative Authority: Social Security Act, Title V, 42 U.S.C. 701.

CFDA Number: 93.110.

Purpose: This program provides graduate training for nutritionists to assume leadership roles in improving the nutritional status of women, infants, children, and adolescents. The training will prepare program participants to become leaders in public health programs, clinical settings, and/or academic settings.

Eligibility: As cited in 42 CFR 51a.3 (b), only public or nonprofit private institutions of higher learning may apply for training grants.

Funding Priorities or Preferences: Accredited institutions with an established public health nutrition graduate program will be given preference. Special consideration may be given to programs that include a distance education component.

Review Criteria: Final criteria are included in the application kit.

Estimated Amount of This Competition: $1,100,000.

Estimated Number of Awards To Be Made: 6 to 7.

Estimated or Average Size of Each Award: $180,000.

Estimated Project Period: 5 Years.

HRSA 03-064 Leadership Education Excellence in Maternal and Child Health Nutrition (NUTT)

Application Availability Date: October 25, 2002.

Letter of Intent Deadline: November 22, 2002.

Application Deadline: January 17, 2003.

Projected Award Date: July 1, 2003.

Program Contact Person: Denise Sofka.

Phone Number: (301) 443-0344.

E-mail: dsofka@hrsa.gov.

HRSA 03-065 Maternal and Child Health (MCH) Centers for Leadership in Public Health Social Work Education (SWT)

Legislative Authority: Social Security Act, Title V, 42 U.S.C. 701.

CFDA Number: 93.110.

Purpose: To provide a national focus on leadership in public health social work education through: (1) Graduate training of public health social workers for leadership roles in education, service, research, administration, and advocacy related to programs providing health and related services for populations of mothers and children (infants through adolescents), including those with special health care needs; (2) development and dissemination of curricula, teaching models and other educational resources to enhance MCH content in social work training programs; and (3) continuing education, consultation, and technical assistance in public health social work targeted to the needs of the MCH community.

Eligibility: As cited in 42 CFR 51a.3 (b), only public or nonprofit private institutions of higher learning may apply for training grants.

Funding Priorities or Preferences: Preference will be given to graduate programs whose curricula focus on both social work and public health. Programs may be in Schools of Social Work accredited by the Council on Social Work Education (CSWE), or in Schools of Public Health with a social work emphasis accredited by the Council on Education in Public Health (CEPH). Joint degree programs must have a documented affiliation agreement. Special consideration may be given to programs that include a distance education component.

Review Criteria: Final criteria are included in the application kit.

Estimated Amount of This Competition: $420,000.

Estimated Number of Awards To Be Made: 3.

Estimated or Average Size of Each Award: $140,000.

Estimated Project Period: 5 years.

HRSA 03-065 Maternal and Child Health (MCH) Centers for Leadership in Public Health Social Work Education (SWT)

Application Availability Date: October 25, 2002.

Letter of Intent Deadline: November 22, 2002.

Application Deadline: January 17, 2003.

Projected Award Date: July 1, 2003.

Program Contact Person: Diana L. Rule.

Phone Number: (301) 443-2190.

E-mail: drule@hrsa.gov.

HRSA 03-066 Continuing Education and Development Collaborative Office Rounds (CECOR)

Legislative Authority: Social Security Act, Title V, 42 U.S.C. 701.

CFDA Number: 93.110.

Purpose: To foster joint pediatrics-child psychiatry continuing education in the psychosocial developmental aspects of child health, utilizing a study group approach that emphasizes the practical challenges confronted by community based practitioners. Specific objectives must: (1) Enhance understanding of psychosocial aspects of child development, disorders, and disability and increase practitioners' ability to help children and families deal with these issues; (2) expand power to discriminate between transient disturbances and more serious psychiatric disorders which require referral as needed; (3) promote collaboration between pediatricians and child psychiatrists; and (4) facilitate a more comprehensive approach to health supervision, such as outlined in Bright Futures: Guidelines for Health Supervision of Infants, Children and Adolescents.

Eligibility: As cited in 42 CFR 51a.3 (b), only public or nonprofit private institutions of higher learning may apply for training grants.

Funding Priorities or Preferences: Departments of Pediatrics and Divisions/Departments of Child Psychiatry in accredited U.S. Medical Schools. Either program may submit the application, but they must have a documented agreement to develop and implement the training jointly. Medical schools that have multiple pediatrics and/or child psychiatry programs are limited to one application. Special consideration may be given to programs that include a distance education component.

Review Criteria: Final criteria are included in the application kit.

Estimated Amount of This Competition: $180,000.

Estimated Number of Awards To Be Made: 12.

Estimated or Average Size of Each Award: $15,000.

Estimated Project Period: 5 years.

HRSA 03-066 Continuing Education and Development Collaborative Office Rounds (CECOR)

Application Availability Date: September 30, 2002.

Letter of Intent Deadline: October 28, 2002.

Application Deadline: December 9, 2002.

Projected Award Date: July 1, 2003.

Program Contact Person: Diana L. Rule.

Phone Number: (301) 443-2190.

E-mail: drule@hrsa.gov.

HRSA 03-067 HRSA/MCHB Doctoral Support Training Program: Awards for Enhancement of Epidemiology Applied to MCH (EPI)

Legislative Authority: Social Security Act, Title V, 42 U.S.C. 701.

CFDA Number: 93.110.

Purpose: The Maternal and Child Health Bureau is committed to developing and enhancing MCH epidemiologic capacity at the State and local level. The purpose of this program is to increase the number of doctoral candidates who elect a relevant MCH epidemiologic analytic issue, applied to the maternal and child population, as the basis for their research and dissertation, utilizing program information and data from a state, county, or city department of health. Candidates are to produce creative, well thought out, dissertation topics of interest that reflect the current trend of MCH and health services at the State and local level. Collaboration with a State or local department of health for the doctoral research is strongly recommended.

Eligibility: As cited in 42 CFR 51a.3 (b), only public or nonprofit private institutions of higher learning may apply for training grants.

Special Considerations: Special considerations will be given to those schools previously funded under this grant program.

Estimated Amount of This Competition: $234,000.

Estimated Number of Awards To Be Made: 9.

Estimated or Average Size of Each Award: $26,000.

Estimated Project Period: 3 years.

HRSA 03-067 HRSA/MCHB Doctoral Support Training Program: Awards for Enhancement of Epidemiology Applied to MCH (EPI)

Application Availability Date: August 16, 2002.

Letter of Intent Deadline: September 16, 2003.

Application Deadline: November 15, 2002.

Projected Award Date: March 31, 2003.

Program Contact Person: Christina Park.

Phone Number: (301) 443-0755.

E-mail: Cpark1@hrsa.gov.

HRSA 03-068 Healthy Tomorrows Partnership for Children Program (HTPC)

Legislative Authority: Social Security Act, Title V, 42 U.S.C. 701.

CFDA Number: 93.110.

Purpose: The purpose of this program is to stimulate innovative community-based programs that employ prevention strategies to promote access to health care for mothers and children nationwide. The intent of this program is: (1) To support the development of family-centered, community-based initiatives that plan and implement innovative and cost-effective approaches for focusing resources to promote community defined preventive child health and developmental objectives for vulnerable children and their families, especially those with limited access to quality health services; (2) foster/promote collaboration among community organizations, individuals, agencies, businesses, and families; (3) involve pediatricians and other pediatric health professionals in community-based service programs; and (4) build community and statewide partnerships among professionals in health, education, social services, government, and business to achieve self-sustaining programs to assure healthy children and families.

Matching or Cost Sharing Requirement: The applicant must demonstrate the capability to meet cost participation goals. In their second and subsequent years, Healthy Tomorrows Partnership For Children Program (HTPCP) projects are expected to have non-Federal matching funds equal to two times the Federal HTPCP grant award. Non-Federal funds must come from alternate non-Federal sources including, but not limited to, individuals, corporations, foundations, State and local agencies, in-kind services/resources, and/or others.

Eligibility: As cited in 42 CFR 51a.3 (a), any public or private entity, including an Indian tribe or tribal organization (as those terms are defined at 25 U.S.C. 450b) is eligible to apply for Federal funding. Community-based organizations, including faith-based organizations, are eligible to apply.

Special Considerations: In the interest of equitable geographic distribution, special consideration for funding may be given to projects from States without a currently funded project in this category. These States are: Alabama, Delaware, Georgia, Hawaii, Idaho, Indiana, Iowa, Kansas, Kentucky, Louisiana, Maine, Maryland, Mississippi, Missouri, Montana, Nevada, New Hampshire, New Jersey, North Carolina, North Dakota, West Virginia, Wisconsin, Wyoming, American Samoa, Commonwealth of the Northern Mariana Islands, Federated States of Micronesia, Guam, Puerto Rico, Republic of Palau, Republic of the Marshall Islands, and the Virgin Islands.

Estimated Amount of This Competition: $400,000.

Estimated Number of Awards To Be Made: 8.

Estimated or Average Size of Each Award: $50,000.

Estimated Project Period: 5 years.

HRSA 03-068 Healthy Tomorrows Partnership for Children Program (HTPC)

Application Availability Date: August 20, 2002.

Letter of Intent Deadline: October 1, 2002.

Application Deadline: November 1, 2002.

Award Date: March 1, 2003.

Program Contact Person: Jose Belardo.

Phone Number: (301) 443-0757.

E-mail: jbelardo@hrsa.gov.

HRSA 03-069 State Systems Development Initiative (SSDI), Maternal and Child Health (MCH) Services Federal Set-Aside Program (SSDI)

Legislative Authority: Social Security Act, Title V, 42 USC 701.

CFDA Number: 93.110.

Purpose: The purpose of the State Systems Development Initiative is to assist State Agency MCH and Children with Special Health Care Needs (CSHCN) programs in the building of State and community service and information systems that improve the health of women and children.

During this time of government performance results accountability and demand for more accurate program data, the SSDI Program will be focused on improving data capacity in States. As part of ongoing needs assessment activities, States will be expected to make vigorous and determined efforts to identify and eliminate health disparities. States will also be expected to give special attention to responding to the core Health Status Indicator #8 regarding Data Capacity; i.e., establishing or improving the data linkages between birth records and (1) infant death certificates, (2) Medicaid eligibility or paid claims files, (3) Women Infant and Children (WIC) eligibility files, and (4) newborn screening files; and establishing or improving access to (1) hospital discharge surveys, (2) a birth defects surveillance system, (3) survey of recent mothers at least every two years, and (4) survey of adolescent health and behaviors at least every two years.

Eligibility: 42 CFR 51a.3.

Limited Competition: This competition is to the 59 State jurisdiction, or Territory Title V agencies.

Estimated Amount of This Competition: $5,300,000.

Estimated Number of Awards To Be Made: Up to 59.

Estimated Average Size of Each Award: $90,000.

Estimated Project Period: 3 years.

HRSA 03-069 State Systems Development Initiative (SSDI), Maternal and Child Health (MCH) Services Federal Set-Aside Program (SSDI)

Application Availability Date: December 18, 2002.

Application Deadline: March 18, 2003.

Projected Award Date: September 28, 2003.

Program Contact Person: C.J. Wellington.

Phone Number: (301) 443-2204.

E-mail address: cjwellington@hrsa.gov.

HRSA 03-070 Emergency Medical Services for Children (EMSC) Partnership Demonstration Grants (EMSCP)

Legislative Authority: Public Health Service Act, Section 1910, 42 USC 300w-9.

CFDA Number: 93.127.

Purpose: State partnership demonstration grants will fund activities that represent the steps to take in order to institutionalize EMSC within Emergency Medical Services (EMS) and to continue to improve and refine EMSC. Proposed activities should be consistent with documented needs in the State and should reflect a logical progression in enhancing pediatric capabilities. For example, funding might be used to: (1) Address problems identified in the course of a previous EMSC grant; (2) to increase the involvement of families in EMSC; (3) to improve linkages between local, regional, or State agencies; (4) to promulgate standards developed for one region of the State under previous funding to include the entire State; or (5) to assure effective triage of the child in physical or emotional crisis to appropriate facilities and/or other resources.

Eligibility: States and accredited schools of medicine are eligible applicants.

Funding Priorities or Preferences: Special consideration may be given to programs that include a distance education component.

Review Criteria: Final criteria are included in the application kit.

Estimated Amount of This Competition: $4,400,000.

Estimated Number of Awards To Be Made: 44.

Estimated or Average Size of Each Award: $100,000.

Estimated Project Period: 3 years.

HRSA 03-070 Emergency Medical Services for Children (EMSC) Partnership Demonstration Grants (EMSCP)

Application Availability Date: August 12, 2002.

Letter of Intent Deadline: September 12, 2002.

Application Deadline: November 12, 2002.

Projected Award Date: March 1, 2003.

Program Contact Person: Cindy R Doyle.

Phone Number: (301) 443-3888.

E-mail: cdoyle@hrsa.gov.

HRSA 03-071 Emergency Medical Services for Children (EMSC) Regional Symposium Supplemental Grants (EMSCS)

Legislative Authority: Social Security Act, Title V, 42 U.S.C. 701.

CFDA Number: 93.127.

Purpose: To provide supplemental funds to existing State Partnership Demonstration grantees for regional roundtable meetings that are convened for the purpose of knowledge sharing. The primary goal of the Emergency Medical Services for Children (EMSC) program is to improve the quality of care to children. In collaboration with schools of medicine, regional consortia of State EMS programs will meet annually to develop and evaluate improved procedures and protocols for treating children. Meetings will involve coordinating, exchanging, and demonstrating innovative activities of common interest to participating States, while facilitating a forum for knowledge transfer on EMSC related issues between individual care providers and care providing organizations.

Eligibility: Eligibility is limited to existing EMSC State Partnership Demonstration grantees.

Funding Priorities or Preferences: Special consideration may be given to programs that include a distance education component.

Review Criteria: Final criteria are included in the application kit.

Estimated Amount of This Competition: $350,000.

Estimated Number of Awards To Be Made: 8.

Estimated or Average Size of Each Award: $30,000—$50,000.

Estimated Project Period: 1 Year.

HRSA 03-071 Emergency Medical Services for Children (EMSC) Regional Symposium Supplemental Grants (EMSCS)

Application Availability Date: August 12, 2002.

Letter of Intent Deadline: September 12, 2002.

Application Deadline: November 12, 2002.

Projected Award Date: March 1, 2003.

Program Contact Person: Cindy R. Doyle.

Phone Number: (301) 443-3888.

E-mail: cdoyle@hrsa.gov.

HRSA 03-072 Traumatic Brain Injury (TBI) State Implementation Grants (TBII)

Legislative Authority: Public Health Service Act, Title XII, Section 1252, 42 U.S.C. 300d-52.

CFDA Number: 93.234.

Purpose: The purpose of this grant program is to improve health and other services for people who have sustained a traumatic brain injury (TBI). Implementation grants provide funding to assist States in moving toward statewide systems that assure access to comprehensive and coordinated TBI services.

Eligibility: State governments are eligible to apply. The application for Implementation funds may only come from the State agency designated as the lead for TBI services.

Matching Requirements: The State agrees to make available non-Federal contributions in an amount that is not less than $1 for each $2 of Federal funds provided under the grant. Non-Federal funds may be in cash or in kind.

Review Criteria: Final criteria are included in the application kit.

Estimated Amount of This Competition: $1,200,000.

Estimated Number of Awards To Be Made: 6.

Estimated or Average Size of Each Award: $200,000.

Estimated Project Period: 3 years.

HRSA 03-072 Traumatic Brain Injury (TBI) State Implementation Grants (TBII)

Application Availability Date: September 3, 2002.

Letter of Intent Deadline: November 4, 2002.

Application Deadline: December 2, 2002.

Projected Award Date: April 1, 2003.

Program Contact Person: Betty Hastings.

Phone Number: (301) 443-5599.

E-mail: bhastings@hrsa.gov.

HRSA 03-073 Traumatic Brain Injury (TBI) State Planning Grants (TBIP)

Legislative Authority: Public Health Service Act, Title XII, Section 1252, 42 U.S.C. 300d-52.

CFDA Number: 93.234.

Purpose: The purpose of this grant program is to improve health and other services for people who have sustained a traumatic brain injury (TBI). Planning grants provide funding to assist States in developing infrastructure as a prerequisite to receiving an implementation grant.

Eligibility: State governments are the only eligible applicants for funding. The application for Planning funds may only come from the State agency designated as the lead for TBI services.

Matching Requirements: The State agrees to make available non-Federal contributions in an amount that is not less than $1 for each $2 of Federal funds provided under the grant. Non-Federal funds may be in-cash or in-kind.

Review Criteria: Final criteria are included in the application kit.

Estimated Amount of This Competition: $225,000.

Estimated Number of Awards To Be Made: 3.

Estimated or Average Size of Each Award: $75,000.

Estimated Project Period: 2 years.

HRSA 03-073 Traumatic Brain Injury (TBI) State Planning Grants (TBIP)

Application Availability Date: September 3, 2002.

Letter of Intent Deadline: November 4, 2002.

Application Deadline: December 2, 2002.

Projected Award Date: April 1, 2003.

Program Contact Person: Betty Hastings.

Phone Number: (301) 443-5599.

E-mail: bhastings@hrsa.gov.

HRSA 03-074 Traumatic Brain Injury (TBI) Post-Demonstration (TBIPD)

Legislative Authority: Public Health Service Act, Title XII, Section 1252, 42 U.S.C. 300d-52.

CFDA Number: 93.234.

Purpose: Continuation of previously awarded demonstration projects. A State that received a grant under this section prior to the date of enactment of the Children's Health Act of 2000 may compete for new project grants under this section.

Eligibility: State governments are eligible to apply. The application for a TBI Post Demonstration Grant may only come from the State agency designated as the lead for TBI services.

Funding Priorities or Preferences: Preference for TBI Post Demonstration Grants will be given to States who have successfully completed a three-year TBI State Implementation Grant and have never received TBI Post Demonstration Grant funding.

Matching Requirements: The State agrees to make available non-Federal contributions in an amount that is not less than $1 for each $2 of Federal funds provided under the grant. Non-Federal funds may be in-cash or in-kind.

Review Criteria: Final criteria are included in the application kit.

Estimated Amount of This Competition: $600,000.

Estimated Number of Awards To Be Made: 6.

Estimated or Average Size of Each Award: $100,000.

Estimated Project Period: 1 year.

HRSA 03-074 Traumatic Brain Injury (TBI) Post-Demonstration (TBIPD)

Application Availability Date: September 4, 2002.

Letter of Intent Deadline: November 4, 2002.

Application Deadline: December 2, 2002.

Projected Award Date: April 1, 2003.

Program Contact Person: Betty Hastings.

Phone Number: (301) 443-5599.

E-mail: bhastings@hrsa.gov.

HRSA 03-075 Poison Control Centers Stabilization and Enhancement Grant Program, Incentive Grants (PCCSE)

Legislative Authority: The Poison Control Center Enhancement and Awareness Act, Section 6(a) of Public Law (P.L.) 106-174.

CFDA Number: 93.253.

Purpose: The goal of the Maternal and Child Health (MCH) Bureau Poison Control Centers Program is to promote a comprehensive system for the delivery of high quality poison control services nationwide. Funds disbursed under this grant program category must support projects which are designed to accomplish the following goal: to implement, improve or enhance systems development, efficiency and collaborative activity between centers.

Eligibility: Certified Poison Control Centers (PCCs) are eligible to apply.

Limited Competition: This competition is limited to the existing Poison Control Stabilization Grantees.

Review Criteria: Final criteria are included in the application kit.

Estimated Amount of This Competition: $1,800,000.

Estimated Number of Awards to be Made: 12.

Estimated or Average Size of Each Award: $150,000.

Estimated Project Period: 2 years.

HRSA 03-075 Poison Control Centers Stabilization and Enhancement Grant Program, Incentive Grants (PCCSE)

Application Availability Date: March 3, 2003.

Application Deadline: May 8, 2003.

Projected Award Date: September 1, 2003.

Program Contact Person: Carol Delany.

Phone Number: (301) 443-5848.

E-mail: cdelany@hrsa.gov.

HRSA 03-076 Poison Control Centers Stabilization and Enhancement Grant Program, Financial Stabilization Supplemental Grants (PCCFS)

Legislative Authority: The Poison Control Enhancement and Awareness Act, Section 6(a) of P.L. 106-174.

CFDA Number: 93.253.

Purpose: To provide access to poison control services to areas outside the continental U.S. This funding category will provide grant supplements to existing financial stabilization grantees who will provide support for poison control services to the U.S. Virgin Islands and will initiate access to the National toll-free Poison Control number to American Samoa in the Pacific Basin. Based upon this one-year experience, the program will determine measures that will be used to develop more permanent arrangements to assure these services to all U.S. territories. It is expected that expansion of services to the remainder of the Pacific Basin will follow in 2004.

Eligibility: Funding is limited to existing Financial Stabilization Grantees.

Review Criteria: Final criteria are included in the application kit.

Estimated Amount of This Competition: $60,000.

Estimated Number of Awards to be Made: 2.

Estimated or Average Size of Each Award: $30,000.

Estimated Project Period: 1 year.

HRSA 03-076 Poison Control Centers Stabilization and Enhancement Grant Program, Financial Stabilization Supplemental Grants (PCCFS)

Application Availability Date: March 3, 2003.

Application Deadline: May 8, 2003.

Projected Award Date: September 1, 2003.

Program Contact Person: Carol A. Delany.

Phone Number: (301) 443-5848.

E-mail: cdelany@hrsa.gov.

Office of Rural Health Policy

HRSA 03-077 Rural Health Outreach Grant (RHO)

Legislative Authority: Section 330A of the Public Health Service Act, 42 U.S.C. 254c.

CFDA Number: 93.912.

Purpose: The purpose of this demonstration grant program is to expand access to, coordinate, restrain the cost of, and improve the quality of essential health care services, including preventive and emergency services, through the development of health care networks in rural areas and regions. Funds are available for projects to support the initial direct delivery of health care and related services, and to expand existing services or to enhance health service delivery through education, promotion, and prevention programs. Networks which must be composed of at least three separately owned health care or social services organizations may comprise the same providers (e.g., all hospitals) or more diversified networks.

Eligibility: Rural public or nonprofit private organizations that are part of a network of at least three entities that support or provide the delivery of health care services and will work together to complete the proposed project are eligible. Geographic eligibility requirements are (1) the lead applicant organization must be located in a rural area or in a rural zip code of an urban county (list included in the application materials) and all services must be provided in a rural county. If the applicant is owned by or affiliated with an urban entity or health system the rural component may still apply as long as the rural entity can directly receive and administer the grant funds in the rural area; be in complete control in the planning, program management and financial management of the project; and, the urban parent organization assures the Office of Rural Health Policy in writing, that for this project, they will exert no control over or demand collaboration with the rural entity; or (2) the organization must be constituted exclusively to provide services to migrant and seasonal farm workers in rural areas and supported under Section 330(g) of the Public Health Service Act (these organizations are eligible regardless of the urban or rural location of the administrative headquarters); or (3) the project services will be delivered on Federally-designated tribal lands. Entities meeting eligibility requirements, that are non-profit, faith-based or community-based organizations are eligible to apply. We encourage applicants to consider how their proposals might use telehealth and/or new and emerging technologies to achieve their project goals. The advent of advanced communication tools such as distance learning, remote patient monitoring, personal data assistants (PDAs), interactive video, satellite broadcasting and store-and-forward technology are just some of the many health-care focused technological applications that can help improve access to care either directly or indirectly by improving the efficiency of local health care providers.

Funding Priorities or Preferences: Funding preference may be given to applicant networks that include (1) a majority of the health care providers serving in the area or region to be served by the network; (2) Federally-qualified health centers, rural health clinics, and local public health departments serving in the area or region; (3) outpatient mental health providers serving in the area or region; or (4) appropriate social service providers, such as agencies on aging, school systems, and providers under the women, infants and children program (WIC), to improve access to and coordination of health care services.

Funding priority will be given to applicants that utilize telehealth/technology in their projects.

Special Considerations: Applicant organization must be located in a rural area. The proposed project must be directed to and services must remain in the rural area. (A list of eligible rural areas is included in the application packet.)

Estimated Amount of This Competition: $8,928,000.

Estimated Number of Awards To Be Made: 50 for FY 2003 and 25 for 2004.

Estimated or Average Size of Each Award: $185,000.

Estimated Project Period: 3 years.

HRSA 03-077 Rural Health Outreach Grant (RHO)

Application Availability Date: June 17, 2002 for FY 2003 and June 16, 2003 for FY 2004.

Application Deadline: September 13, 2002 for FY 2003 and September 12, 2003 for FY 2004.

Projected Award Date: May 1, 2003 for FY 2003 and May 1, 2004 for FY 2004.

Program Contact Person: Lilly Smetana.

Phone Number: (301) 443-0835.

E-mail: lsmetana@hrsa.gov.

Technical Assistance Conference Call: Instant replay of July 31st technical assistance call available until August 30, 2002. Please call 800/925-4170, access code not necessary.

HRSA 03-078 Rural Health Network Development (RHN)

Legislative Authority: Section 330A of the Public Health Service Act, 42 U.S.C. 254c.

CFDA Number: 93.912.

Purpose: The purpose of this program is to support the development of health care networks in rural areas. Project funds are given to develop the organizational capabilities of these networks. The networks, which are tools for overcoming the fragmentation and vulnerability of the health care delivery system in rural areas, must be composed of at least three separately owned health care organizations. As such, the network supports rural health care organizations in a variety of ways, thereby strengthening the local delivery system to meet the health care needs of rural communities.

Eligibility: Rural public or nonprofit private organizations that are part of a network of at least three entities that support the delivery of health care services and will work together to complete the proposed project are eligible. Geographic eligibility requirements are (1) the lead applicant organization must be located in a rural area or in a rural zip code of an urban county (list included in the application materials) and all services must be provided in a rural county. If the applicant is owned by or affiliated with an urban entity or health system the rural component may still apply as long as the rural entity can directly receive and administer the grant funds in the rural area; be in complete control in the planning, program management and financial management of the project; and, the urban parent organization assures the Office of Rural Health Policy in writing, that for this project, they will exert no control over or demand collaboration with the rural entity; or (2) the organization must be constituted exclusively to provide services to migrant and seasonal farm workers in rural areas and supported under section 330(g) of the Public Health Service Act (these organizations are eligible regardless of the urban or rural location of the administrative headquarters); or (3) the project services will be delivered on Federally-designated tribal lands. Entities meeting eligibility requirements, that are non-profit, faith-based or community-based organizations are eligible to apply.

We encourage applicants to consider how their proposals might use telehealth, and/or new and emerging technologies to achieve their project goals. The advent of advanced communication tools such as distance learning, remote patient monitoring, personal data assistants (PDAs), interactive video, satellite broadcasting and store-and-forward technology are just some of the many health-care focused technological applications that can help improve access to care either directly or indirectly by improving the efficiency of local health care providers.

Funding Priorities or Preferences: Funding preference may be given to applicant networks that include (1) a majority of the health care providers serving in the area or region to be served by the network; (2) Federally-qualified health centers, rural health clinics, and local public health departments serving in the area or region; (3) outpatient mental health providers serving in the area or region; or (4) appropriate social service providers, such as agencies on aging, school systems, and providers under the women, infants and children program (WIC), to improve access to and coordination of health care services.

Funding priority will be given to applicants that utilize telehealth/technology in their projects.

Special Considerations: Applicant organization must be located in a rural area. The proposed project must remain in the rural area. (A list of eligible rural areas is included in the application packet.)

Estimated Amount of This Competition: $8,900,000.

Estimated Number of Awards To Be Made: 50 for FY 2003 and 25 for FY 2004.

Estimated or Average Size of Each Award: $182,000.

Estimated Project Period: 3 years.

HRSA 03-078 Rural Health Network Development (RHN)

Application Availability Date: June 17, 2002 for FY 2003 and June 16, 2003 for FY 2004.

Application Deadline: September 20, 2002 for FY 2003 and September 19, 2003 for FY 2004.

Projected Award Date: May 1, 2003 for FY 2003 and May 1, 2004 for FY 2004.

Program Contact Person: Lilly Smetana.

Phone Number: (301) 443-0835.

E-mail: lsmetana@hrsa.gov.

Technical Assistance Conference Call: Instant replay of July 31st technical assistance call available until August 30, 2002. Please call 800/925-4170, access code not necessary.

Office of Special Programs

HRSA 03-079 Social and Behavioral Interventions To Increase Organ and Tissue Donation (SBITD)

Legislative Authority: Public Health Service Act Section 371(a)(3), 42 U.S.C. 273(a)(3).

CFDA Number: 93.134.

Purpose: The goal of this grant program is to assist eligible entities in the evaluation of, or the implementation and evaluation of, highly promising strategies and approaches that can serve as model interventions for increasing organ and tissue donation. All projects must have rigorous methodology and evaluation components capable of ascertaining the effectiveness of the intervention(s). Applications may focus on pilot projects or replications of interventions already shown to be effective in a pilot study. Projects that propose creative interventions, including those that integrate telehealth and distance learning, are also of interest.

Eligibility: Federally-designated organ procurement organizations or other private non-profit community or faith-based organizations which are part of a consortium of organizations consisting of at least one transplant related organization and one research related organization are eligible to apply.

Estimated Amount of This Competition: $5,000,000.

Estimated Number of Awards To Be Made: 20.

Estimated or Average Size of Each Award: $250,000 per year.

Estimated Project Period: 1-3 years.

HRSA 03-079 Social and Behavioral Interventions To Increase Organ and Tissue Donation (SBIDT)

Application Availability Date: October 18, 2002.

Letter of Intent Deadline: January 10, 2003.

Application Deadline: March 4, 2003.

Projected Award Date: July 15, 2003.

Program Contact Person: Mary L. Ganikos.

Phone Number: (301) 443-8665.

E-mail: mganikos@hrsa.gov.

HRSA 03-080 Clinical Interventions To Increase Organ Procurement (CIOP)

Legislative Authority: Public Health Service Act Section 371(a)(3), 42 U.S.C. 273(a)(3).

CFDA Number: 93.134.

Purpose: The goal of this grant program is to assist eligible entities in the implementation, evaluation, and dissemination of model interventions with the greatest potential for increasing the number of heart-beating and non-heart-beating deceased donors and/or the number of organs that are recovered from such donors. All projects must have rigorous methodology and evaluation components capable of ascertaining the effectiveness of the intervention(s). Projects can employ qualitative studies, quantitative research, or empiric work. Eligible interventions could focus on new and/or improved methods to optimize hemodynamic stability after brain death; improve donor organ evaluation practices; investigate time-efficient technologies to match donor organs with compatible recipients; and identify appropriate non-heart-beating donation candidates. Interventions focusing on the use of information and communication technology to disseminate donor-related information or to increase the efficiency of organ placements are encouraged.

Eligibility: An applicant organization must be a Federally-designated organ procurement organization (OPO) or a consortium of relevant entities or organizations. One organizational member (the applicant organization) carries overall responsibility for project leadership. The applicant organization must be a Federally-designated OPO or other private, non-profit organization actively involved in transplantation, or a Federal institution in accordance with section 235 of the Public Health Service Act.

Estimated Amount of This Competition: $3,000,000.

Estimated Number of Awards To Be Made: 13.

Estimated or Average Size of Each Award: $230,000.

Estimated Project Period: 1-3 years.

HRSA 03-080 Clinical Interventions To Increase Organ Procurement (CIOP)

Application Availability Date: November 1, 2002.

Letter of Intent Deadline: January 24, 2003.

Application Deadline: March 18, 2003.

Projected Award Date: July 31, 2003.

Program Contact Person: Virginia McBride; Laura St. Martin.

Phone Number: (301) 443-7577.

E-mail: vmcbride@hrsa.gov; lstmartin@hrsa.gov.

[FR Doc. 02-20021 Filed 8-8-02; 8:45 am]

BILLING CODE 4165-15-P